ENVIRONMENTAL PROTECTION AGENCY

40 CFR Part 81

[EPA-HQ-OAR-2008-0476; FRL-9668-2]

RIN 2060-AP37

Air Quality Designations for the 2008 Ozone National Ambient Air Quality Standards

AGENCY: Environmental Protection Agency (EPA).

ACTION: Final rule.

SUMMARY: This rule establishes initial air quality designations for most areas in the United States, including areas of Indian country, for the 2008 primary and secondary national ambient air quality standards (NAAQS) for ozone. The designations for several counties in Illinois, Indiana, and Wisconsin that the EPA is considering for inclusion in the Chicago nonattainment area will be designated in a subsequent action, no later than May 31, 2012. Areas designated as nonattainment are also being classified by operation of law according to the severity of their air quality problems. The classification categories are Marginal, Moderate, Serious, Severe, and Extreme. The EPA is establishing the air quality thresholds that define the classifications in a separate rule that the EPA is signing and publishing in the Federal Register on the same schedule as these designations. In accordance with that separate rule, six nonattainment areas in California are being reclassified to a higher classification.

DATES: The effective date of this rule is July 20, 2012.

ADDRESSES: The EPA has established a docket for this action under Docket ID NO. EPA-HQ-OAR-2008-0476. All documents in the docket are listed in the index at http://www.regulations.gov. Although listed in the index, some information is not publicly available, i.e., Confidential Business Information or other information whose disclosure is restricted by statute. Certain other material, such as copyrighted material, is not placed on the Internet and will be publicly available only in hard copy form. Publicly available docket materials are available either electronically in the docket or in hard copy at the Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Office of Air and Radiation Docket and Information Center is (202) 566-1742.

In addition, the EPA has established a Web site for this rulemaking at: http://www.epa.gov/ozonedesignations. The Web site includes the EPA's final state and tribal designations, as well as state initial recommendation letters, the EPA modification letters, technical support documents, responses to comments and other related technical information.

FOR FURTHER INFORMATION CONTACT: Carla Oldham, Office of Air Quality Planning and Standards, U.S. Environmental Protection Agency, Mail Code C539-04, Research Triangle Park, NC 27711, phone number (919) 541-3347 or by email at: oldham.carla@epa.gov.

Regional Office Contacts

Region I—Richard Burkhart (617) 918-1664

Region II—Bob Kelly (212) 637-3709

Region III—Maria Pino (215) 814-2181

Region IV—Jane Spann (404) 562-9029

Region V—Edward Doty (312) 886-6057

Region VI—Guy Donaldson (214) 665-7242

Region VII—Lachala Kemp (913) 551-7214

Region VIII—Scott Jackson (303) 312-6107

Region IX—John J. Kelly (415) 947-4151

Region X—Claudia Vaupel (206) 553-6121

SUPPLEMENTARY INFORMATION: The public may inspect the rule and state-specific technical support information at the following locations:

Regional offices | States
Dave Conroy, Chief, Air Programs Branch, EPA New England, 1 Congress Street, Suite 1100, Boston, MA 02114-2023, (617) 918-1661 | Connecticut, Maine, Massachusetts, New Hampshire, Rhode Island, and Vermont.
Raymond Werner, Chief, Air Programs Branch, EPA Region 2, 290 Broadway, 25th Floor, New York, NY 10007-1866, (212) 637-3706 | New Jersey, New York, Puerto Rico, and Virgin Islands.
Cristina Fernandez, Branch Chief, Air Quality Planning Branch, EPA Region 3, 1650 Arch Street, Philadelphia, PA 19103-2187, (215) 814-2178 | Delaware, District of Columbia, Maryland, Pennsylvania, Virginia, and West Virginia.
R. Scott Davis, Branch Chief, Air Planning Branch, EPA Region 4, Sam Nunn Atlanta Federal Center, 61 Forsyth, Street SW., 12th Floor, Atlanta, GA 30303, (404) 562-9127 | Alabama, Florida, Georgia, Kentucky, Mississippi, North Carolina, South Carolina, and Tennessee.
John Mooney, Chief, Air Programs Branch, EPA Region 5, 77 West Jackson Street, Chicago, IL 60604, (312) 886-6043 | Illinois, Indiana, Michigan, Minnesota, Ohio, and Wisconsin.
Guy Donaldson, Chief, Air Planning Section, EPA Region 6, 1445 Ross Avenue, Dallas, TX 75202, (214) 665-7242 | Arkansas, Louisiana, New Mexico, Oklahoma, and Texas.
Joshua A. Tapp, Chief, Air Programs Branch, EPA Region 7, 901 North 5th Street, Kansas City, Kansas 66101-2907, (913) 551-7606 | Iowa, Kansas, Missouri, and Nebraska.
Monica Morales, Leader, Air Quality Planning Unit, EPA Region 8, 1595 Wynkoop Street, Denver, CO 80202-1129, (303) 312-6936 | Colorado, Montana, North Dakota, South Dakota, Utah, and Wyoming.
Lisa Hanf, Air Planning Office, EPA Region 9, 75 Hawthorne Street, San Francisco, CA 94105, (415) 972-3854 | American Samoa, Arizona, California, Guam, Hawaii, Nevada, and Northern Mariana Islands.
Debra Suzuki, Manager, State and Tribal Air Programs, EPA Region 10, Office of Air, Waste, and Toxics, Mail Code OAQ-107, 1200 Sixth Avenue, Seattle, WA 98101, (206) 553-0985 | Alaska, Idaho, Oregon, and Washington.

Table of Contents

The following is an outline of the preamble.

I. Preamble Glossary of Terms and Acronyms

II. What is the purpose of this action?

III. What is ozone and how is it formed?

IV. What are the 2008 ozone NAAQS and the health and welfare concerns they address?

V. What are the CAA requirements for air quality designations?

VI. What is the chronology for this designations rule and what guidance did the EPA provide?

VII. What air quality data has the EPA used to designate areas for the 2008 ozone NAAQS?

VIII. What are the ozone air quality classifications?

IX. What is the reclassification of six California nonattainment areas?

X. Can states request that areas within 5 percent of the upper or lower limit of a classification threshold be reclassified?

XI. How do designations affect Indian country?

XII. Where can I find information forming the basis for this rule and exchanges between EPA, states, and tribes related to this rule?

XIII. Statutory and Executive Order Reviews

A. Executive Order 12866: Regulatory Planning and Review and Executive Order 13563: Improving Regulations and Regulatory Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer and Advancement Act (NTTAA)

J. Executive Order 12898: Federal Actions To Address Environmental Justice in Minority Populations and Low-Income Populations

K. Congressional Review Act

L. Judicial Review

I. Preamble Glossary of Terms and Acronyms

The following are abbreviations of terms used in the preamble.

APA Administrative Procedure Act

CAA Clean Air Act

CFR Code of Federal Regulations

DC District of Columbia

EPA Environmental Protection Agency

FR Federal Register

NAAQS National Ambient Air Quality Standards

NOX Nitrogen Oxides

NTTAA National Technology Transfer and Advancement Act

PPM Parts per million

RFA Regulatory Flexibility Act

UMRA Unfunded Mandate Reform Act of 1995

TAR Tribal Authority Rule

U.S. United States

U.S.C. United States Code

VCS Voluntary Consensus Standards

VOC Volatile Organic Compounds

II. What is the purpose of this action?

The purpose of this action is to announce and promulgate initial area designations for most areas of the country with respect to the 2008 primary and secondary NAAQS for ozone, in accordance with the requirements of Clean Air Act (CAA) section 107(d). The EPA is designating areas as either nonattainment, unclassifiable, or unclassifiable/attainment. In addition, the nonattainment areas are classified by operation of law according to the severity of their ozone air quality problems and six areas in California are being reclassified immediately to a higher classification. The classification categories are Marginal, Moderate, Serious, Severe, and Extreme. The EPA is establishing the air quality thresholds that define the classifications in a separate rule titled, “Implementation of the 2008 National Ambient Air Quality Standards for Ozone: Nonattainment Area Classifications Approach, Attainment Deadlines and Revocation of the 1997 Ozone Standards for Transportation Conformity Purposes” (Classifications Rule). In that separate rule, the EPA also codified the immediate reclassification of six areas in California. (See 40 CFR 51.1103(d).) The list of all areas being designated in each state and in areas of Indian county appear in the tables at the end of this final rule (amendments to 40 CFR 81.301-356). For areas designated as nonattainment, the tables include the area's classification by operation of law or the area's reclassification in accordance with 40 CFR 51.1103(d).

In this action, the EPA is designating 45 areas as nonattainment. Seven of the areas are multi-state areas. The EPA is designating one area, Uinta Basin, WY, as unclassifiable because there is existing non-regulatory monitoring in the area that detected levels of ozone that exceed the NAAQS. Regulatory monitoring has been conducted in that area since April 2011, and thus there are not yet three consecutive years of certified ozone monitoring data available that can be used to determine the area's attainment status. Consistent with previous initial area designations for ozone, the EPA is designating all the remaining state areas and Indian country as unclassifiable/attainment.

Consistent with the EPA's “Policy for Establishing Separate Air Quality Designations for Areas of Indian Country” (December 20, 2011), the EPA is designating four areas of Indian country separately from their adjacent/surrounding state areas.¹ The lands of the Pechanga Tribe and the Morongo Tribe in Southern California are being designated as separate nonattainment areas, while two additional areas in Indian country are being designated as separate unclassifiable/attainment areas.

¹ For more information, visit http://www.epa.gov/ttncaaa1/t1/memoranda/20120117indiancountry.pdf.

The EPA is basing the designations on the most recent certified ozone air quality monitoring data and an evaluation of factors to assess contributions to nonattainment in nearby areas. State areas designated as nonattainment are subject to planning and emission reduction requirements as specified in the CAA. Requirements vary according to an area's classification. The EPA will be proposing shortly an implementation rule to assist states in the development of state implementation plans for attaining the ozone standards.

III. What is ozone and how is it formed?

Ground-level ozone, O3, is a gas that is formed by the reaction of volatile organic compounds (VOCs) and oxides of nitrogen (NOX) in the atmosphere in the presence of sunlight. These precursor emissions are emitted by many types of pollution sources, including power plants and industrial emissions sources, on-road and off-road motor vehicles and engines, and smaller sources, collectively referred to as area sources. Ozone is predominately a summertime air pollutant. However, high ozone concentrations have also been observed in cold months, where a few high elevation areas in the Western U.S. have experienced high levels of local VOC and NOX emissions that have formed ozone when snow is on the ground and temperatures are near or below freezing. Ozone and ozone precursors can be transported to an area from sources in nearby areas or from sources located hundreds of miles away. For purposes of determining ozone nonattainment area boundaries, the CAA requires the EPA to include areas that contribute to nearby violations of the NAAQS.

IV. What are the 2008 ozone NAAQS and the health and welfare concerns they address?

On March 12, 2008, the EPA revised both the primary and secondary NAAQS for ozone to a level of 0.075 parts per million (ppm) (annual fourth-highest daily maximum 8-hour average concentration, averaged over 3 years) to provide increased protection of public health and the environment.² The 2008 ozone NAAQS retains the same general form and averaging time as the 0.08 ppm NAAQS set in 1997, but is set at a more protective level.

² See 73 FR 16436; March 27, 2008. For a detailed explanation of the calculation of the 3-year 8-hour average, see 40 CFR part 50, Appendix I.

Ozone exposure also has been associated with increased susceptibility to respiratory infections, medication use by asthmatics, doctor visits, and emergency department visits and hospital admissions for individuals with respiratory disease. Ozone exposure may also contribute to premature death, especially in people with heart and lung disease. The secondary ozone standard was revised to protect against adverse welfare effects including impacts to sensitive vegetation and forested ecosystems.

V. What are the CAA requirements for air quality designations?

When the EPA promulgates a new or revised NAAQS, the EPA is required to designate areas as nonattainment, attainment, or unclassifiable, pursuant to section 107(d)(1) of the CAA. The CAA requires the EPA to complete the initial area designation process within 2 years of promulgating the NAAQS. However, if the Administrator has insufficient information to make these designations within that time frame, the EPA has the authority to extend the deadline for designation decisions by up to 1 additional year.

By not later than 1 year after the promulgation of a new or revised NAAQS, each state governor is required to recommend air quality designations, including the appropriate boundaries for areas, to the EPA. The EPA reviews those state recommendations and is authorized to make any modifications the Administrator deems necessary. The statute does not define the term “necessary,” but the EPA interprets this to authorize the Administrator to modify designations that did not meet the statutory requirements or were otherwise inconsistent with the facts or analysis deemed appropriate by the EPA. If the EPA is considering modifications to a state's initial recommendation, the EPA is required to notify the state of any such intended modifications to its recommendation not less than 120 days prior to the EPA's promulgation of the final designation. These notifications are commonly known as the “120-day letters.” If the state does not agree with the EPA's intended modification, it then has an opportunity to respond to the EPA to demonstrate why it believes the modification proposed by the EPA is inappropriate. Even if a state fails to provide any recommendation for an area, in whole or in part, the EPA still must promulgate a designation that the Administrator deems appropriate.

Section 107(d)(1)(A)(i) of the CAA defines a nonattainment area as, “any area that does not meet (or that contributes to ambient air quality in a nearby area that does not meet) the national primary or secondary ambient air quality standard for the pollutant.” If an area meets either prong of this definition, then the EPA is obligated to designate the area as “nonattainment.” Section 107(d)(1)(A)(iii) provides that any area that the EPA cannot designate on the basis of available information as meeting or not meeting the standards should be designated as “unclassifiable.” Historically for ozone, the EPA designates the remaining areas as “unclassifiable/attainment” indicating that the areas either have attaining air quality monitoring data or that air quality information is not available because the areas are not monitored, and the EPA has not determined that the areas contribute to a violation in a nearby area.

The EPA believes that section 107(d) provides the agency with discretion to determine how best to interpret the terms “contributes to” and “nearby” in the definition of a nonattainment area for a new or revised NAAQS, given considerations such as the nature of a specific pollutant, the types of sources that may contribute to violations, the form of the standards for the pollutant, and other relevant information. In particular, the EPA believes that the statute does not require the agency to establish bright line tests or thresholds for what constitutes “contribution” or “nearby” for purposes of designations.³ Similarly, the EPA believes that the statute permits the EPA to evaluate the appropriate application of the term “area” as may be appropriate for a particular NAAQS.

³ This view was confirmed in Catawba County v. EPA, 571 F.3d 20 (D.C. Cir. 2009).

Section 301(d) of the CAA authorizes the EPA to approve eligible Indian tribes to implement provisions of the CAA on Indian reservations and other areas within the tribes' jurisdiction. The Tribal Authority Rule (TAR) (40 CFR Part 49), which implements section 301(d) of the CAA, sets forth the criteria and process for tribes to apply to the EPA for eligibility to administer CAA programs. The designations process contained in section 107(d) of the CAA is included among those provisions determined to be appropriate by the EPA for treatment of tribes in the same manner as states. Under the TAR, tribes generally are not subject to the same submission schedules imposed by the CAA on states. As authorized by the TAR, tribes may seek eligibility to submit designation recommendations to the EPA.

VI. What is the chronology for this designations rule and what guidance did the EPA provide?

Within one year after a new or revised air quality standard is established, the CAA requires the governor of each state to submit to the EPA a list of all areas in the state, with recommendations for whether each area meets the standard. On December 4, 2008, the EPA issued guidance for states and tribal agencies to use for this purpose. (See memorandum from Robert J. Meyers, Principal Deputy Assistant Administrator, to Regional Administrators, Regions I-X, titled, “Area Designations for the 2008 Revised Ozone National Ambient Air Quality Standards.) The guidance provided the anticipated timeline for designations and identified important factors that the EPA recommended states and tribes consider in making their recommendations. These factors include air quality data, emissions data, traffic and commuting patterns, growth rates and patterns, meteorology, geography/topography, and jurisdictional boundaries. In the guidance, the EPA asked that states and tribes submit their designation recommendations, including appropriate area boundaries, to the EPA by March 12, 2009. Later in the process, the EPA issued 2 new guidance memoranda related to designating areas of Indian county. (See December 20, 2011, memorandum from Stephen D. Page, Director, Office of Air Quality Planning and Standards, to Regional Air Directors, Regions I-X, titled, “Policy for Establishing Separate Air Quality Designations for Areas of Indian Country,” and December 20, 2011, memorandum from Stephen D. Page, Director, Office of Air Quality Planning and Standards, to Regional Air Directors, Regions I-X, titled, “Guidance to Regions for Working with Tribes during the National Ambient Air Quality Standards (NAAQS) Designations Process.”)

Under the initial schedule, the EPA intended to complete the initial designations for the 2008 ozone NAAQS on a 2-year schedule, by March 12, 2010. On September 16, 2009, the EPA announced that it would initiate a rulemaking to reconsider the 2008 ozone NAAQS for various reasons, including the fact that the 0.075 ppm level fell outside of the range recommended by the Clean Air Scientific Advisory Committee, the independent group that provides advice to the EPA Administrator on the technical bases for the EPA's NAAQS. The EPA signed the proposed reconsideration on January 6, 2010. (See 75 FR 2938; January 19, 2010.) Because of the significant uncertainty the ozone NAAQS reconsideration created regarding the continued applicability of the 2008 NAAQS, the EPA determined there was insufficient information to designate areas within 2 years of promulgation of the NAAQS. Therefore, the EPA used its authority under CAA section 107(d)(1)(B) to extend the deadline for designating areas by 1 year, until March 12, 2011. (See 75 FR 2936; January 19, 2010.) The EPA has not taken final action on the proposed reconsideration; thus, the current NAAQS for ozone remains at 0.075 ppm, as established in 2008.

After the March 12, 2011, designation deadline passed, WildEarth Guardians and Elizabeth Crowe (WildEarth Guardians) filed a lawsuit seeking to compel the EPA to take action to designate areas for the 2008 ozone NAAQS. WildEarth Guardians and Elizabeth Crowe v. Jackson (D. Ariz. 11-CV-01661). The EPA and WildEarth Guardians settled the case by entering into a consent decree that requires the EPA Administrator to sign a final rule designating areas for the 2008 ozone NAAQS by May 31, 2012.

On September 22, 2011, the EPA issued a memorandum to clarify for state and local agencies the status of the 2008 ozone NAAQS and to outline plans for moving forward to implement them. The EPA indicated that it would proceed with initial area designations for the 2008 NAAQS, and planned to use the recommendations states made in 2009 as updated by the most current, certified air quality data from 2008-2010. While the EPA did not request that states submit updated designation recommendations, the EPA provided the opportunity for states to do so. Several states chose to update their recommendations, and some requested that the EPA base designations for their areas on certified air quality data from 2009-2011, and committed to certify the 2011 data earlier than the May 1 deadline for annual air monitoring certification under 40 CFR part 58.15(a)(2) so that the EPA would have sufficient time to consider the data in making decisions on designations and nonattainment area boundaries.

On or about December 9, 2011, the EPA sent letters to Governors and Tribal leaders notifying them of the EPA's preliminary response to their designation recommendations and to inform them of the EPA's approach for completing the designations for the 2008 ozone NAAQS. The EPA requested that states submit any additional information that they wanted the EPA to consider by February 29, 2011, including any certified 2011 air quality monitoring data. On January 31, 2011, the EPA sent revised 120-day letter responses to Illinois, Indiana, and Wisconsin based on updated ozone air quality data for 2009-2011, submitted by the state of Illinois two days before the EPA sent the December 9, 2011, letters. Given the timing of Illinois' submission of certified data, EPA was not able to consider the information in the December 9, 2011, letters. After reviewing the new information, which indicated a violation of the ozone NAAQS at a monitor in the Chicago area, the EPA sent letters on January 31, 2012 notifying Illinois, Indiana, and Wisconsin that it intended to designate certain counties, identified in those letters, as nonattainment for the 2008 ozone NAAQS. The EPA cannot finalize a designation for those areas until 120 days following the letters. Therefore, the EPA will be designating the Illinois, Indiana, and Wisconsin counties identified in the January 31, 2011, letters in a separate rule that will be signed no later than May 31, 2012.

Although not required by section 107(d) of the CAA, the EPA also provided an opportunity for members of the public to comment on the EPA's 120-day response letters to states and tribes. The EPA announced a 30-day public comment period in the Federal Register on December 20, 2011 (76 FR 78872). The comment period was subsequently extended until February 3, 2012 (77 FR 2677; January 19, 2012). On February 14, 2012 (77 FR 8211), the EPA reopened the public comment period for the limited purpose of inviting comment on the EPA's revised responses to Illinois, Indiana, and Wisconsin. State and tribal recommendations and the EPA's preliminary responses were posted on EPA's Web site at http://www.epa.gov/ozonedesignations and are available in the docket for the designations action. Comments from the states, tribes and the public, and EPA's responses to significant comments, are also in the docket.

VII. What air quality data has the EPA used to designate areas for the 2008 ozone NAAQS?

The final ozone designations are based primarily on certified air quality monitoring data from calendar years 2008-2010, which was the most recent certified data available to the EPA at the time the EPA notified the states of its intended modifications to their recommendations. Under 40 CFR 58.16, states are required to report all monitored ozone air quality data and associated quality assurance data within 90 days after the end of each quarterly reporting period, and under 40 CFR part 58.15(a)(2) states are required to submit annual summary reports and a data certification letter to the EPA by May 1 for ozone air quality data collected in the previous calendar year. States generally had not completed these requirements for calendar year 2011 ozone air quality data when the EPA notified states of our intended designations on December 9, 2011. In certain cases, states included as part of their designation recommendations a request that the EPA consider monitoring data from 2009-2011 in making final designation decisions. In these requests, they indicated to the EPA what they expected their certified ozone air quality data would show regarding whether an area was attaining the standard, and for designations purposes they committed to certifying their 2011 data no later than February 29, 2012, so that the EPA would have sufficient time to consider it. Thus, for those areas, the EPA considered the state's preliminary representation of 2011 data in sending the 120-day notification letter. We have verified these representations in making our final designations decisions.

VIII. What are the ozone air quality classifications?

In accordance with CAA section 181(a)(1), each area designated as nonattainment for the 2008 ozone NAAQS is classified by operation of law at the same time as the area is designated by the EPA. Under Subpart 2 of part D of title I of the CAA, state planning and emissions control requirements for ozone are determined, in part, by a nonattainment area's classification. The ozone nonattainment areas are classified based on the severity of their ozone levels (as determined based on the area's “design value,” which represents air quality in the area for the most recent 3 years).⁴ The possible classifications are Marginal, Moderate, Serious, Severe, and Extreme. Nonattainment areas with a “lower” classification have ozone levels that are closer to the standard than areas with a “higher” classification. Areas in the lower classification levels have fewer and/or less stringent mandatory air quality planning and control requirements than those in higher classifications. The final Classifications Rule, which is being signed at the same time as the designations rule and being published and effective at the same time or before the designations, establishes the classification thresholds for each classification category for purposes of the 2008 NAAQS and explains the EPA's methodology for calculating the thresholds. In addition, in the Classifications Rule, the EPA promulgated a regulation, 40 CFR 51.1103(d), that immediately reclassifies 6 areas in California to higher classifications. The classification for each nonattainment area designated for the 2008 ozone NAAQS is shown in the 40 CFR part 81 tables at the end of this designations rule.

⁴ The air quality design value for the 8-hour ozone NAAQS is the 3-year average of the annual 4th highest daily maximum 8-hour average ozone concentration. See 40 CFR part 50, Appendix I.

IX. What is the reclassification of six California nonattainment areas?

The final Classifications Rule addresses the reclassification for the 2008 ozone NAAQS of selected areas in California that had voluntarily reclassified under the 1997 ozone NAAQS. In accordance with the final Classifications Rule, the following areas are being voluntarily reclassified to a higher classification for purposes of the 2008 NAAQS pursuant to that rule: Serious—Ventura County, CA; Severe—Los Angeles-San Bernardino Counties (West Mojave Desert), Riverside County (Coachella Valley), and Sacramento Metro, CA; Extreme—Los Angeles-South Coast Air Basin, and San Joaquin Valley, CA. These classifications are reflected in the tables at the end of this final rule (amendments to 40 CFR 81.301-356).

X. Can states request that areas within 5 percent of the upper or lower limit of a classification threshold be reclassified?

Under CAA section 181(a)(4), an ozone nonattainment area may be reclassified to a higher or lower classification (also known as a classification bump up or a bump down) “if an area classified under paragraph (1) (Table 1) would have been classified in another category if the design value in the area were 5 percent greater or 5 percent less than the level on which such classification was based.” The section also states that “In making such adjustment, the Administrator may consider the number of exceedances of the national primary ambient air quality standard for ozone in the area, the level of pollution transport between the area and other affected areas, including both intrastate and interstate transport, and the mix of sources and air pollutants in the area.”

As noted in the preamble to the rule designating and classifying areas following enactment of the CAA Amendments of 1990, the section 181(a)(4) provisions grant the Administrator broad discretion in making or determining not to make, a reclassification. (See 56 FR 56698; November 6, 1991.) As part of the 1991 action, the EPA developed criteria to evaluate whether it is appropriate to reclassify a particular area. (See list below and at 56 FR 56698.) Because section 181(b)(3) provides that the EPA must grant any state request to reclassify an area into a higher classification, the EPA focused these criteria primarily on how the EPA would assess requests for a lower classification. In 1991, EPA approved reclassifications when the area met the first requirement (a request by the state to EPA) and at least some of the other criteria, and did not violate any of the criteria (emissions reductions, trends, etc.). The EPA used the same method and criteria once again to evaluate reclassification requests under section 181(a)(4) for purposes of the 1997 ozone NAAQS. The EPA intends to continue to use this same approach for purposes of evaluating any request for a reclassification for the 2008 ozone NAAQS. For reclassifications downwards, states may only request a reclassification to the next lower classification, and air quality data from prior years cannot be used as justification to be reclassified to an even lower classification.

The criteria EPA intends to use to evaluate whether it is appropriate to reclassify a particular area include:

Request by state: The EPA does not intend to exercise its authority to reclassify areas on the EPA's own initiative. Rather, the EPA intends to rely on the state to submit a request for a reclassification. A tribe may also submit such a request and, in the case of a multi-state nonattainment area, all affected states must submit the same reclassification request.

Discontinuity: A five percent reclassification must not result in an illogical or excessive discontinuity relative to surrounding areas. In particular, in light of the area-wide nature of ozone formation, a reclassification should not create a “donut hole” where an area of one classification is surrounded by areas of higher classification.

Attainment: Evidence should be available that the proposed area would be able to attain by the earlier date specified by the lower classification in the case of a reclassification downward.

Emissions reductions: Evidence should be available that the area would be very likely to achieve the appropriate total percent emission reduction necessary in order to attain in the shorter time period for a reclassification downward.

Trends: Near- and long-term trends in emissions and air quality should support a reclassification. Historical air quality data should indicate substantial air quality improvement for a reclassification downward. Growth projections and emission trends should support a reclassification downward. In addition, we will consider whether vehicle miles traveled and other indicators of emissions are increasing at higher than normal rates.

Years of data: The same years of ozone air quality data used for the initial designation and classification should be used for reclassification requests.

A. Five Percent Reclassifications to a Lower Classification

For an area to be eligible to be reclassified to a lower classification under section 181(a)(4), the area's design value must be within five percent of the upper limit for the next lower classification. For example, an area with a Moderate design value of 0.090 ppm (or less) would be eligible to request a reclassification to Marginal because 0.090 ppm is five percent more than the upper limit of 0.086 ppm for the Marginal classification. Accordingly, areas with the following design values may be eligible to request a reclassification to the next lower classification: Moderate areas with a design value of 0.090 ppm or less; Serious areas with a design value of 0.105 ppm or less; and Severe areas with a design value of 0.118 ppm or less.

B. Five Percent Reclassifications to a Higher Classification

An ozone nonattainment area may also be reclassified under section 181(a)(4) to the next higher classification. As with five percent reclassifications to a lower classification, the EPA does not intend to exercise its authority to reclassify areas to a higher classification on the EPA's own initiative. Rather, the EPA intends to rely on the state to submit a request for such a reclassification. Areas with the following design values are eligible to request a reclassification to the next higher classification: Marginal areas with a design value of 0.082 ppm or more; Moderate areas with a design value of 0.095 ppm or more; and Serious areas with a design value of 0.108 ppm or more.

C. Timing of the Five Percent Reclassifications

A Governor or eligible Tribal governing body of any area that wishes to pursue a reclassification should submit all requests and supporting documentation to the EPA Regional Office by June 20, 2012. This relatively short time frame is necessary because section 181(a)(4) only authorizes the Administrator to make such reclassifications within 90 days after the initial classification.

XI. How do designations affect Indian country?

All state areas listed in the tables at the end of this document are designated as indicated, and include Indian country geographically located within such areas, except as otherwise noted. In general, state recommendations for initial area designations do not apply to Indian country. Consistent with the “Policy for Establishing Separate Air Quality Designations for Areas of Indian Country” (December 20, 2011), in instances where the EPA did not receive an initial designation recommendation from a tribe, the EPA is designating their area of Indian country along with the adjacent/surrounding state area(s). Tribes whose areas of Indian country are designated as nonattainment for the 2008 ozone NAAQS are being affected by poor air quality. Where nonattainment areas include both Indian country and state land, it is important for states and tribes to work together to coordinate planning efforts. Coordinated planning will help ensure that the planning decisions made by the states and tribes complement each other and that the nonattainment area makes reasonable progress toward attainment and ultimately attains the 2008 ozone NAAQS.

XII. Where can I find information forming the basis for this rule and exchanges between the EPA, states, and tribes related to this rule?

Information providing the basis for this action are provided in the docket for this rulemaking. The applicable EPA guidance memoranda and copies of correspondence regarding this process between the EPA and the states, tribes, and other parties are available for review at the EPA Docket Center listed above in the addresses section of this document, and on the EPA's ozone designation Web site at http://www.epa.gov/ozonedesignations. State-specific information is available from the EPA Regional Offices.

XIII. Statutory and Executive Order Reviews

Upon promulgation of a new or revised NAAQS, the CAA requires the EPA to designate areas as attaining or not attaining the NAAQS. The CAA then specifies requirements for areas based on whether such areas are attaining or not attaining the NAAQS. In this final rule, the EPA assigns designations to areas as required.

A. Executive Order 12866: Regulatory Planning and Review and Executive Order 13563: Improving Regulation and Regulatory Review

This action responds to the CAA requirement to promulgate air quality designations after promulgation of a new or revised NAAQS. This type of action is exempt from review under Executive Orders 12866 (58 FR 51735, October 4, 1993) and 13563 (76 FR 3821, January 21, 2011).

B. Paperwork Reduction Act

This action does not impose an information collection burden under the provisions of the Paperwork Reduction Act, 44 U.S.C. 3501 et seq. Burden is defined at 5 CFR 1320.3(b). This rule responds to the CAA requirement to promulgate air quality designations after promulgation of a new or revised NAAQS. This requirement is prescribed in the CAA section 107. The present final rule does not establish any new information collection requirements.

C. Regulatory Flexibility Act

This final rule is not subject to the Regulatory Flexibility Act (RFA), which generally requires an agency to prepare a regulatory flexibility analysis for any rule that will have a significant economic impact on a substantial number of small entities. The RFA applies only to rules subject to notice-and-comment rulemaking requirements under the Administrative Procedure Act (APA) or any other statute. This rule is not subject to notice-and-comment requirements as provided under CAA section 107(d)(2)(B).

D. Unfunded Mandates Reform Act

This action contains no federal mandate under the provisions of Title II of the Unfunded Mandates Reform Act of 1995 (UMRA), 2 U.S.C. 1531-1538 for state, local, or tribal governments or the private sector. The action imposes no enforceable duty on any state, local or tribal governments or the private sector. Therefore, this action is not subject to the requirements of sections 202 and 205 of the UMRA.

This action is also not subject to the requirements of section 203 of UMRA because it contains no regulatory requirements that might significantly or uniquely affect small governments. It does not create any additional requirements beyond those of the CAA and ozone NAAQS (40 CFR 50.15). The CAA establishes the process whereby states take primary responsibility in developing plans to meet the ozone NAAQS.

E. Executive Order 13132: Federalism

This final rule does not have federalism implications. It will not have substantial direct effects on the states, on the relationship between the national government and the states, or on the distribution of power and responsibilities among the various levels of government, as specified in Executive Order 13132. The CAA establishes the process whereby states take primary responsibility in developing plans to meet the ozone NAAQS. This rule will not modify the relationship of the states and the EPA for purposes of developing programs to implement the ozone NAAQS. Thus, Executive Order 13132 does not apply to this rule.

F. Executive Order 13175: Consultation and Coordination With Indian Tribal Governments

Subject to the Executive Order 13175 (65 FR 67249, November 9, 2000) the EPA may not issue a regulation that has tribal implications, that imposes substantial direct compliance costs, and that is not required by statute, unless the Federal government provides the funds necessary to pay the direct compliance costs incurred by tribal governments, or the EPA consults with tribal officials early in the process of developing the proposed regulation and develops a tribal summary impact statement.

The EPA has concluded that this action may have tribal implications. However, it will neither impose substantial direct compliance costs on tribal governments, nor preempt tribal law. Tribes whose areas of Indian country are being designated as “nonattainment” for the 2008 ozone NAAQS are affected by poor air quality. Although tribes are not required to submit implementation plans under the Clean Air Act, for those tribes whose areas are being designated as part of surrounding state areas, it will be imperative that states and the tribes coordinate on air quality planning efforts to ensure that ozone levels are reduced. In addition, several tribes' areas of Indian country are being designated as “nonattainment” separately from their surrounding state areas. For these tribes, internal capacity for air quality planning will be important to enable their areas of Indian country to come into attainment.

The EPA consulted with tribal officials early in the process of developing this regulation to permit them to have meaningful and timely input into its development. At the beginning of the designations process, letters were sent to all tribes who were expected to be impacted by designations for the 2008 ozone NAAQS. These letters not only informed the tribes of the overall designations process, but also offered the tribes consultation to ensure early communication and coordination. Additionally, letters were sent to potentially affected tribes indicating the EPA's intended designations for their areas of Indian country. These letters offered an additional opportunity for consultation. All consultations were completed in late February/early April 2012. During consultation, the primary concerns raised by tribes included the following: Impact of nonattainment designation on future economic development; appropriateness of using data from monitors not on tribal land; and ensuring final decisions are consistent with the EPA's “Policy for Establishing Separate Air Quality Designations for Areas of Indian Country.” (December 20, 2011). During the consultations, the EPA's Regional Offices ensured that the tribes fully understood the reasoning for the EPA's preliminary designations decisions and how those decisions are aligned with a consideration of the most recent certified air quality data and all other relevant information, including the EPA's “Policy for Establishing Separate Air Quality Designations for Areas of Indian Country.” To the extent possible, the EPA included the tribes' input into the final decision-making process for designations of their areas of Indian country for the 2008 ozone NAAQS.

G. Executive Order 13045: Protection of Children From Environmental Health and Safety Risks

The EPA interprets Executive Order 13045 (62 FR 19885, April 23, 1997) as applying only to those regulatory actions that concern health or safety risks, such that the analysis required under section 5-501 of the Executive Order has the potential to influence the regulation. This action is not subject to Executive Order 13045 because it does not establish an environmental standard intended to mitigate health or safety risks.

H. Executive Order 13211: Actions That Significantly Affect Energy Supply, Distribution, or Use

This action is not subject to Executive Order 13211 (66 FR 28355 (May 22, 2001)), because it is not a significant regulatory action under Executive Order 12866.

I. National Technology Transfer and Advancement Act (NTTAA)

Section 12(d) of the NTTAA of 1995, Public Law 104-113, section 12(d) (15 U.S.C. 272 note) directs the EPA to use voluntary consensus standards (VCS) in its regulatory activities unless to do so would be inconsistent with applicable law or otherwise impracticable. Voluntary consensus standards are technical standards (e.g., materials specifications, test methods, sampling procedures, and business practices) that are developed or adopted by VCS bodies. The NTTAA directs the EPA to provide Congress, through the Office of Management and Budget, explanations when the Agency decides not to use available and applicable VCS.

This action does not involve technical standards. Therefore, the EPA did not consider the use of any VCS.

J. Executive Order 12898: Federal Actions To Address Environmental Justice in Minority Populations and Low-Income Populations.

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the U.S.

The CAA requires that the EPA designate as nonattainment “any area that does not meet (or that contributes to ambient air quality in a nearby area that does not meet) the national primary or secondary ambient air quality standard for the pollutant.” By designating as nonattainment all areas where available information indicates a violation of the ozone NAAQS or a contribution to a nearby violation, this action protects all those residing, working, attending school, or otherwise present in those areas regardless of minority or economic status.

The EPA has determined that this final rule will not have disproportionately high and adverse human health or environmental effects on minority or low-income populations because it increases the level of environmental protection for all affected populations without having any disproportionately high and adverse human health or environmental effects on any population, including any minority or low-income population.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the U.S. The EPA will submit a report containing this rule and other required information to the U.S. Senate, the U.S. House of Representatives, and the Comptroller General of the U.S. prior to publication of the rule in the Federal Register. A major rule cannot take effect until 60 days after it is published in the Federal Register. This action is not a “major rule” as defined by 5 U.S.C. 804(2). This rule will be effective July 20, 2012.

L. Judicial Review

Section 307(b)(1) of the CAA indicates which Federal Courts of Appeal have venue for petitions of review of final actions by the EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This rule designating areas for the 2008 ozone NAAQS is “nationally applicable” within the meaning of section 307(b)(1). This rule establishes designations for areas across the U.S. for the 2008 ozone NAAQS. At the core of this rulemaking is the EPA's interpretation of the definition of nonattainment under section 107(d)(1) of the CAA, and its application of that interpretation to areas across the country.

For the same reasons, the Administrator also is determining that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this rulemaking extends to numerous judicial circuits since the designations apply to areas across the country. In these circumstances, section 307(b)(1) and its legislative history calls for the Administrator to find the rule to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: April 30, 2012.
Lisa P. Jackson,
Administrator.

For the reasons set forth in the preamble, 40 CFR Part 81, is amended as follows:

PART 81—DESIGNATIONS OF AREAS FOR AIR QUALITY PLANNING PURPOSES

1. The authority citation for part 81 continues to read as follows:

Authority: 42 U.S.C. 7401, et seq.

Subpart C-Section 107 Attainment Status Designations

2. Section 81.301 is amended as follows:

a. By revising the table heading for “Alabama—Ozone (8-Hour Standard)” to read “Alabama—1997 8-Hour Ozone NAAQS (Primary and Secondary)”

b. By adding a new table entitled “Alabama—2008 8-Hour Ozone NAAQS (Primary and Secondary)” following the newly designated table ” Alabama—1997 8-Hour Ozone NAAQS (Primary and Secondary)” to read as follows:

§ 81.301 Alabama.

* * * * *

Alabama—2008 8-Hour Ozone NAAQS
[Primary and secondary]
Designated area ¹ | Designation: Date ² | Designation: Type | Classification: Date ² | Classification: Type
Autauga County |  | Unclassifiable/Attainment
Baldwin County |  | Unclassifiable/Attainment
Barbour County |  | Unclassifiable/Attainment
Bibb County |  | Unclassifiable/Attainment
Blount County |  | Unclassifiable/Attainment
Bullock County |  | Unclassifiable/Attainment
Butler County |  | Unclassifiable/Attainment
Calhoun County |  | Unclassifiable/Attainment
Chambers County |  | Unclassifiable/Attainment
Cherokee County |  | Unclassifiable/Attainment
Chilton County |  | Unclassifiable/Attainment
Choctaw County |  | Unclassifiable/Attainment
Clarke County |  | Unclassifiable/Attainment
Clay County |  | Unclassifiable/Attainment
Cleburne County |  | Unclassifiable/Attainment
Coffee County |  | Unclassifiable/Attainment
Colbert County |  | Unclassifiable/Attainment
Conecuh County |  | Unclassifiable/Attainment
Coosa County |  | Unclassifiable/Attainment
Covington County |  | Unclassifiable/Attainment
Crenshaw County |  | Unclassifiable/Attainment
Cullman County |  | Unclassifiable/Attainment
Dale County |  | Unclassifiable/Attainment
Dallas County |  | Unclassifiable/Attainment
De Kalb County |  | Unclassifiable/Attainment
Elmore County |  | Unclassifiable/Attainment
Escambia County |  | Unclassifiable/Attainment
Fayette County |  | Unclassifiable/Attainment
Franklin County |  | Unclassifiable/Attainment
Geneva County |  | Unclassifiable/Attainment
Greene County |  | Unclassifiable/Attainment
Hale County |  | Unclassifiable/Attainment
Henry County |  | Unclassifiable/Attainment
Houston County |  | Unclassifiable/Attainment
Jackson County |  | Unclassifiable/Attainment
Jefferson County |  | Unclassifiable/Attainment
Lamar County |  | Unclassifiable/Attainment
Lauderdale County |  | Unclassifiable/Attainment
Lawrence County |  | Unclassifiable/Attainment
Lee County |  | Unclassifiable/Attainment
Limestone County |  | Unclassifiable/Attainment
Lowndes County |  | Unclassifiable/Attainment
Macon County |  | Unclassifiable/Attainment
Madison County |  | Unclassifiable/Attainment
Marengo County |  | Unclassifiable/Attainment
Marion County |  | Unclassifiable/Attainment
Marshall County |  | Unclassifiable/Attainment
Mobile County |  | Unclassifiable/Attainment
Monroe County |  | Unclassifiable/Attainment
Montgomery County |  | Unclassifiable/Attainment
Morgan County |  | Unclassifiable/Attainment
Perry County |  | Unclassifiable/Attainment
Pickens County |  | Unclassifiable/Attainment
Pike County |  | Unclassifiable/Attainment
Randolph County |  | Unclassifiable/Attainment
Russell County |  | Unclassifiable/Attainment
Shelby County |  | Unclassifiable/Attainment
St. Clair County |  | Unclassifiable/Attainment
Sumter County |  | Unclassifiable/Attainment
Talladega County |  | Unclassifiable/Attainment
Tallapoosa County |  | Unclassifiable/Attainment
Tuscaloosa County |  | Unclassifiable/Attainment
Walker County |  | Unclassifiable/Attainment
Washington County |  | Unclassifiable/Attainment
Wilcox County |  | Unclassifiable/Attainment
Winston County |  | Unclassifiable/Attainment
¹ Includes any Indian country in each county or area, unless otherwise specified.
² This date is July 20, 2012, unless otherwise noted.

3. Section 81.302 is amended as follows:

a. By revising the table heading for “Alaska—Ozone (8-Hour Standard)” to read “Alaska—1997 8-Hour Ozone NAAQS (Primary and Secondary)”

b. By adding a new table entitled “Alaska—2008 8-Hour Ozone NAAQS (Primary and Secondary)” following the newly designated table “Alaska—1997 8-Hour Ozone NAAQS (Primary and Secondary)” to read as follows:

§ 81.302 Alaska.

* * * * *

Alaska—2008 8-Hour Ozone NAAQS
[Primary and secondary]
Designated area | Designation: Date ¹ | Designation: Type | Classification: Date ¹ | Classification: Type
Statewide and Any Areas of Indian Country |  | Unclassifiable/Attainment |  |
¹ This date is July 20, 2012, unless otherwise noted.

4. Section 81.303 is amended as follows:

a. By revising the table heading for “Arizona—Ozone (8-Hour Standard)” to read “Arizona—1997 8-Hour Ozone NAAQS (Primary and Secondary)”

b. By adding a new table entitled “Arizona—2008 8-Hour Ozone NAAQS (Primary and Secondary)” following the newly designated table “Arizona—1997 8-Hour Ozone NAAQS (Primary and Secondary)” to read as follows:

§ 81.303 Arizona.

* * * * *

Arizona—2008 8-Hour Ozone NAAQS
[Primary and secondary]
Designated area | Designation: Date ¹ | Designation: Type | Classification: Date ¹ | Classification: Type
Phoenix-Mesa, AZ: ² |  | Nonattainment |  | Marginal.
Maricopa County (part)
T1N, R1E (except that portion in Indian Country); T1N, R2E; T1N, R3E; T1N, R4E; T1N, R5E; T1N, R6E; T1N, R7E; T1N, R1W; T1N, R2W; T1N, R3W; T1N, R4W; T1N, R5W; T1N, R6W; T1N, R7W; T1N, R8W; T2N, R1E; T2N, R2E; T2N, R3E; T2N, R4E; T2N, R5E; T2N, R6E; T2N, R7E; T2N, R8E; T2N, R9E; T2N, R10E; T2N, R11E; T2N, R12E (except that portion in Gila County); T2N, R13E (except that portion in Gila County); T2N, R1W; T2N, R2W; T2N, R3W; T2N, R4W; T2N, R5W; T2N, R6W; T2N, R7W; T2N, R8W; T3N, R1E; T3N, R2E; T3N, R3E; T3N, R4E; T3N, R5E; T3N, R6E; T3N, R7E; T3N, R8E; T3N, R9E; T3N, R10E (except that portion in Gila County); T3N, R11E (except that portion in Gila County); T3N, R12E (except that portion in Gila County); T3N, R1W; T3N, R2W; T3N, R3W; T3N, R4W; T3N, R5W; T3N, R6W; T4N, R1E; T4N, R2E; T4N, R3E; T4N, R4E; T4N, R5E; T4N, R6E; T4N, R7E; T4N, R8E; T4N, R9E; T4N, R10E (except that portion in Gila County); T4N, R11E (except that portion in Gila County); T4N, R12E (except that portion in Gila County); T4N, R1W; T4N, R2W; T4N, R3W; T4N, R4W; T4N, R5W; T4N, R6W; T5N, R1E; T5N, R2E; T5N, R3E; T5N, R4E; T5N, R5E; T5N, R6E; N, R8E; T5N, R9E (except that portion in Gila County); T5N, R10E (except that portion in Gila County); T5N, R1W; T5N, R2W; T5N, R3W; T5N, R4W; T5N, R5W; T6N, R1E (except that portion in Yavapai County); T6N, R2E; T6N, R3E; T6N, R4E; T6N, R5E; T6N, R6E; T6N, R7E; T6N, R8E; T6N, R9E (except that portion in Gila County); T6N, R10E (except that portion in Gila County); T6N, R1W (except that portion in Yavapai County); T6N, R2W; T6N, R3W; T6N, R4W; T6N, R5W; T7N, R1E; (except that portion in Yavapai County); T7N, R2E (except that portion in Yavapai County); T7N, R3E; T7N, R4E; T7N, R5E; T7N, R6E; T7N, R7E; T7N, R8E; T7N, R9E (except that portion in Gila County); T7N, R1W (except that portion in Yavapai County); T7N, R2W (except that portion in Yavapai County); T8N, R2E (except that portion in Yavapai County); T8N, R3E (except that portion in Yavapai County); T8N, R4E (except that portion in Yavapai County); T8N, R5E (except that portion in Yavapai County); T8N, R6E (except that portion in Yavapai County); T8N, R7E (except that portion in Yavapai County); T8N, R8E (except that portion in Yavapai and Gila Counties); T8N, R9E (except that portion in Yavapai and Gila Counties); T1S, R1E (except that portion in Indian Country); T1S, R2E (except that portion in Pinal County and in Indian Country); T1S, R3E; T1S, R4E; T1S, R5E; T1S, R6E; T1S, R7E; T1S, R1W; T1S, R2W; T1S, R3W; T1S, R4W; T1S, R5W; T1S, R6W; T2S, R1E (except that portion in Indian Country); T2S, R5E; T2S, R6E; T2S, R7E; T2S, R1W; T2S, R2W; T2S, R3W; T2S, R4W; T2S, R5W; T3S, R1E; T3S, R1W; T3S, R2W; T3S, R3W; T3S, R4W; T3S, R5W; T4S, R1E; T4S, R1W; T4S, R2W; T4S, R3W; T4S, R4W; T4S, R5W; T5S, R4W (Sections 1 through 22 and 27 through 34)
Pinal County (part) Apache Junction:
T1N, R8E; T1S, R8E (Sections 1 through 12)
Fort McDowell Yavapai Nation ³
Salt River Pima-Maricopa Indian Community of the Salt River Reservation ³
Tohono O'odham Nation of Arizona ³
Rest of State: ⁴ |  | Unclassifiable/Attainment
Apache County
Cochise County
Coconino County
Gila County
Graham County
Greenlee County
La Paz County
Maricopa County (part) remainder
Mohave County
Navajo County
Pima County
Pinal County (part) remainder
Santa Cruz County
Yavapai County
Yuma County
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.
⁴ Includes any Indian country in each county or area, unless otherwise specified.

5. Section 81.304 is amended as follows:

a. By revising the table heading for “Arkansas—Ozone (8-Hour Standard)” to read “Arkansas—1997 8-Hour Ozone NAAQS (Primary and Secondary)”

b. By adding a new table entitled “Arkansas—2008 8-Hour Ozone NAAQS (Primary and Secondary)” following the newly designated table “Arkansas—1997 8-Hour Ozone NAAQS (Primary and Secondary)” to read as follows:

§ 81.304 Arkansas.

* * * * *

Arkansas—2008 8-Hour Ozone NAAQS
[Primary and secondary]
Designated area | Designation: Date ¹ | Designation: Type | Classification: Date ¹ | Classification: Type
Memphis, TN-MS-AR ² Crittenden County |  | Nonattainment |  | Marginal.
Rest of State: ³
Ashley County |  | Unclassifiable/Attainment
Arkansas County |  | Unclassifiable/Attainment
Baxter County |  | Unclassifiable/Attainment
Benton County |  | Unclassifiable/Attainment
Boone County |  | Unclassifiable/Attainment
Bradley County |  | Unclassifiable/Attainment
Calhoun County |  | Unclassifiable/Attainment
Carroll County |  | Unclassifiable/Attainment
Chicot County |  | Unclassifiable/Attainment
Clark County |  | Unclassifiable/Attainment
Clay County |  | Unclassifiable/Attainment
Cleburne County |  | Unclassifiable/Attainment
Cleveland County |  | Unclassifiable/Attainment
Columbia County |  | Unclassifiable/Attainment
Conway County |  | Unclassifiable/Attainment
Craighead County |  | Unclassifiable/Attainment
Crawford County |  | Unclassifiable/Attainment
Crittenden County |  | Unclassifiable/Attainment
Cross County |  | Unclassifiable/Attainment
Dallas County |  | Unclassifiable/Attainment
Desha County |  | Unclassifiable/Attainment
Drew County |  | Unclassifiable/Attainment
Faulkner County |  | Unclassifiable/Attainment
Franklin County |  | Unclassifiable/Attainment
Fulton County |  | Unclassifiable/Attainment
Garland County |  | Unclassifiable/Attainment
Grant County |  | Unclassifiable/Attainment
Greene County |  | Unclassifiable/Attainment
Hempstead County |  | Unclassifiable/Attainment
Hot Spring County |  | Unclassifiable/Attainment
Howard County |  | Unclassifiable/Attainment
Independence County |  | Unclassifiable/Attainment
Izard County |  | Unclassifiable/Attainment
Jackson County |  | Unclassifiable/Attainment
Jefferson County |  | Unclassifiable/Attainment
Johnson County |  | Unclassifiable/Attainment
Lafayette County |  | Unclassifiable/Attainment
Lawrence County |  | Unclassifiable/Attainment
Lee County |  | Unclassifiable/Attainment
Lincoln County |  | Unclassifiable/Attainment
Little River County |  | Unclassifiable/Attainment
Logan County |  | Unclassifiable/Attainment
Lonoke County |  | Unclassifiable/Attainment
Madison County |  | Unclassifiable/Attainment
Marion County |  | Unclassifiable/Attainment
Miller County |  | Unclassifiable/Attainment
Mississippi County |  | Unclassifiable/Attainment
Monroe County |  | Unclassifiable/Attainment
Montgomery County |  | Unclassifiable/Attainment
Nevada County |  | Unclassifiable/Attainment
Newton County |  | Unclassifiable/Attainment
Ouachita County |  | Unclassifiable/Attainment
Perry County |  | Unclassifiable/Attainment
Phillips County |  | Unclassifiable/Attainment
Pike County |  | Unclassifiable/Attainment
Poinsett County |  | Unclassifiable/Attainment
Polk County |  | Unclassifiable/Attainment
Pope County |  | Unclassifiable/Attainment
Prairie County |  | Unclassifiable/Attainment
Pulaski County |  | Unclassifiable/Attainment
Randolph County |  | Unclassifiable/Attainment
St. Francis County |  | Unclassifiable/Attainment
Saline County |  | Unclassifiable/Attainment
Scott County |  | Unclassifiable/Attainment
Searcy County |  | Unclassifiable/Attainment
Sebastian County |  | Unclassifiable/Attainment
Sevier County |  | Unclassifiable/Attainment
Sharp County |  | Unclassifiable/Attainment
Stone County |  | Unclassifiable/Attainment
Union County |  | Unclassifiable/Attainment
Van Buren County |  | Unclassifiable/Attainment
Washington County |  | Unclassifiable/Attainment
White County |  | Unclassifiable/Attainment
Woodruff County |  | Unclassifiable/Attainment
Yell County |  | Unclassifiable/Attainment
¹ This date is July 20, 2012, unless otherwise noted.
² Excludes Indian country located in each area, unless otherwise noted.
³ Includes any Indian country in each county or area, unless otherwise specified.

6. Section 81.305 is amended as follows:

a. By revising the table heading for “California—Ozone (8-Hour Standard)” to read “California—1997 8-Hour Ozone NAAQS (Primary and Secondary)”

b. By adding a new table entitled “California—2008 8-Hour Ozone NAAQS (Primary and Secondary)” following the newly designated table “California—1997 8-Hour Ozone NAAQS (Primary and Secondary)” to read as follows:

§ 81.305 California.

* * * * *

California—2008 8-Hour Ozone NAAQS
[Primary and secondary]
Designated area | Designation: Date ¹ | Designation: Type | Classification: Date ¹ | Classification: Type
Calaveras County, CA: ² Calaveras County |  | Nonattainment |  | Marginal.
Chico (Butte County), CA: ² |  | Nonattainment |  | Marginal.
Butte County
Berry Creek Rancheria of Maidu Indians of California ³
Enterprise Rancheria of Maidu Indians of California ³
Mechoopda Indian Tribe of Chico Rancheria ³
Mooretown Rancheria of Maidu Indians of California ³
Imperial County, CA: ² |  | Nonattainment |  | Marginal.
Imperial County
Quechan Tribe of the Fort Yuma Indian Reservation ³
Torres Martinez Desert Cahuilla Indians ³
Kern County (Eastern Kern), CA: ² |  | Nonattainment |  | Marginal.
Kern County (part)
That portion of Kern County (with the exception of that portion in Hydrologic Unit Number 18090205—the Indian Wells Valley) east and south of a line described as follows: Beginning at the Kern-Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; then northwest along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary
Los Angeles-San Bernardino Counties (West Mojave Desert), CA: ² |  | Nonattainment |  | Severe 15.
Los Angeles County (part)
That portion of Los Angeles County which lies north and east of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary
San Bernardino County (part)
That portion of San Bernardino County which lies north and east of a line described as follows: Beginning at the San Bernardino-Riverside County boundary and running north along the range line common to Range 3 East and Range 2 East, San Bernardino Base and Meridian; then west along the Township line common to Township 3 North and Township 2 North to the San Bernardino-Los Angeles County boundary; and that portion of San Bernardino County which lies south and west of a line described as follows: latitude 35 degrees, 10 minutes north and longitude 115 degrees, 45 minutes west
Twenty-Nine Palms Band of Mission Indians of California ³
Los Angeles-South Coast Air Basin, CA ² |  | Nonattainment |  | Extreme.
Los Angeles County (part)
That portion of Los Angeles County which lies south and west of a line described as follows: Beginning at the Los Angeles-San Bernardino County boundary and running west along the Township line common to Township 3 North and Township 2 North San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary
Orange County
Riverside County (part)
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the southern boundaries of Sections 25, 26, and 27, Township 7 South, Range 4 East, then North along the west boundaries of Sections 27, 22, 15, 10, and 3 Township 7 South, Range 4 East, then East along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line.
San Bernardino County (part)
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
Cahuilla Band of Mission Indians of the Cahuilla Reservation ³
Ramona Band of Cahuilla ³
San Manuel Band of Mission Indians ³
Soboba Band of Luiseno Indians ³
Mariposa County, CA: ² Mariposa County |  | Nonattainment |  | Marginal.
Nevada County (Western part), CA: ² |  | Nonattainment |  | Marginal.
Nevada County (part)
That portion of Nevada County, which lies west of a line, described as follows: Beginning at the Nevada-Placer County boundary and running north along the western boundaries of Sections 24, 13, 12, 1, Township 17 North, Range 14 East, Mount Diablo Base and Meridian, and Sections 36, 25, 24, 13, 12, Township 18 North, Range 14 East to the Nevada-Sierra County boundary.
Riverside County (Coachella Valley), CA: ² |  | Nonattainment |  | Severe 15.
Riverside County (part)
That portion of Riverside County which lies to the east of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line. And that portion of Riverside County which lies to the west of a line described as follows: That segment of the southwestern boundary line of hydrologic Unit Number 18100100 within Riverside County.
Agua Caliente Band of Cahuilla Indians of the Agua Caliente Indian Reservation ³
Augustine Band of Cahuilla Indians ³
Cabazon Band of Mission Indians ³
Santa Rosa Band of Cahuilla Indians ³
Torres Martinez Desert Cahuilla Indians ³
Twenty-Nine Palms Band of Mission Indians of California ³
Sacramento Metro, CA: ² |  | Nonattainment |  | Severe 15.
El Dorado County (part)
All portions of the county except that portion of El Dorado County within the drainage area naturally tributary to Lake Tahoe including said Lake.
Placer County (part)
All portions of the county except that portion of Placer County within the drainage area naturally tributary to Lake Tahoe including said Lake, plus that area in the vicinity of the head of the Truckee River described as follows: Commencing at the point common to the aforementioned drainage area crestline and the line common to Townships 15 North and 16 North, Mount Diablo Base and Meridian, and following that line in a westerly direction to the northwest corner of Section 3, Township 15 North, Range 16 East Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning.
Sacramento County
Solano County (part)
That portion of Solano County which lies north and east of a line described as follows: Beginning at the intersection of the westerly boundary of Solano County and the ¼ section line running east and west through the center of Section 34; Township 6 North, Range 2 West, Mount Diablo Base and Meridian, thence east along said ¼ section line to the east boundary of Section 36, Township 6 North, Range 2 West, thence south ½ mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south ¼ corner of Section 8, Township 3 North, Range 2 East, thence east to the boundary between Solano and Sacramento Counties.
Sutter County (part)
Portion south of a line connecting the northern border of Yolo County to the SW tip of Yuba County and continuing along the southern Yuba County border to Placer County.
Yolo County
Shingle Springs Band of Miwok Indians, Shingle Springs Rancheria (Verona Tract) ³
United Auburn Indian Community of the Auburn Rancheria of California ³
Yocha Dehe Wintun Nation ³
San Diego County, CA: ² |  | Nonattainment |  | Marginal.
San Diego County
Barona Group of Capitan Grande Band of Mission Indians of the Barona Reservation ³
Campo Band of Diegueno Mission Indians of the Campo Indian Reservation ³
Capitan Grande Band of Diegueno Mission Indians of California ³
Ewiiaapaayp Band of Kumayaay Indians ³
Iipay Nation of Santa Ysabel ³
Inaja Band of Diegueno Mission Indians of the Inaja and Cosmit Reservation ³
Jamul Indian Village of California ³
La Jolla Band of Luiseno Indians ³
La Posta Band of Diegueno Mission Indians of the La Posta Indian Reservation ³
Los Coyotes Band of Cahuilla and Cupeno Indians ³
Manzanita Band of Diegueno Mission Indians of the Manzanita Reservation ³
Mesa Grande Band of Diegueno Mission Indians of the Mesa Grande Reservation ³
Pala Band of Luiseno Mission Indians of the Pala Reservation ³
Pauma Band of Luiseno Mission Indians of the Pauma and Yuima Reservation ³
Rincon Band of Luiseno Mission Indians of the Rincon Reservation ³
San Pasqual Band of Diegueno Mission Indians of California ³
Sycuan Band of the Kumeyaay Nation ³
Viejas (Baron Long) Group of Capitan Grande Band of Mission Indians ³
San Francisco Bay Area, CA: ² |  | Nonattainment |  | Marginal.
Alameda County
Contra Costa County
Marin County
Napa County
San Francisco County
San Mateo County
Santa Clara County
Solano County (part)
Portion of Solano County which lies south and west of a line described as follows: Beginning at the intersection of the westerly boundary of Solano County and the ¼ section line running east and west through the center of Section 34, T6N, R2W, M.D.B. & M., thence east along said ¼ section line to the east boundary of Section 36, T6N, R2W, thence south ½ mile and east 2.0 miles, more or less, along the west and south boundary of Los Putos Rancho to the northwest corner of Section 4, T5N, R1W, thence east along a line common to T5N and T6N to the northeast corner of Section 3, T5N, R1E, thence south along section lines to the southeast corner of Section 10, T3N, R1E, thence east along section lines to the south ¼ corner of Section 8, T3N, R2E, thence east to the boundary between Solano and Sacramento Counties.
Sonoma County (part)
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence Running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties.
Federated Indians of Graton Rancheria ³
Lytton Rancheria of California ³
San Joaquin Valley, CA: ² |  | Nonattainment |  | Extreme.
Fresno County
Kern County (part)
That portion of Kern County which lies west and north of a line described as follows: Beginning at the Kern-Los Angeles County boundary and running north and east along the northwest boundary of the Rancho La Libre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of S. 3, T. 11 N., R. 17 W.; then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grant to the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31, T. 28 S., R. 32 E.; then north along the range line common to R. 31 E. and R. 32 E. to the northwest corner of S. 6, T. 28 S., R. 32 E., then west to the southeast corner of S. 36, T. 27 S., R. 31 E., then north along the range line common to R. 31 E. and R. 32 E. to the Kern-Tulare County boundary.
Kings County
Madera County
Merced County
San Joaquin County
Stanislaus County
Tulare County
Big Sandy Rancheria of Mono Indians of California ³
Cold Springs Rancheria of Mono Indians of California ³
Northfork Rancheria of Mono Indians of California ³
Picayune Rancheria of Chukchansi Indians of California ³
Santa Rosa Indian Community of the Santa Rosa Rancheria ³
Table Mountain Rancheria of California ³
Tule River Indian Tribe of the Tule River Reservation ³
San Luis Obispo (Eastern San Luis Obispo), CA: ² |  | Nonattainment |  | Marginal.
San Luis Obispo County (part)
That portion of San Luis Obispo County that lies east of a line described as follows: Beginning at the San Luis Obispo County/Santa Barbara County boundary and running north along 120 degrees 24 minutes longitude to the intersection with 35 degrees 27 minutes latitude; east along 35 degrees 27 minutes latitude to the intersection with 120 degrees 18 minutes longitude; then north along 120 degrees 18 minutes longitude to the San Luis Obispo County/Monterey County boundary.
Tuscan Buttes, CA: ² |  | Nonattainment |  | Marginal.
Tehama County (part)
Those portions of the immediate Tuscan Buttes area at or above 1,800 feet in elevation.
Ventura County, CA: ² |  | Nonattainment |  | Serious.
Ventura County (part)
That part of Ventura County excluding the Channel Islands of Anacapa and San Nicolas Islands.
Morongo Band of Mission Indians ³ |  | Nonattainment |  | Serious.
Pechanga Band of Luiseno Mission Indians of the Pechanga Reservation ³ |  | Nonattainment |  | Moderate.
Rest of State: ⁴
Alpine, Inyo, and Mono Counties: |  | Unclassifiable/Attainment
Alpine County
Inyo County
Mono County
Amador County |  | Unclassifiable/Attainment
Channel Islands (Ventura County) |  | Unclassifiable/Attainment
Ventura County (part) remainder
Colusa County |  | Unclassifiable/Attainment
Del Norte, Humboldt, and Trinity Counties): |  | Unclassifiable/Attainment
Del Norte County
Humboldt County
Trinity County
Nevada County (part) remainder |  | Unclassifiable/Attainment
Glenn County |  | Unclassifiable/Attainment
Kern County (part) remainder |  | Unclassifiable/Attainment
Lake County |  | Unclassifiable/Attainment
Lake Tahoe (El Dorado County Portion): |  | Unclassifiable/Attainment
El Dorado County (part) remainder
Lake Tahoe (Placer County Portion): |  | Unclassifiable/Attainment
Placer County (part) remainder
Lassen County |  | Unclassifiable/Attainment
Mendocino County |  | Unclassifiable/Attainment
Modoc County |  | Unclassifiable/Attainment
Monterey County |  | Unclassifiable/Attainment
Northeastern San Bernardino County and Eastern Riverside County |  | Unclassifiable/Attainment
San Bernardino County (part) remainder
Riverside County (part) remainder
Sonoma County (part) remainder |  | Unclassifiable/Attainment
Sutter County and Yuba County |  | Unclassifiable/Attainment
Sutter County (part) remainder
Yuba County
Plumas and Sierra Counties |  | Unclassifiable/Attainment
San Benito County |  | Unclassifiable/Attainment
Santa Barbara County |  | Unclassifiable/Attainment
Santa Cruz County |  | Unclassifiable/Attainment
Shasta County |  | Unclassifiable/Attainment
Siskiyou County |  | Unclassifiable/Attainment
Tehama County (part) remainder |  | Unclassifiable/Attainment
Tuolumne County |  | Unclassifiable/Attainment
San Luis Obispo County (part) remainder |  | Unclassifiable/Attainment
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.
⁴ Includes any Indian country in each county or area, unless otherwise specified.

7. Section 81.306 is amended as follows:

a. By revising the table heading for “Colorado—Ozone (8-Hour Standard)” to read “Colorado—1997 8-Hour Ozone NAAQS (Primary and Secondary)”

b. By adding a new table entitled “Colorado—2008 8-Hour Ozone NAAQS (Primary and Secondary)” following the newly designated table “Colorado—1997 8-Hour Ozone NAAQS (Primary and Secondary)” to read as follows:

§ 81.306 Colorado.

* * * * *

Colorado—2008 8-Hour Ozone NAAQS
[Primary and secondary]
Designated area | Designation: Date ¹ | Designation: Type | Classification: Date ¹ | Classification: Type
Denver-Boulder-Greeley-Ft. Collins-Loveland, CO: ² |  | Nonattainment |  | Marginal.
Adams County
Arapahoe County
Boulder County
Broomfield County
Denver County
Douglas County
Jefferson County
Larimer County (part)
That portion of the county that lies south of a line described as follows: Beginning at a point on Larimer County's eastern boundary and Weld County's western boundary intersected by 40 degrees, 42 minutes, and 47.1 seconds north latitude, proceed west to a point defined by the intersection of 40 degrees, 42 minutes, 47.1 seconds north latitude and 105 degrees, 29 minutes, and 40.0 seconds west longitude, thence proceed south on 105 degrees, 29 minutes, 40.0 seconds west longitude to the intersection with 40 degrees, 33 minutes and 17.4 seconds north latitude, thence proceed west on 40 degrees, 33 minutes, 17.4 seconds north latitude until this line intersects Larimer County's western boundary and Grand County's eastern boundary.
Weld County (part)
That portion of the county that lies south of a line described as follows: Beginning at a point on Weld County's eastern boundary and Logan County's western boundary intersected by 40 degrees, 42 minutes, 47.1 seconds north latitude, proceed west on 40 degrees, 42 minutes, 47.1 seconds north latitude until this line intersects Weld County's western boundary and Larimer County's eastern boundary.
Southern Ute Indian Tribe of the Southern Ute Reservation ³ |  | Unclassifiable/Attainment
Rest of State and Rest of Indian Country |  | Unclassifiable/Attainment
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.

8. Section 81.307 is amended as follows:

a. By revising the table heading for “Connecticut—Ozone (8-Hour Standard)” to read “Connecticut—1997 8-Hour Ozone NAAQS (Primary and Secondary)”

b. By adding a new table entitled “Connecticut—2008 8-Hour Ozone NAAQS (Primary and Secondary)” following the newly designated table “Connecticut—1997 8-Hour Ozone NAAQS (Primary and Secondary)” to read as follows:

§ 81.307 Connecticut.

* * * * *

Connecticut—2008 8-Hour Ozone NAAQS
[Primary and secondary]
Designated area | Designation: Date ¹ | Designation: Type | Classification: Date ¹ | Classification: Type
Greater Connecticut, CT: ² |  | Nonattainment |  | Marginal.
Hartford County
Litchfield County
New London County
Tolland County
Windham County
Mashantucket Pequot Tribe of Connecticut ³
Mohegan Indian Tribe of Connecticut ³
New York-N. New Jersey-Long Island NY-NJ-CT:² |  | Nonattainment |  | Marginal.
Fairfield County
Middlesex County
New Haven County
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.

9. Section 81.308 is amended as follows:

a. By revising the table heading for “Delaware—Ozone (8-Hour Standard)” to read “Delaware—1997 8-Hour Ozone NAAQS (Primary and Secondary)”

b. By adding a new table entitled “Delaware—2008 8-Hour Ozone NAAQS (Primary and Secondary)” following the newly designated table “Delaware—1997 8-Hour Ozone NAAQS (Primary and Secondary)” to read as follows:

§ 81.308 Delaware.

* * * * *

Delaware—2008 8-Hour Ozone NAAQS
[Primary and secondary]
Designated area | Designation: Date ¹ | Designation: Type | Classification: Date ¹ | Classification: Type
Philadelphia-Wilmington-Atlantic City, PA-NJ-MD-DE: ²
New Castle County |  | Nonattainment |  | Marginal.
Seaford: ²
Sussex County |  | Nonattainment |  | Marginal.
Rest of State: ³
Southern Delaware Intrastate AQCR: (remainder)
Kent County |  | Unclassifiable/Attainment
¹ This date is July 20, 2012, unless otherwise noted.
² Excludes Indian country located in each area, unless otherwise noted.
³ Includes any Indian country in each county or area, unless otherwise specified.

10. Section 81.309 is amended as follows:

a. By revising the table heading for “District of Columbia—Ozone (8-Hour Standard)” to read “District of Columbia—1997 8-Hour Ozone NAAQS (Primary and Secondary)”

b. By adding a new table entitled “District of Columbia—2008 8-Hour Ozone NAAQS (Primary and Secondary)” following the newly designated table “District of Columbia—1997 8-Hour Ozone NAAQS (Primary and Secondary)” to read as follows:

§ 81.309 District of Columbia.

* * * * *

District of Columbia—2008 8-Hour Ozone NAAQS
[Primary and secondary]
Designated area | Designation: Date ¹ | Designation: Type | Classification: Date ¹ | Classification: Type
Washington, DC-MD-VA: District of Columbia ² |  | Nonattainment |  | Marginal.
¹ This date is July 20, 2012, unless otherwise noted.
² Excludes Indian country located in each area, unless otherwise noted.

11. Section 81.310 is amended as follows:

a. By revising the table heading for “Florida—Ozone (8-Hour Standard)” to read “Florida—1997 8-Hour Ozone NAAQS (Primary and Secondary)”

b. By adding a new table entitled “Florida—2008 8-Hour Ozone NAAQS (Primary and Secondary)” following the newly designated table “Florida—1997 8-Hour Ozone NAAQS (Primary and Secondary)” to read as follows:

§ 81.310 Florida.

* * * * *

Florida—2008 8-Hour Ozone NAAQS
[Primary and secondary]
Designated area | Designation: Date ¹ | Designation: Type | Classification: Date ¹ | Classification: Type
Statewide: ² |  | Unclassifiable/Attainment
Alachua County
Baker County
Bay County
Bradford County
Brevard County
Broward County
Calhoun County
Charlotte County
Citrus County
Clay County
Collier County
Columbia County
DeSoto County
Dixie County
Duval County
Escambia County
Flagler County
Franklin County
Gadsden County
Gilchrist County
Glades County
Gulf County
Hamilton County
Hardee County
Hendry County
Hernando County
Highlands County
Hillsborough County
Holmes County
Indian River County
Jackson County
Jefferson County
Lafayette County
Lake County
Lee County
Leon County
Levy County
Liberty County
Madison County
Manatee County
Marion County
Martin County
Miami-Dade County
Monroe County
Nassau County
Okaloosa County
Okeechobee County
Orange County
Osceola County
Palm Beach County
Pasco County
Pinellas County
Polk County
Putnam County
St. Johns County
St. Lucie County
Santa Rosa County
Sarasota County
Seminole County
Sumter County
Suwannee County
Taylor County
Union County
Volusia County
Wakulla County
Walton County
Washington County
¹ This date is July 20, 2012, unless otherwise noted.
² Includes any Indian country located in each county or area, unless otherwise noted.

12. Section 81.311 is amended as follows:

a. By revising the table heading for “Georgia—-Ozone (8-Hour Standard)” to read “Georgia—1997 8-Hour Ozone NAAQS (Primary and Secondary)”

b. By adding a new table entitled “Georgia—2008 8-Hour Ozone NAAQS (Primary and Secondary)” following the newly designated table “Georgia—1997 8-Hour Ozone NAAQS (Primary and Secondary)” to read as follows:

§ 81.311 Georgia.

* * * * *

Georgia—2008 8-Hour Ozone NAAQS
[Primary and secondary]
Designated area | Designation: Date ¹ | Designation: Type | Classification: Date ¹ | Classification: Type
Atlanta, GA: ² |  | Nonattainment |  | Marginal.
Bartow County
Cherokee County
Clayton County
Cobb County
Coweta County
DeKalb County
Douglas County
Fayette County
Forsyth County
Fulton County
Gwinnett County
Henry County
Newton County
Paulding County
Rockdale County
Rest of State: ³
Appling County |  | Unclassifiable/Attainment
Atkinson County |  | Unclassifiable/Attainment
Bacon County |  | Unclassifiable/Attainment
Baker County |  | Unclassifiable/Attainment
Baldwin County |  | Unclassifiable/Attainment
Banks County |  | Unclassifiable/Attainment
Barrow County |  | Unclassifiable/Attainment
Ben Hill County |  | Unclassifiable/Attainment
Berrien County |  | Unclassifiable/Attainment
Bibb County |  | Unclassifiable/Attainment
Bleckley County |  | Unclassifiable/Attainment
Brantley County |  | Unclassifiable/Attainment
Brooks County |  | Unclassifiable/Attainment
Bryan County |  | Unclassifiable/Attainment
Bulloch County |  | Unclassifiable/Attainment
Burke County |  | Unclassifiable/Attainment
Butts County |  | Unclassifiable/Attainment
Calhoun County |  | Unclassifiable/Attainment
Camden County |  | Unclassifiable/Attainment
Candler County |  | Unclassifiable/Attainment
Carroll County |  | Unclassifiable/Attainment
Catoosa County |  | Unclassifiable/Attainment
Charlton County |  | Unclassifiable/Attainment
Chatham County |  | Unclassifiable/Attainment
Chattahoochee County |  | Unclassifiable/Attainment
Chattooga County |  | Unclassifiable/Attainment
Clarke County |  | Unclassifiable/Attainment
Clay County |  | Unclassifiable/Attainment
Clinch County |  | Unclassifiable/Attainment
Coffee County |  | Unclassifiable/Attainment
Colquitt County |  | Unclassifiable/Attainment
Columbia County |  | Unclassifiable/Attainment
Cook County |  | Unclassifiable/Attainment
Crawford County |  | Unclassifiable/Attainment
Crisp County |  | Unclassifiable/Attainment
Dade County |  | Unclassifiable/Attainment
Dawson County |  | Unclassifiable/Attainment
Decatur County |  | Unclassifiable/Attainment
Dodge County |  | Unclassifiable/Attainment
Dooly County |  | Unclassifiable/Attainment
Dougherty County |  | Unclassifiable/Attainment
Early County |  | Unclassifiable/Attainment
Echols County |  | Unclassifiable/Attainment
Effingham County |  | Unclassifiable/Attainment
Elbert County |  | Unclassifiable/Attainment
Emanuel County |  | Unclassifiable/Attainment
Evans County |  | Unclassifiable/Attainment
Fannin County |  | Unclassifiable/Attainment
Floyd County |  | Unclassifiable/Attainment
Franklin County |  | Unclassifiable/Attainment
Gilmer County |  | Unclassifiable/Attainment
Glascock County |  | Unclassifiable/Attainment
Glynn County |  | Unclassifiable/Attainment
Gordon County |  | Unclassifiable/Attainment
Grady County |  | Unclassifiable/Attainment
Greene County |  | Unclassifiable/Attainment
Habersham County |  | Unclassifiable/Attainment
Hall County |  | Unclassifiable/Attainment
Hancock County |  | Unclassifiable/Attainment
Haralson County |  | Unclassifiable/Attainment
Harris County |  | Unclassifiable/Attainment
Hart County |  | Unclassifiable/Attainment
Heard County |  | Unclassifiable/Attainment
Houston County |  | Unclassifiable/Attainment
Irwin County |  | Unclassifiable/Attainment
Jackson County |  | Unclassifiable/Attainment
Jasper County |  | Unclassifiable/Attainment
Jeff Davis County |  | Unclassifiable/Attainment
Jefferson County |  | Unclassifiable/Attainment
Jenkins County |  | Unclassifiable/Attainment
Johnson County |  | Unclassifiable/Attainment
Jones County |  | Unclassifiable/Attainment
Lamar County |  | Unclassifiable/Attainment
Lanier County |  | Unclassifiable/Attainment
Laurens County |  | Unclassifiable/Attainment
Lee County |  | Unclassifiable/Attainment
Liberty County |  | Unclassifiable/Attainment
Lincoln County |  | Unclassifiable/Attainment
Long County |  | Unclassifiable/Attainment
Lowndes County |  | Unclassifiable/Attainment
Lumpkin County |  | Unclassifiable/Attainment
McDuffie County |  | Unclassifiable/Attainment
McIntosh County |  | Unclassifiable/Attainment
Macon County |  | Unclassifiable/Attainment
Madison County |  | Unclassifiable/Attainment
Marion County |  | Unclassifiable/Attainment
Meriwether County |  | Unclassifiable/Attainment
Miller County |  | Unclassifiable/Attainment
Mitchell County |  | Unclassifiable/Attainment
Monroe County |  | Unclassifiable/Attainment
Montgomery County |  | Unclassifiable/Attainment
Morgan County |  | Unclassifiable/Attainment
Murray County |  | Unclassifiable/Attainment
Muscogee County |  | Unclassifiable/Attainment
Oconee County |  | Unclassifiable/Attainment
Oglethorpe County |  | Unclassifiable/Attainment
Peach County |  | Unclassifiable/Attainment
Pickens County |  | Unclassifiable/Attainment
Pierce County |  | Unclassifiable/Attainment
Pike County |  | Unclassifiable/Attainment
Polk County |  | Unclassifiable/Attainment
Pulaski County |  | Unclassifiable/Attainment
Putnam County |  | Unclassifiable/Attainment
Quitman County |  | Unclassifiable/Attainment
Rabun County |  | Unclassifiable/Attainment
Randolph County |  | Unclassifiable/Attainment
Richmond County |  | Unclassifiable/Attainment
Schley County |  | Unclassifiable/Attainment
Screven County |  | Unclassifiable/Attainment
Seminole County |  | Unclassifiable/Attainment
Spalding County |  | Unclassifiable/Attainment
Stephens County |  | Unclassifiable/Attainment
Stewart County |  | Unclassifiable/Attainment
Sumter County |  | Unclassifiable/Attainment
Talbot County |  | Unclassifiable/Attainment
Taliaferro County |  | Unclassifiable/Attainment
Tattnall County |  | Unclassifiable/Attainment
Taylor County |  | Unclassifiable/Attainment
Telfair County |  | Unclassifiable/Attainment
Terrell County |  | Unclassifiable/Attainment
Thomas County |  | Unclassifiable/Attainment
Tift County |  | Unclassifiable/Attainment
Toombs County |  | Unclassifiable/Attainment
Towns County |  | Unclassifiable/Attainment
Treutlen County |  | Unclassifiable/Attainment
Troup County |  | Unclassifiable/Attainment
Turner County |  | Unclassifiable/Attainment
Twiggs County |  | Unclassifiable/Attainment
Union County |  | Unclassifiable/Attainment
Upson County |  | Unclassifiable/Attainment
Walker County |  | Unclassifiable/Attainment
Walton County |  | Unclassifiable/Attainment
Ware County |  | Unclassifiable/Attainment
Warren County |  | Unclassifiable/Attainment
Washington County |  | Unclassifiable/Attainment
Wayne County |  | Unclassifiable/Attainment
Webster County |  | Unclassifiable/Attainment
Wheeler County |  | Unclassifiable/Attainment
White County |  | Unclassifiable/Attainment
Whitfield County |  | Unclassifiable/Attainment
Wilcox County |  | Unclassifiable/Attainment
Wilkes County |  | Unclassifiable/Attainment
Wilkinson County |  | Unclassifiable/Attainment
Worth County |  | Unclassifiable/Attainment
¹ This date is July 20, 2012, unless otherwise noted.
² Excludes Indian country located in each area, unless otherwise noted.
³ Includes any Indian country in each county or area, unless otherwise specified.

13. Section 81.312 is amended as follows:

a. By revising the table heading for “Hawaii—Ozone (8-Hour Standard)” to read “Hawaii—1997 8-Hour Ozone NAAQS (Primary and Secondary)”

b. By adding a new table entitled “Hawaii—2008 8-Hour Ozone NAAQS (Primary and Secondary)” following the newly designated table “Hawaii—1997 8-Hour Ozone NAAQS (Primary and Secondary)” to read as follows:

§ 81.312 Hawaii.

* * * * *

Hawaii—2008 8-Hour Ozone NAAQS
[Primary and secondary]
Designated area ² | Designation: Date ¹ | Designation: Type | Classification: Date ¹ | Classification: Type
Hawaii County |  | Unclassifiable/Attainment
Honolulu County |  | Unclassifiable/Attainment
Kalawao County |  | Unclassifiable/Attainment
Kauai County |  | Unclassifiable/Attainment
Maui County |  | Unclassifiable/Attainment
¹ This date is July 20, 2012, unless otherwise noted.
² Includes any Indian country in each county or area, unless otherwise specified.

14. Section 81.313 is amended as follows:

a. By revising the table heading for “Idaho—Ozone (8-Hour Standard)” to read “Idaho—1997 8-Hour Ozone NAAQS (Primary and Secondary)”

b. By adding a new table entitled “Idaho—2008 8-Hour Ozone NAAQS (Primary and Secondary)” following the newly designated table ” Idaho—1997 8-Hour Ozone NAAQS (Primary and Secondary)” to read as follows:

§ 81.313 Idaho.

* * * * *

Idaho—2008 8-Hour Ozone NAAQS
[Primary and secondary]
Designated area ² | Designation: Date ¹ | Designation: Type | Classification: Date ¹ | Classification: Type
Statewide and Any Areas of Indian Country |  | Unclassifiable/Attainment
¹ This date is July 20, 2012, unless otherwise noted.

15. Section 81.314 is amended as follows:

a. By revising the table heading for “Illinois—Ozone (8-Hour Standard)” to read “Illinois—1997 8-Hour Ozone NAAQS (Primary and Secondary)”

b. By adding a new table entitled “Illinois—2008 8-Hour Ozone NAAQS (Primary and Secondary)” following the newly designated table “Illinois—1997 8-Hour Ozone NAAQS (Primary and Secondary)” to read as follows:

§ 81.314 Illinois.

* * * * *

Illinois—2008 8-Hour Ozone NAAQS
[Primary and secondary]
Designated area | Designation: Date ¹ | Designation: Type | Classification: Date ¹ | Classification: Type
St. Louis-St. Charles-Farmington, MO-IL: ² |  | Nonattainment |  | Marginal.
Madison County
Monroe County
St. Clair County
Adams County ³ |  | Unclassifiable/Attainment
Alexander County ³ |  | Unclassifiable/Attainment
Bond County ³ |  | Unclassifiable/Attainment
Boone County ³ |  | Unclassifiable/Attainment
Brown County ³ |  | Unclassifiable/Attainment
Bureau County ³ |  | Unclassifiable/Attainment
Calhoun County ³ |  | Unclassifiable/Attainment
Carroll County ³ |  | Unclassifiable/Attainment
Cass County ³ |  | Unclassifiable/Attainment
Champaign County ³ |  | Unclassifiable/Attainment
Christian County ³ |  | Unclassifiable/Attainment
Clark County ³ |  | Unclassifiable/Attainment
Clay County ³ |  | Unclassifiable/Attainment
Clinton County ³ |  | Unclassifiable/Attainment
Coles County ³ |  | Unclassifiable/Attainment
Crawford County ³ |  | Unclassifiable/Attainment
Cumberland County ³ |  | Unclassifiable/Attainment
DeKalb County ³ |  | Unclassifiable/Attainment
De Witt County ³ |  | Unclassifiable/Attainment
Douglas County ³ |  | Unclassifiable/Attainment
Edgar County ³ |  | Unclassifiable/Attainment
Edwards County ³ |  | Unclassifiable/Attainment
Effingham County ³ |  | Unclassifiable/Attainment
Fayette County ³ |  | Unclassifiable/Attainment
Ford County ³ |  | Unclassifiable/Attainment
Franklin County ³ |  | Unclassifiable/Attainment
Fulton County ³ |  | Unclassifiable/Attainment
Gallatin County ³ |  | Unclassifiable/Attainment
Greene County ³ |  | Unclassifiable/Attainment
Hamilton County ³ |  | Unclassifiable/Attainment
Hancock County ³ |  | Unclassifiable/Attainment
Hardin County ³ |  | Unclassifiable/Attainment
Henderson County ³ |  | Unclassifiable/Attainment
Henry County ³ |  | Unclassifiable/Attainment
Iroquois County ³ |  | Unclassifiable/Attainment
Jackson County ³ |  | Unclassifiable/Attainment
Jasper County ³ |  | Unclassifiable/Attainment
Jefferson County ³ |  | Unclassifiable/Attainment
Jersey County ³ |  | Unclassifiable/Attainment
Jo Daviess County ³ |  | Unclassifiable/Attainment
Johnson County ³ |  | Unclassifiable/Attainment
Kankakee County ³ |  | Unclassifiable/Attainment
Knox County ³ |  | Unclassifiable/Attainment
La Salle County ³ |  | Unclassifiable/Attainment
Lawrence County ³ |  | Unclassifiable/Attainment
Lee County ³ |  | Unclassifiable/Attainment
Livingston County ³ |  | Unclassifiable/Attainment
Logan County ³ |  | Unclassifiable/Attainment
McDonough County ³ |  | Unclassifiable/Attainment
McLean County ³ |  | Unclassifiable/Attainment
Macon County ³ |  | Unclassifiable/Attainment
Macoupin County ³ |  | Unclassifiable/Attainment
Marion County ³ |  | Unclassifiable/Attainment
Marshall County ³ |  | Unclassifiable/Attainment
Mason County ³ |  | Unclassifiable/Attainment
Massac County ³ |  | Unclassifiable/Attainment
Menard County ³ |  | Unclassifiable/Attainment
Mercer County ³ |  | Unclassifiable/Attainment
Montgomery County ³ |  | Unclassifiable/Attainment
Morgan County ³ |  | Unclassifiable/Attainment
Moultrie County ³ |  | Unclassifiable/Attainment
Ogle County ³ |  | Unclassifiable/Attainment
Peoria County ³ |  | Unclassifiable/Attainment
Perry County ³ |  | Unclassifiable/Attainment
Piatt County ³ |  | Unclassifiable/Attainment
Pike County ³ |  | Unclassifiable/Attainment
Pope County ³ |  | Unclassifiable/Attainment
Pulaski County ³ |  | Unclassifiable/Attainment
Putnam County ³ |  | Unclassifiable/Attainment
Randolph County ³ |  | Unclassifiable/Attainment
Richland County ³ |  | Unclassifiable/Attainment
Rock Island County ³ |  | Unclassifiable/Attainment
Saline County ³ |  | Unclassifiable/Attainment
Sangamon County ³ |  | Unclassifiable/Attainment
Schuyler County ³ |  | Unclassifiable/Attainment
Scott County ³ |  | Unclassifiable/Attainment
Shelby County ³ |  | Unclassifiable/Attainment
Stark County ³ |  | Unclassifiable/Attainment
Stephenson County ³ |  | Unclassifiable/Attainment
Tazewell County ³ |  | Unclassifiable/Attainment
Union County ³ |  | Unclassifiable/Attainment
Vermilion County ³ |  | Unclassifiable/Attainment
Wabash County ³ |  | Unclassifiable/Attainment
Warren County ³ |  | Unclassifiable/Attainment
Washington County ³ |  | Unclassifiable/Attainment
Wayne County ³ |  | Unclassifiable/Attainment
White County ³ |  | Unclassifiable/Attainment
Whiteside County ³ |  | Unclassifiable/Attainment
Williamson County ³ |  | Unclassifiable/Attainment
Winnebago County ³ |  | Unclassifiable/Attainment
Woodford County ³ |  | Unclassifiable/Attainment
¹ This date is July 20, 2012, unless otherwise noted.
² Excludes Indian country located in each area, unless otherwise noted.
³ Includes any Indian country in each county or area, unless otherwise specified.

16. Section 81.315 is amended as follows:

a. By revising the table heading for “Indiana—Ozone (8-Hour Standard)” to read “Indiana—1997 8-Hour Ozone NAAQS (Primary and Secondary)”

b. By adding a new table entitled “Indiana—2008 8-Hour Ozone NAAQS (Primary and Secondary)” following the newly designated table “Indiana—1997 8-Hour Ozone NAAQS (Primary and Secondary)” to read as follows:

§ 81.315 Indiana.

* * * * *

Indiana—2008 8-Hour Ozone NAAQS
[Primary and secondary]
Designation area | Designation: Date ¹ | Designation: Type | Classification: Date ¹ | Classification: Type
Cincinnati, OH-KY-IN: ² |  | Nonattainment |  | Marginal.
Dearborn County (part)
Lawrenceburg Township
Adams County ³ |  | Unclassifiable/Attainment
Allen County ³ |  | Unclassifiable/Attainment
Bartholomew County ³ |  | Unclassifiable/Attainment
Benton County ³ |  | Unclassifiable/Attainment
Blackford County ³ |  | Unclassifiable/Attainment
Boone County ³ |  | Unclassifiable/Attainment
Brown County ³ |  | Unclassifiable/Attainment
Carroll County ³ |  | Unclassifiable/Attainment
Cass County ³ |  | Unclassifiable/Attainment
Clark County ³ |  | Unclassifiable/Attainment
Clay County ³ |  | Unclassifiable/Attainment
Clinton County ³ |  | Unclassifiable/Attainment
Crawford County ³ |  | Unclassifiable/Attainment
Daviess County ³ |  | Unclassifiable/Attainment
Dearborn County (remainder) ³ |  | Unclassifiable/Attainment
Decatur County ³ |  | Unclassifiable/Attainment
De Kalb County ³ |  | Unclassifiable/Attainment
Delaware County ³ |  | Unclassifiable/Attainment
Dubois County ³ |  | Unclassifiable/Attainment
Elkhart County ³ |  | Unclassifiable/Attainment
Fayette County ³ |  | Unclassifiable/Attainment
Floyd County ³ |  | Unclassifiable/Attainment
Fountain County ³ |  | Unclassifiable/Attainment
Franklin County ³ |  | Unclassifiable/Attainment
Fulton County ³ |  | Unclassifiable/Attainment
Gibson County ³ |  | Unclassifiable/Attainment
Grant County ³ |  | Unclassifiable/Attainment
Greene County ³ |  | Unclassifiable/Attainment
Hamilton County ³ |  | Unclassifiable/Attainment
Hancock County ³ |  | Unclassifiable/Attainment
Harrison County ³ |  | Unclassifiable/Attainment
Hendricks County ³ |  | Unclassifiable/Attainment
Henry County ³ |  | Unclassifiable/Attainment
Howard County ³ |  | Unclassifiable/Attainment
Huntington County ³ |  | Unclassifiable/Attainment
Jackson County ³ |  | Unclassifiable/Attainment
Jay County ³ |  | Unclassifiable/Attainment
Jefferson County ³ |  | Unclassifiable/Attainment
Jennings County ³ |  | Unclassifiable/Attainment
Johnson County ³ |  | Unclassifiable/Attainment
Knox County ³ |  | Unclassifiable/Attainment
Kosciusko County ³ |  | Unclassifiable/Attainment
LaGrange County ³ |  | Unclassifiable/Attainment
La Porte County ³ |  | Unclassifiable/Attainment
Lawrence County ³ |  | Unclassifiable/Attainment
Madison County ³ |  | Unclassifiable/Attainment
Marion County ³ |  | Unclassifiable/Attainment
Marshall County ³ |  | Unclassifiable/Attainment
Martin County ³ |  | Unclassifiable/Attainment
Miami County ³ |  | Unclassifiable/Attainment
Monroe County ³ |  | Unclassifiable/Attainment
Montgomery County ³ |  | Unclassifiable/Attainment
Morgan County ³ |  | Unclassifiable/Attainment
Newton County ³ |  | Unclassifiable/Attainment
Noble County ³ |  | Unclassifiable/Attainment
Ohio County ³ |  | Unclassifiable/Attainment
Orange County ³ |  | Unclassifiable/Attainment
Owen County ³ |  | Unclassifiable/Attainment
Parke County ³ |  | Unclassifiable/Attainment
Perry County ³ |  | Unclassifiable/Attainment
Pike County ³ |  | Unclassifiable/Attainment
Posey County ³ |  | Unclassifiable/Attainment
Pulaski County ³ |  | Unclassifiable/Attainment
Putnam County ³ |  | Unclassifiable/Attainment
Randolph County ³ |  | Unclassifiable/Attainment
Ripley County ³ |  | Unclassifiable/Attainment
Rush County ³ |  | Unclassifiable/Attainment
St Joseph County ³ |  | Unclassifiable/Attainment
Scott County ³ |  | Unclassifiable/Attainment
Shelby County ³ |  | Unclassifiable/Attainment
Spencer County ³ |  | Unclassifiable/Attainment
Starke County ³ |  | Unclassifiable/Attainment
Steuben County ³ |  | Unclassifiable/Attainment
Sullivan County ³ |  | Unclassifiable/Attainment
Switzerland County ³ |  | Unclassifiable/Attainment
Tippecanoe County ³ |  | Unclassifiable/Attainment
Tipton County ³ |  | Unclassifiable/Attainment
Union County ³ |  | Unclassifiable/Attainment
Vanderburgh County ³ |  | Unclassifiable/Attainment
Vermillion County ³ |  | Unclassifiable/Attainment
Vigo County ³ |  | Unclassifiable/Attainment
Wabash County ³ |  | Unclassifiable/Attainment
Warren County ³ |  | Unclassifiable/Attainment
Warrick County ³ |  | Unclassifiable/Attainment
Washington County ³ |  | Unclassifiable/Attainment
Wayne County ³ |  | Unclassifiable/Attainment
Wells County ³ |  | Unclassifiable/Attainment
White County ³ |  | Unclassifiable/Attainment
Whitley County ³ |  | Unclassifiable/Attainment
¹ This date is July 20, 2012, unless otherwise noted.
² Excludes Indian country located in each area, unless otherwise noted.
³ Includes any Indian country in each county or area, unless otherwise specified.

"

17. Section 81.316 is amended as follows:

a. By revising the table heading for “Iowa—Ozone (8-Hour Standard)” to read “Iowa—1997 8-Hour Ozone NAAQS (Primary and Secondary)”

b. By adding a new table entitled “Iowa—2008 8-Hour Ozone NAAQS (Primary and Secondary)” following the newly designated table “Iowa—1997 8-Hour Ozone NAAQS (Primary and Secondary)” to read as follows:

§ 81.316 Iowa.

* * * * *

Iowa—2008 8-Hour Ozone NAAQS
[Primary and secondary]
Designated area | Designation: Date ¹ | Designation: Type | Classification: Date ¹ | Classification: Type
Statewide and Any Areas of Indian Country: |  | Unclassifiable/Attainment
Adair County
Adams County
Allamakee County
Appanoose County
Audubon County
Benton County
Black Hawk County
Boone County
Bremer County
Buchanan County
Buena Vista County
Butler County
Calhoun County
Carroll County
Cass County
Cedar County
Cerro Gordo County
Cherokee County
Chickasaw County
Clarke County
Clay County
Clayton County
Clinton County
Crawford County
Dallas County
Davis County
Decatur County
Delaware County
Des Moines County
Dickinson County
Dubuque County
Emmet County
Fayette County
Floyd County
Franklin County
Fremont County
Greene County
Grundy County
Guthrie County
Hamilton County
Hancock County
Hardin County
Harrison County
Henry County
Howard County
Humboldt County
Ida County
Iowa County
Jackson County
Jasper County
Jefferson County
Johnson County
Jones County
Keokuk County
Kossuth County
Lee County
Linn County
Louisa County
Lucas County
Lyon County
Madison County
Mahaska County
Marion County
Marshall County
Mills County
Mitchell County
Monona County
Monroe County
Montgomery County
Muscatine County
O'Brien County
Osceola County
Page County
Palo Alto County
Plymouth County
Pocahontas County
Polk County
Pottawattamie County
Poweshiek County
Ringgold County
Sac County
Scott County
Shelby County
Sioux County
Story County
Tama County
Taylor County
Union County
Van Buren County
Wapello County
Warren County
Washington County
Wayne County
Webster County
Winnebago County
Winneshiek County
Woodbury County
Worth County
Wright County
¹ This date is July 20, 2012, unless otherwise noted.

18. Section 81.317 is amended as follows:

a. By revising the table heading for “Kansas—Ozone (8-Hour Standard)” to read “Kansas—1997 8-Hour Ozone NAAQS (Primary and Secondary)”

b. By adding a new table entitled “Kansas—2008 8-Hour Ozone NAAQS (Primary and Secondary)” following the newly designated table “Kansas—1997 8-Hour Ozone NAAQS (Primary and Secondary)” to read as follows:

§ 81.317 Kansas.

* * * * *

Kansas—2008 8-Hour Ozone NAAQS
[Primary and secondary]
Designated area | Designation: Date ¹ | Designation: Type | Classification: Date ¹ | Classification: Type
Statewide and Any Areas of Indian Country: |  | Unclassifiable/Attainment
Allen County
Anderson County
Atchison County
Barber County
Barton County
Bourbon County
Brown County
Butler County
Chase County
Chautauqua County
Cherokee County
Cheyenne County
Clark County
Clay County
Cloud County
Coffey County
Comanche County
Cowley County
Crawford County
Decatur County
Dickinson County
Doniphan County
Douglas County
Edwards County
Elk County
Ellis County
Ellsworth County
Finney County
Ford County
Franklin County
Geary County
Gove County
Graham County
Grant County
Gray County
Greeley County
Greenwood County
Hamilton County
Harper County
Harvey County
Haskell County
Hodgeman County
Jackson County
Jefferson County
Jewell County
Johnson County
Kearny County
Kingman County
Kiowa County
Labette County
Lane County
Leavenworth County
Lincoln County
Linn County
Logan County
Lyon County
McPherson County
Marion County
Marshall County
Meade County
Miami County
Mitchell County
Montgomery County
Morris County
Morton County
Nemaha County
Neosho County
Ness County
Norton County
Osage County
Osborne County
Ottawa County
Pawnee County
Phillips County
Pottawatomie County
Pratt County
Rawlins County
Reno County
Republic County
Rice County
Riley County
Rooks County
Rush County
Russell County
Saline County
Scott County
Sedgwick County
Seward County
Shawnee County
Sheridan County
Sherman County
Smith County
Stafford County
Stanton County
Stevens County
Sumner County
Thomas County
Trego County
Wabaunsee County
Wallace County
Washington County
Wichita County
Wilson County
Woodson County
Wyandotte County
¹ This date is July 20, 2012, unless otherwise noted.

19. Section 81.318 is amended as follows:

a. By revising the table heading for “Kentucky—Ozone (8-Hour Standard)” to read “Kentucky—1997 8-Hour Ozone NAAQS (Primary and Secondary)”

b. By adding a new table entitled “Kentucky—2008 8-Hour Ozone NAAQS (Primary and Secondary)” following the newly designated table “Kentucky—1997 8-Hour Ozone NAAQS (Primary and Secondary)” to read as follows:

§ 81.318 Kentucky.

* * * * *

Kentucky—2008 8-Hour Ozone NAAQS
[Primary and secondary]
Designated area | Designation: Date ¹ | Designation: Type | Classification: Date ¹ | Classification: Type
Cincinnati, OH-KY-IN: ² |  | Nonattainment |  | Marginal.
Boone County (part) |
2000 Census tracts: 702, 703.01, 703.04, 703.05, 703.06, 703.07, 703.08, 703.09, 704.01, 704.02, 705.01, 705.02, 706.01, 706.03, 706.04 |
Campbell County (part) |
2000 Census tracts: 501, 502, 503, 504, 505, 506, 511.01, 511.02, 512, 513, 519.01, 519.03, 519.04, 520.01, 520.02, 521, 522, 523.01, 523.02, 524, 525, 526, 528, 529, 530, 531 |
Kenton County (part) |
2000 Census tracts: 603, 607, 609, 610, 611, 612, 613, 614, 616, 636.03, 636.04, 636.05, 636.06, 638, 640, 641, 642, 643, 644, 645, 646, 647, 648, 649, 650, 651, 652, 653, 654, 655.01, 655.02, 656, 657, 658, 659, 668, 669, 670, 671 |
Rest of State: ³
Adair County |  | Unclassifiable/Attainment
Allen County |  | Unclassifiable/Attainment
Anderson County |  | Unclassifiable/Attainment
Ballard County |  | Unclassifiable/Attainment
Barren County |  | Unclassifiable/Attainment
Bath County |  | Unclassifiable/Attainment
Bell County |  | Unclassifiable/Attainment
Boone County (part) |  | Unclassifiable/Attainment
2000 Census tracts: 706.01 and 706.04 |  |  |  |
Bourbon County |  | Unclassifiable/Attainment
Boyd County |  | Unclassifiable/Attainment
Boyle County |  | Unclassifiable/Attainment
Bracken County |  | Unclassifiable/Attainment
Breathitt County |  | Unclassifiable/Attainment
Breckinridge County |  | Unclassifiable/Attainment
Bullitt County |  | Unclassifiable/Attainment O="xl" |  |
Butler County |  | Unclassifiable/Attainment
Caldwell County |  | Unclassifiable/Attainment
Calloway County |  | Unclassifiable/Attainment
Campbell County (part) |  | Unclassifiable/Attainment
2000 Census tracts: 520.01 and 520.02 |  |  |  |
Carlisle County |  | Unclassifiable/Attainment
Carroll County |  | Unclassifiable/Attainment
Carter County |  | Unclassifiable/Attainment
Casey County |  | Unclassifiable/Attainment
Christian County |  | Unclassifiable/Attainment
Clark County |  | Unclassifiable/Attainment
Clay County |  | Unclassifiable/Attainment
Clinton County |  | Unclassifiable/Attainment
Crittenden County |  | Unclassifiable/Attainment
Cumberland County |  | Unclassifiable/Attainment
Daviess County |  | Unclassifiable/Attainment
Edmonson County |  | Unclassifiable/Attainment
Elliott County |  | Unclassifiable/Attainment
Estill County |  | Unclassifiable/Attainment
Fayette County |  | Unclassifiable/Attainment
Fleming County |  | Unclassifiable/Attainment
Floyd County |  | Unclassifiable/Attainment
Franklin County |  | Unclassifiable/Attainment
Fulton County |  | Unclassifiable/Attainment
Gallatin County |  | Unclassifiable/Attainment
Garrard County |  | Unclassifiable/Attainment
Grant County |  | Unclassifiable/Attainment
Graves County |  | Unclassifiable/Attainment
Grayson County |  | Unclassifiable/Attainment
Green County |  | Unclassifiable/Attainment
Greenup County |  | Unclassifiable/Attainment
Hancock County |  | Unclassifiable/Attainment
Hardin County |  | Unclassifiable/Attainment
Harlan County |  | Unclassifiable/Attainment
Harrison County |  | Unclassifiable/Attainment
Hart County |  | Unclassifiable/Attainment
Henderson County |  | Unclassifiable/Attainment
Henry County |  | Unclassifiable/Attainment
Hickman County |  | Unclassifiable/Attainment
Hopkins County |  | Unclassifiable/Attainment
Jackson County |  | Unclassifiable/Attainment
Jefferson County |  | Unclassifiable/Attainment
Jessamine County |  | Unclassifiable/Attainment
Johnson County |  | Unclassifiable/Attainment
Kenton County (part) |  | Unclassifiable/Attainment
2000 Census tracts: 637.01 and 637.04 |  |  |  |
Knott County |  | Unclassifiable/Attainment
Knox County |  | Unclassifiable/Attainment
Larue County |  | Unclassifiable/Attainment
Laurel County |  | Unclassifiable/Attainment
Lawrence County |  | Unclassifiable/Attainment
Lee County |  | Unclassifiable/Attainment
Leslie County |  | Unclassifiable/Attainment
Letcher County |  | Unclassifiable/Attainment
Lewis County |  | Unclassifiable/Attainment
Lincoln County |  | Unclassifiable/Attainment
Livingston County |  | Unclassifiable/Attainment
Logan County |  | Unclassifiable/Attainment
Lyon County |  | Unclassifiable/Attainment
McCracken County |  | Unclassifiable/Attainment
McCreary County |  | Unclassifiable/Attainment
McLean County |  | Unclassifiable/Attainment
Madison County |  | Unclassifiable/Attainment
Magoffin County |  | Unclassifiable/Attainment
Marion County |  | Unclassifiable/Attainment
Marshall County |  | Unclassifiable/Attainment
Martin County |  | Unclassifiable/Attainment
Mason County |  | Unclassifiable/Attainment
Meade County |  | Unclassifiable/Attainment
Menifee County |  | Unclassifiable/Attainment
Mercer County |  | Unclassifiable/Attainment
Metcalfe County |  | Unclassifiable/Attainment
Monroe County |  | Unclassifiable/Attainment
Montgomery County |  | Unclassifiable/Attainment
Morgan County |  | Unclassifiable/Attainment
Muhlenberg County |  | Unclassifiable/Attainment
Nelson County |  | Unclassifiable/Attainment
Nicholas County |  | Unclassifiable/Attainment
Ohio County |  | Unclassifiable/Attainment
Oldham County |  | Unclassifiable/Attainment
Owen County |  | Unclassifiable/Attainment
Owsley County |  | Unclassifiable/Attainment
Pendleton County |  | Unclassifiable/Attainment
Perry County |  | Unclassifiable/Attainment
Pike County |  | Unclassifiable/Attainment
Powell County |  | Unclassifiable/Attainment
Pulaski County |  | Unclassifiable/Attainment
Robertson County |  | Unclassifiable/Attainment
Rockcastle County |  | Unclassifiable/Attainment
Rowan County |  | Unclassifiable/Attainment
Russell County |  | Unclassifiable/Attainment
Scott County |  | Unclassifiable/Attainment
Shelby County |  | Unclassifiable/Attainment
Simpson County |  | Unclassifiable/Attainment
Spencer County |  | Unclassifiable/Attainment
Taylor County |  | Unclassifiable/Attainment
Todd County |  | Unclassifiable/Attainment
Trigg County |  | Unclassifiable/Attainment
Trimble County |  | Unclassifiable/Attainment
Union County |  | Unclassifiable/Attainment
Warren County |  | Unclassifiable/Attainment
Washington County |  | Unclassifiable/Attainment
Wayne County |  | Unclassifiable/Attainment
Webster County |  | Unclassifiable/Attainment
Whitley County |  | Unclassifiable/Attainment
Wolfe County |  | Unclassifiable/Attainment
Woodford County |  | Unclassifiable/Attainment
¹ This date is July 20, 2012, unless otherwise noted.
² Excludes Indian country located in each area, unless otherwise noted.
³ Includes any Indian country in each county or area, unless otherwise specified.

20. Section 81.319 is amended as follows:

a. By revising the table heading for “Louisiana—Ozone (8-Hour Standard)” to read “Louisiana—1997 8-Hour Ozone NAAQS (Primary and Secondary)”

b. By adding a new table entitled “Louisiana—2008 8-Hour Ozone NAAQS (Primary and Secondary)” following the newly designated table “Louisiana—1997 8-Hour Ozone NAAQS (Primary and Secondary)” to read as follows:

§ 81.319 Louisiana.

* * * * *

Louisiana—2008 8-Hour Ozone NAAQS
[Primary and secondary]
Designated area | Designation: Date ¹ | Designation: Type | Classification: Date ¹ | Classification: Type
Baton Rouge, LA: ² |  | Nonattainment |  | Marginal.
Ascension Parish
East Baton Rouge Parish
Iberville Parish
Livingston Parish
West Baton Rouge Parish
AQCR 019 Monroe-El Dorado Interstate: ³
Caldwell Parish |  | Unclassifiable/Attainment
Catahoula Parish |  | Unclassifiable/Attainment
Concordia Parish |  | Unclassifiable/Attainment
East Carroll Parish |  | Unclassifiable/Attainment
Franklin Parish |  | Unclassifiable/Attainment
La Salle Parish |  | Unclassifiable/Attainment
Madison Parish |  | Unclassifiable/Attainment
Morehouse Parish |  | Unclassifiable/Attainment
Ouachita Parish |  | Unclassifiable/Attainment
Richland Parish |  | Unclassifiable/Attainment
Tensas Parish |  | Unclassifiable/Attainment
Union Parish |  | Unclassifiable/Attainment
West Carroll Parish |  | Unclassifiable/Attainment
AQCR 022 Shreveport-Texarkana-Tyler Interstate: ³
Bienville Parish |  | Unclassifiable/Attainment
Bossier Parish |  | Unclassifiable/Attainment
Caddo Parish |  | Unclassifiable/Attainment
Claiborne Parish |  | Unclassifiable/Attainment
De Soto Parish |  | Unclassifiable/Attainment
Jackson Parish |  | Unclassifiable/Attainment
Lincoln Parish |  | Unclassifiable/Attainment
Natchitoches Parish |  | Unclassifiable/Attainment
Red River Parish |  | Unclassifiable/Attainment
Sabine Parish |  | Unclassifiable/Attainment
Webster Parish |  | Unclassifiable/Attainment
Winn Parish |  | Unclassifiable/Attainment
AQCR 106 S. Louisiana-SE. Texas Interstate: (remainder) ³
Acadia Parish |  | Unclassifiable/Attainment
Allen Parish |  | Unclassifiable/Attainment
Assumption Parish |  | Unclassifiable/Attainment
Avoyelles Parish |  | Unclassifiable/Attainment
Beauregard Parish |  | Unclassifiable/Attainment
Calcasieu Parish |  | Unclassifiable/Attainment
Cameron Parish |  | Unclassifiable/Attainment
East Feliciana Parish |  | Unclassifiable/Attainment
Evangeline Parish |  | Unclassifiable/Attainment
Grant Parish |  | Unclassifiable/Attainment
Iberia Parish |  | Unclassifiable/Attainment
Jefferson Davis Parish |  | Unclassifiable/Attainment
Jefferson Parish |  | Unclassifiable/Attainment
Lafayette Parish |  | Unclassifiable/Attainment
Lafourche Parish |  | Unclassifiable/Attainment
Orleans Parish |  | Unclassifiable/Attainment
Plaquemines Parish |  | Unclassifiable/Attainment
Pointe Coupee Parish |  | Unclassifiable/Attainment
Rapides Parish |  | Unclassifiable/Attainment
St. Bernard Parish |  | Unclassifiable/Attainment
St. Charles Parish |  | Unclassifiable/Attainment
St. Helena Parish |  | Unclassifiable/Attainment
St. James Parish |  | Unclassifiable/Attainment
St. John the Baptist Parish |  | Unclassifiable/Attainment
St. Landry Parish |  | Unclassifiable/Attainment
St. Martin Parish |  | Unclassifiable/Attainment
St. Mary Parish |  | Unclassifiable/Attainment
St. Tammany Parish |  | Unclassifiable/Attainment
Tangipahoa Parish |  | Unclassifiable/Attainment
Terrebonne Parish |  | Unclassifiable/Attainment
Vermilion Parish |  | Unclassifiable/Attainment
Vernon Parish |  | Unclassifiable/Attainment
Washington Parish |  | Unclassifiable/Attainment
West Feliciana Parish |  | Unclassifiable/Attainment
¹ This date is July 20, 2012, unless otherwise noted.
² Excludes Indian country located in each area, unless otherwise noted.
³ Includes any Indian country in each county or area, unless otherwise specified.

21. Section 81.320 is amended as follows:

a. By revising the table heading for “Maine—Ozone (8-Hour Standard)” to read “Maine—1997 8-Hour Ozone NAAQS (Primary and Secondary)”

b. By adding a new table entitled “Maine—2008 8-Hour Ozone NAAQS (Primary and Secondary)” following the newly designated table “Maine—1997 8-Hour Ozone NAAQS (Primary and Secondary)” to read as follows:

§ 81.320 Maine.

* * * * *

Maine—2008 8-Hour Ozone NAAQS
[Primary and secondary]
Designated area | Designation: Date ¹ | Designation: Type | Classification: Date ¹ | Classification: Type
Statewide: ² |  | Unclassifiable/Attainment
Androscoggin County
Aroostook County
Cumberland County
Franklin County
Hancock County
Kennebec County
Knox County
Lincoln County
Oxford County
Penobscot County
Piscataquis County
Sagadahoc County
Somerset County
Waldo County
Washington County
York County
¹ This date is July 20, 2012, unless otherwise noted.
² Includes any Indian country in each county or area, unless otherwise specified.

22. Section 81.321 is amended as follows:

a. By revising the table heading for “Maryland—Ozone (8-Hour Standard)” to read “Maryland—1997 8-Hour Ozone NAAQS (Primary and Secondary)”

b. By adding a new table entitled “Maryland—2008 8-Hour Ozone NAAQS (Primary and Secondary)” following the newly designated table “Maryland—1997 8-Hour Ozone NAAQS (Primary and Secondary)” to read as follows:

§ 81.321 Maryland.

* * * * *

Maryland—2008 8-Hour Ozone NAAQS
[Primary and secondary]
Designated area | Designation: Date ¹ | Designation: Type | Classification: Date ¹ | Classification: Type
Baltimore, MD: ² |  | Nonattainment |  | Moderate.
Anne Arundel County
Baltimore County
Baltimore City
Carroll County
Harford County
Howard County
Philadelphia-Wilmington-Atlantic City, PA-NJ-MD-DE: ² |  | Nonattainment |  | Marginal.
Cecil County
Washington, DC-MD-VA: ² |  | Nonattainment |  | Marginal.
Calvert County
Charles County
Frederick County
Montgomery County
Prince George's County
AQCR 113 Cumberland-Keyser Interstate ³ |  | Unclassifiable/Attainment
Allegany County
Garrett County
Washington County
AQCR 114 Eastern Shore Interstate: (remainder) ³ |  | Unclassifiable/Attainment
Caroline County
Dorchester County
Kent County
Queen Anne's County
Somerset County
Talbot County
Wicomico County
Worcester County
AQCR 116 Southern Maryland Intrastate: (remainder) ³ |  | Unclassifiable/Attainment
St. Mary's County
¹ This date is July 20, 2012, unless otherwise noted.
² Excludes Indian country located in each area, unless otherwise noted.
³ Includes any Indian country in each county or area, unless otherwise specified.

23. Section 81.322 is amended as follows:

a. By revising the table heading for “Massachusetts—Ozone (8-Hour Standard)” to read “Massachusetts—1997 8-Hour Ozone NAAQS (Primary and Secondary)”

b. By adding a new table entitled “Massachusetts—2008 8-Hour Ozone NAAQS (Primary and Secondary)” following the newly designated table “Massachusetts—1997 8-Hour Ozone NAAQS (Primary and Secondary)” to read as follows:

§ 81.322 Massachusetts.

* * * * *

Massachusetts—2008 8-Hour Ozone NAAQS
[Primary and secondary]
Designated area | Designation: Date ¹ | Designation: Type | Classification: Date ¹ | Classification: Type
Dukes County, MA: ² |  | Nonattainment |  | Marginal.
Dukes County Wampanoag Tribe of Gay Head (Aquinnah) of Massachusetts ³
Rest of State: ⁴
Barnstable County |  | Unclassifiable/Attainment
Berkshire County |  | Unclassifiable/Attainment
Bristol County |  | Unclassifiable/Attainment
Essex County |  | Unclassifiable/Attainment
Franklin County |  | Unclassifiable/Attainment
Hampden County. |  | Unclassifiable/Attainment
Hampshire County |  | Unclassifiable/Attainment
Middlesex County |  | Unclassifiable/Attainment
Nantucket County |  | Unclassifiable/Attainment
Norfolk County |  | Unclassifiable/Attainment
Plymouth County |  | Unclassifiable/Attainment
Suffolk County |  | Unclassifiable/Attainment
Worcester County |  | Unclassifiable/Attainment
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.
⁴ Includes any Indian country in each county or area, unless otherwise specified.

24. Section 81.323 is amended as follows:

a. By revising the table heading for “Michigan—Ozone (8-Hour Standard)” to read “Michigan—1997 8-Hour Ozone NAAQS (Primary and Secondary)”

b. By adding a new table entitled “Michigan—2008 8-Hour Ozone NAAQS (Primary and Secondary)” following the newly designated table “Michigan—1997 8-Hour Ozone NAAQS (Primary and Secondary)” to read as follows:

§ 81.323 Michigan.

* * * * *

Michigan—2008 8-Hour Ozone NAAQS
[Primary and secondary]
Designated area | Designation: Date ¹ | Designation: Type | Classification: Date ¹ | Classification: Type
Statewide and Any Areas of Indian Country |  | Unclassifiable/Attainment
¹ This date is July 20, 2012, unless otherwise noted.

25. Section 81.324 is amended as follows:

a. By revising the table heading for “Minnesota—Ozone (8-Hour Standard)” to read “Minnesota—1997 8-Hour Ozone NAAQS (Primary and Secondary)”

b. By adding a new table entitled “Minnesota—2008 8-Hour Ozone NAAQS (Primary and Secondary)” following the newly designated table “Minnesota—1997 8-Hour Ozone NAAQS (Primary and Secondary)” to read as follows:

§ 81.324 Minnesota.

* * * * *

Minnesota—2008 8-Hour Ozone NAAQS
[Primary and secondary]
Designated area | Designation: Date ¹ | Designation: Type | Classification: Date ¹ | Classification: Type
Statewide and Any Areas of Indian Country |  | Unclassifiable/Attainment
¹ This date is July 20, 2012, unless otherwise noted.

26. Section 81.325 is amended as follows:

a. By revising the table heading for “Mississippi—Ozone (8-Hour Standard)” to read “Mississippi—1997 8-Hour Ozone NAAQS (Primary and Secondary)”

b. By adding a new table entitled “Mississippi—2008 8-Hour Ozone NAAQS (Primary and Secondary)” following the existing table “Mississippi—1997 8-Hour Ozone NAAQS (Primary and Secondary)” to read as follows:

§ 81.325 Mississippi.

* * * * *

Mississippi—2008 8-Hour Ozone NAAQS
[Primary and secondary]
Designated area | Designation: Date¹ | Designation: Type | Classification: Date¹ | Classification: Type
Memphis, TN-MS-AR: ²
DeSoto County (part) Portion along MPO Lines |  | NonAttainment | Marginal.
Rest of State: ³
Adams County |  | Unclassifiable/Attainment
Alcorn County |  | Unclassifiable/Attainment
Amite County |  | Unclassifiable/Attainment
Attala County |  | Unclassifiable/Attainment
Benton County |  | Unclassifiable/Attainment
Bolivar County |  | Unclassifiable/Attainment
Calhoun County |  | Unclassifiable/Attainment
Carroll County |  | Unclassifiable/Attainment
Chickasaw County |  | Unclassifiable/Attainment
Choctaw County |  | Unclassifiable/Attainment
Claiborne County |  | Unclassifiable/Attainment
Clarke County |  | Unclassifiable/Attainment
Clay County |  | Unclassifiable/Attainment.
Coahoma County |  | Unclassifiable/Attainment
Copiah County |  | Unclassifiable/Attainment
Covington County |  | Unclassifiable/Attainment
DeSoto County (remainder) |  | Unclassifiable/Attainment
Forrest County |  | Unclassifiable/Attainment
Franklin County |  | Unclassifiable/Attainment
George County |  | Unclassifiable/Attainment
Greene County |  | Unclassifiable/Attainment
Grenada County |  | Unclassifiable/Attainment
Hancock County |  | Unclassifiable/Attainment
Harrison County |  | Unclassifiable/Attainment
Hinds County |  | Unclassifiable/Attainment
Holmes County |  | Unclassifiable/Attainment
Humphreys County |  | Unclassifiable/Attainment
Issaquena County |  | Unclassifiable/Attainment
Itawamba County |  | Unclassifiable/Attainment
Jackson County |  | Unclassifiable/Attainment
Jasper County |  | Unclassifiable/Attainment
Jefferson County |  | Unclassifiable/Attainment
Jefferson Davis County |  | Unclassifiable/Attainment
Jones County |  | Unclassifiable/Attainment
Kemper County |  | Unclassifiable/Attainment
Lafayette County |  | Unclassifiable/Attainment
Lamar County |  | Unclassifiable/Attainment
Lauderdale County |  | Unclassifiable/Attainment
Lawrence County |  | Unclassifiable/Attainment
Leake County |  | Unclassifiable/Attainment
Lee County |  | Unclassifiable/Attainment
Leflore County |  | Unclassifiable/Attainment
Lincoln County |  | Unclassifiable/Attainment
Lowndes County |  | Unclassifiable/Attainment
Madison County |  | Unclassifiable/Attainment
Marion County |  | Unclassifiable/Attainment
Marshall County |  | Unclassifiable/Attainment
Monroe County |  | Unclassifiable/Attainment
Montgomery County |  | Unclassifiable/Attainment
Neshoba County |  | Unclassifiable/Attainment
Newton County |  | Unclassifiable/Attainment
Noxubee County |  | Unclassifiable/Attainment
Oktibbeha County |  | Unclassifiable/Attainment
Panola County |  | Unclassifiable/Attainment
Pearl River County |  | Unclassifiable/Attainment
Perry County |  | Unclassifiable/Attainment
Pike County |  | Unclassifiable/Attainment
Pontotoc County |  | Unclassifiable/Attainment
Prentiss County |  | Unclassifiable/Attainment
Quitman County |  | Unclassifiable/Attainment
Rankin County |  | Unclassifiable/Attainment
Scott County |  | Unclassifiable/Attainment
Sharkey County |  | Unclassifiable/Attainment
Simpson County |  | Unclassifiable/Attainment
Smith County |  | Unclassifiable/Attainment
Stone County |  | Unclassifiable/Attainment
Sunflower County |  | Unclassifiable/Attainment
Tallahatchie County |  | Unclassifiable/Attainment
Tate County. |  | Unclassifiable/Attainment
Tippah County |  | Unclassifiable/Attainment
Tishomingo County |  | Unclassifiable/Attainment
Tunica County |  | Unclassifiable/Attainment
Union County |  | Unclassifiable/Attainment
Walthall County |  | Unclassifiable/Attainment
Warren County |  | Unclassifiable/Attainment
Washington County |  | Unclassifiable/Attainment
Wayne County |  | Unclassifiable/Attainment
Webster County |  | Unclassifiable/Attainment
Wilkinson County |  | Unclassifiable/Attainment
Winston County |  | Unclassifiable/Attainment
Yalobusha County |  | Unclassifiable/Attainment
Yazoo County |  | Unclassifiable/Attainment
¹ This date is July 20, 2012, unless otherwise noted.
² Excludes Indian country located in each area, unless otherwise noted.
³ Includes any Indian country in each county or area, unless otherwise specified.

27. Section 81.326 is amended as follows:

a. By revising the table heading for “Missouri—Ozone (8-Hour Standard)” to read “Missouri—1997 8-Hour Ozone NAAQS (Primary and Secondary)”

b. By adding a new table entitled “Missouri—2008 8-Hour Ozone NAAQS (Primary and Secondary)” following the newly designated table “Missouri—1997 8-Hour Ozone NAAQS (Primary and Secondary)” to read as follows:

§ 81.326 Missouri.

* * * * *

Missouri—2008 8-Hour Ozone NAAQS
[Primary and secondary]
Designated area | Designation: Date ¹ | Designation: Type | Classification: Date ¹ | Classification: Type
St. Louis-St. Charles-Farmington, MO-IL: ² |  | Nonattainment |  | Marginal.
Franklin County |  |  |  |
Jefferson County |  |  |  |
St. Charles County |  |  |  |
St. Louis County |  |  |  |
St. Louis City |  |  |  |
Rest of State: ³ |  | Unclassifiable/Attainment
Adair County |  |  |  |
Andrew County |  |  |  |
Atchison County |  |  |  |
Audrain County |  |  |  |
Barry County |  |  |  |
Barton County |  |  |  |
Bates County |  |  |  |
Benton County |  |  |  |
Bollinger County |  |  |  |
Boone County |  |  |  |
Buchanan County |  |  |  |
Butler County |  |  |  |
Caldwell County |  |  |  |
Callaway County |  |  |  |
Camden County |  |  |  |
Cape Girardeau County |  |  |  |
Carter County |  |  |  |
Cass County |  |  |  |
Cedar County |  |  |  |
Chariton County |  |  |  |
Christian County |  |  |  |
Clark County |  |  |  |
Clay County |  |  |  |
Clinton County |  |  |  |
Cole County |  |  |  |
Cooper County |  |  |  |
Crawford County |  |  |  |
Dade County |  |  |  |
Dallas County |  |  |  |
Daviess County |  |  |  |
DeKalb County |  |  |  |
Dent County |  |  |  |
Douglas County |  |  |  |
Dunklin County |  |  |  |
Gasconade County |  |  |  |
Gentry County |  |  |  |
Greene County |  |  |  |
Grundy County |  |  |  |
Harrison County |  |  |  |
Henry County |  |  |  |
Hickory County |  |  |  |
Holt County |  |  |  |
Howard County |  |  |  |
Howell County |  |  |  |
Iron County |  |  |  |
Jackson County |  |  |  |
Jasper County |  |  |  |
Johnson County |  |  |  |
Knox County |  |  |  |
Laclede County |  |  |  |
Lafayette County |  |  |  |
Lawrence County |  |  |  |
Lewis County |  |  |  |
Lincoln County |  |  |  |
Linn County |  |  |  |
Livingston County |  |  |  |
McDonald County |  |  |  |
Macon County |  |  |  |
Madison County |  |  |  |
Maries County |  |  |  |
Marion County |  |  |  |
Mercer County |  |  |  |
Miller County |  |  |  |
Mississippi County |  |  |  |
Moniteau County |  |  |  |
Monroe County |  |  |  |
Montgomery County |  |  |  |
Morgan County |  |  |  |
New Madrid County |  |  |  |
Newton County |  |  |  |
Nodaway County |  |  |  |
Oregon County |  |  |  |
Osage County |  |  |  |
Ozark County |  |  |  |
Pemiscot County |  |  |  |
Perry County |  |  |  |
Pettis County |  |  |  |
Phelps County |  |  |  |
Pike County |  |  |  |
Platte County |  |  |  |
Polk County |  |  |  |
Pulaski County |  |  |  |
Putnam County |  |  |  |
Ralls County |  |  |  |
Randolph County |  |  |  |
Ray County |  |  |  |
Reynolds County |  |  |  |
Ripley County |  |  |  |
St. Clair County |  |  |  |
St. Genevieve County |  |  |  |
St. Francois County |  |  |  |
Saline County |  |  |  |
Schuyler County |  |  |  |
Scotland County |  |  |  |
Scott County |  |  |  |
Shannon County |  |  |  |
Shelby County |  |  |  |
Stoddard County |  |  |  |
Stone County |  |  |  |
Sullivan County |  |  |  |
Taney County |  |  |  |
Texas County |  |  |  |
Vernon County |  |  |  |
Warren County |  |  |  |
Washington County |  |  |  |
Wayne County |  |  |  |
Webster County |  |  |  |
Worth County |  |  |  |
Wright County |  |  |  |
¹ This date is July 20, 2012, unless otherwise noted.
² Excludes Indian country located in each area, unless otherwise noted.
³ Includes any Indian country in each county or area, unless otherwise specified.

28. Section 81.327 is amended as follows:

a. By revising the table heading for “Montana—Ozone (8-Hour Standard)” to read “Montana—1997 8-Hour Ozone NAAQS (Primary and Secondary)”

b. By adding a new table entitled “Montana—2008 8-Hour Ozone NAAQS (Primary and Secondary)” following the newly designated table “Montana—1997 8-Hour Ozone NAAQS (Primary and Secondary)” to read as follows:

§ 81.327 Montana.

* * * * *

Montana—2008 8-Hour Ozone NAAQS
[Primary and secondary]
Designated area | Designation: Date ¹ | Designation: Type | Classification: Date ¹ | Classification: Type
Statewide and Any Areas of Indian Country |  | Unclassifiable/Attainment
¹ This date is July 20, 2012, unless otherwise noted.

29. Section 81.328 is amended as follows:

a. By revising the table heading for “Nebraska—Ozone (8-Hour Standard)” to read “Nebraska—1997 8-Hour Ozone NAAQS (Primary and Secondary)

b. By adding a new table entitled “Nebraska—2008 8-Hour Ozone NAAQS (Primary and Secondary)” following the newly designated table “Nebraska—1997 8-Hour Ozone NAAQS (Primary and Secondary)” to read as follows:

§ 81.328 Nebraska.

* * * * *

Nebraska—2008 8-Hour Ozone NAAQS
[Primary and secondary]
Designated area | Designation: Date ¹ | Designation: Type | Classification: Date ¹ | Classification: Type
Statewide: ² |  | Unclassifiable/Attainment
Adams County
Antelope County
Arthur County
Banner County
Blaine County
Boone County
Box Butte County
Boyd County
Brown County
Buffalo County
Burt County
Butler County
Cass County
Cedar County
Chase County
Cherry County
Cheyenne County
Clay County
Colfax County
Cuming County
Custer County
Dakota County
Dawes County
Dawson County
Deuel County
Dixon County
Dodge County
Douglas County
Dundy County
Fillmore County
Franklin County
Frontier County
Furnas County
Gage County
Garden County
Garfield County
Gosper County
Grant County
Greeley County
Hall County
Hamilton County
Harlan County
Hayes County
Hitchcock County
Holt County
Hooker County
Howard County
Jefferson County
Johnson County
Kearney County
Keith County
Keya Paha County
Kimball County
Knox County
Lancaster County
Lincoln County
Logan County
Loup County
McPherson County
Madison County
Merrick County
Morrill County
Nance County
Nemaha County
Nuckolls County
Otoe County
Pawnee County
Perkins County
Phelps County
Pierce County
Platte County
Polk County
Red Willow County
Richardson County
Rock County
Saline County
Sarpy County
Saunders County
Scotts Bluff County
Seward County
Sheridan County
Sherman County
Sioux County
Stanton County
Thayer County
Thomas County
Thurston County
Valley County
Washington County
Wayne County
Webster County
Wheeler County
York County
¹ This date is July 20, 2012, unless otherwise noted.
² Includes any Indian country in each county or area, unless otherwise specified.

30. Section 81.329 is amended as follows:

a. By revising the table heading for “Nevada—Ozone (8-Hour Standard)” to read “Nevada—1997 8-Hour Ozone NAAQS (Primary and Secondary)”

b. By adding a new table entitled “Nevada—2008 8-Hour Ozone NAAQS (Primary and Secondary)” following the newly designated table “Nevada—1997 8-Hour Ozone NAAQS (Primary and Secondary)” to read as follows:

§ 81.329 Nevada.

* * * * *

Nevada—2008 8-Hour Ozone NAAQS
[Primary and secondary]
Designated area | Designation: Date ¹ | Designation: Type | Classification: Date ¹ | Classification: Type
Statewide and Any Areas of Indian Country: ² |  | Unclassifiable/Attainment
¹ This date is July 20, 2012, unless otherwise noted.
² Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

31. Section 81.330 is amended as follows:

a. By revising the table heading for “New Hampshire—Ozone (8-Hour Standard)” to read “New Hampshire—1997 8-Hour Ozone NAAQS (Primary and Secondary)

b. By adding a new table entitled “New Hampshire—2008 8-Hour Ozone NAAQS (Primary and Secondary)” following the newly designated table “New Hampshire—1997 8-Hour Ozone NAAQS (Primary and Secondary)” to read as follows:

§ 81.330 New Hampshire.

* * * * *

New Hampshire—2008 8-Hour Ozone NAAQS
[Primary and secondary]
Designated area | Designation: Date ¹ | Designation: Type | Classification: Date ¹ | Classification: Type
Statewide: ² |  | Unclassifiable/Attainment
Belknap County
Carroll County
Cheshire County
Coos County
Grafton County
Hillsborough County
Merrimack County
Rockingham County
Strafford County
Sullivan County
¹ This date is July 20, 2012, unless otherwise noted.
² Includes any Indian country in each county or area, unless otherwise specified.

32. Section 81.331 is amended as follows:

a. By revising the table heading for “New Jersey—Ozone (8-Hour Standard)” to read “New Jersey—1997 8-Hour Ozone NAAQS (Primary and Secondary)”

b. By adding a new table entitled “New Jersey—2008 8-Hour Ozone NAAQS (Primary and Secondary)” following the newly designated table “New Jersey—1997 8-Hour Ozone NAAQS (Primary and Secondary)” to read as follows:

§ 81.331 New Jersey.

* * * * *

New Jersey—2008 8-Hour Ozone NAAQS
[Primary and secondary]
Designated area | Designation: Date ¹ | Designation: Type | Classification: Date ¹ | Classification: Type
New York-N. New Jersey-Long Island, NY-NJ-CT: ² |  | Nonattainment |  | Marginal.
Bergen County
Essex County
Hudson County
Hunterdon County
Middlesex County
Monmouth County
Morris County
Passaic County
Somerset County
Sussex County
Union County
Warren County
Philadelphia-Wilmington-Atlantic City, PA-NJ-MD-DE: ² |  | Nonattainment |  | Marginal.
Atlantic County
Burlington County
Camden County
Cape May County
Cumberland County
Gloucester County
Mercer County
Ocean County
Salem County
¹ This date is July 20, 2012, unless otherwise noted.
² Excludes Indian country located in each area, unless otherwise noted.

33. Section 81.332 is amended as follows:

a. By revising the table heading for “New Mexico—Ozone (8-Hour Standard)” to read “New Mexico—1997 8-Hour Ozone NAAQS (Primary and Secondary)”

b. By adding a new table entitled “New Mexico—2008 8-Hour Ozone NAAQS (Primary and Secondary)” following the newly designated table “New Mexico—1997 8-Hour Ozone NAAQS (Primary and Secondary)” to read as follows:

§ 81.332 New Mexico.

* * * * *

New Mexico—2008 8-Hour Ozone NAAQS
[Primary and secondary]
Designated area ¹ | Designation: Date ² | Designation: Type | Classification: Date ² | Classification: Type
AQCR 012 New Mexico-Southern Border Intrastate:
Grant County |  | Unclassifiable/Attainment
Hidalgo County |  | Unclassifiable/Attainment
Luna County |  | Unclassifiable/Attainment
AQCR 014 Four Corners Interstate (see 40 CFR 81.121):
McKinley County (part) |  | Unclassifiable/Attainment
Río Arriba County (part) |  | Unclassifiable/Attainment
Sandoval County (part) |  | Unclassifiable/Attainment
San Juan County |  | Unclassifiable/Attainment
Valencia County (part) |  | Unclassifiable/Attainment
AQCR 152 Albuquerque-Mid Rio Grande Intrastate (see 40 CFR 81.83):
Bernalillo County |  | Unclassifiable/Attainment
Sandoval County (part) |  | Unclassifiable/Attainment
Valencia County (part) |  | Unclassifiable/Attainment
AQCR 153 El Paso-Las Cruces-Alamogordo Interstate:
Doña Ana County |  | Unclassifiable/Attainment
Lincoln County |  | Unclassifiable/Attainment
Otero County |  | Unclassifiable/Attainment
Sierra County |  | Unclassifiable/Attainment
AQCR 154 Northeastern Plains Intrastate:
Colfax County |  | Unclassifiable/Attainment
Guadalupe County |  | Unclassifiable/Attainment
Harding County |  | Unclassifiable/Attainment
Mora County |  | Unclassifiable/Attainment
San Miguel County |  | Unclassifiable/Attainment
Torrance County |  | Unclassifiable/Attainment
Union County |  | Unclassifiable/Attainment
AQCR 155 Pecos-Permian Basin Intrastate:
Chaves County |  | Unclassifiable/Attainment
Curry County |  | Unclassifiable/Attainment
De Baca County |  | Unclassifiable/Attainment
Eddy County |  | Unclassifiable/Attainment
Lea County |  | Unclassifiable/Attainment
Quay County |  | Unclassifiable/Attainment
Roosevelt County |  | Unclassifiable/Attainment
AQCR 156 SW Mountains-Augustine Plains (see 40 CFR 81.241):
Catron County |  | Unclassifiable/Attainment
Cibola County |  | Unclassifiable/Attainment
McKinley County (part) |  | Unclassifiable/Attainment
Socorro County |  | Unclassifiable/Attainment
Valencia County (part) |  | Unclassifiable/Attainment
AQCR 157 Upper Rio Grande Valley Intrastate (see 40 CFR 81.239):
Los Alamos County |  | Unclassifiable/Attainment
Río Arriba County (part) |  | Unclassifiable/Attainment
Santa Fe County |  | Unclassifiable/Attainment
Taos County |  | Unclassifiable/Attainment
¹ Includes any Indian country in each county or area, unless otherwise specified.
² This date is July 20, 2012, unless otherwise noted.

34. Section 81.333 is amended as follows:

a. By revising the table heading for “New York—Ozone (8-Hour Standard)” to read “New York—1997 8-Hour Ozone NAAQS (Primary and Secondary)”

b. By adding a new table entitled “New York—2008 8-Hour Ozone NAAQS (Primary and Secondary)” following the newly designated table “New York—1997 8-Hour Ozone NAAQS (Primary and Secondary)” to read as follows:

§ 81.333 New York.

* * * * *

New York—2008 8-Hour Ozone NAAQS
[Primary and secondary]
Designated area | Designation: Date ¹ | Designation: Type | Classification: Date ¹ | Classification: Type
Jamestown, NY: ²N |  | NonAttainment | Marginal.
Chautauqua County
New York-N. New Jersey-Long Island, NY-NJ-CT: ² |  | Nonattainment |  | Marginal.
Bronx County
Kings County
Nassau County
New York County
Queens County
Richmond County
Rockland County
Suffolk County
Westchester County
Shinnecock Indian Nation ³
Albany-Schenectady-Troy Area, NY: ⁴ |  | Unclassifiable/Attainment
Albany County
Rensselaer County
Saratoga County
Schenectady County
Schoharie County
Buffalo-Niagara Falls Area, NY: ⁴ |  | Unclassifiable/Attainment
Erie County
Niagara County
Jefferson County Area, NY: ⁴ |  | Unclassifiable/Attainment
Jefferson County
Kingston Area, NY: ⁴ |  | Unclassifiable/Attainment
Ulster County
Poughkeepsie Area, NY: ⁴ |  | Unclassifiable/Attainment
Dutchess County
Orange County
Putnam County
Rochester Area, NY: ⁴ |  | Unclassifiable/Attainment
Livingston County
Monroe County
Ontario County
Orleans County
Wayne County
Syracuse, NY: ⁴ |  | Unclassifiable/Attainment
Madison County
Onondaga County
Oswego County
Whiteface Mountain: ⁴ |  | Unclassifiable/Attainment
Essex County (part)
The portion of Whiteface Mountain above 4500 feet in elevation in Essex County
Rest of State and Rest of Indian Country |  | Unclassifiable/Attainment
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.
⁴ Includes any Indian country in each county or area, unless otherwise specified.

35. Section 81.334 is amended as follows:

a. By revising the table heading for “North Carolina—Ozone (8-Hour Standard)” to read “North Carolina—1997 8-Hour Ozone NAAQS (Primary and Secondary)”

b. By adding a new table entitled “North Carolina—2008 8-Hour Ozone NAAQS (Primary and Secondary)” following the newly designated table “North Carolina—1997 8-Hour Ozone NAAQS (Primary and Secondary)” to read as follows:

§ 81.334 North Carolina.

* * * * *

North Carolina—2008 8-Hour Ozone NAAQS
[Primary and secondary]
Designated area | Designation: Date ¹ | Designation: Type | Classification: Date ¹ | Classification: Type
Charlotte-Rock Hill, NC-SC: ² |  | Nonattainment |  | Marginal.
Cabarrus County (part)
Central Cabarrus Township, Georgeville Township, Harrisburg Township, Kannapolis Township, Midland Township, Mount Pleasant Township, New Gilead Township, Odell Township, Poplar Tent Township, Rimertown Township
Gaston County (part)
Crowders Mountain Township, Dallas Township, Gastonia Township, Riverbend Township, South Point Township
Iredell County (part)
Davidson Township, Coddle Creek Township
Lincoln County (part)
Catawba Springs Township, Ironton Township, Lincolnton Township
Mecklenburg County
Rowan County (part)
Atwell Township, China Grove Township, Franklin Township, Litaker Township, Locke Township, Providence Township, Salisbury Township, Steele Township, Unity Township
Union County (part) Goose Creek Township, Marshville Township, Monroe Township, Sandy Ridge Township, Vance Township
Rest of State: ³
Alamance County |  | Unclassifiable/Attainment
Alexander County |  | Unclassifiable/Attainment
Alleghany County |  | Unclassifiable/Attainment
Anson County |  | Unclassifiable/Attainment
Ashe County |  | Unclassifiable/Attainment
Avery County |  | Unclassifiable/Attainment
Beaufort County |  | Unclassifiable/Attainment
Bertie County |  | Unclassifiable/Attainment
Bladen County |  | Unclassifiable/Attainment
Brunswick County |  | Unclassifiable/Attainment
Buncombe County |  | Unclassifiable/Attainment
Burke County |  | Unclassifiable/Attainment
Cabarrus County (part)
Gold Hill Township |  | Unclassifiable/Attainment
Caldwell County |  | Unclassifiable/Attainment
Camden County |  | Unclassifiable/Attainment
Carteret County |  | Unclassifiable/Attainment
Caswell County |  | Unclassifiable/Attainment
Catawba County |  | Unclassifiable/Attainment
Chatham County |  | Unclassifiable/Attainment
Cherokee County |  | Unclassifiable/Attainment
Chowan County |  | Unclassifiable/Attainment
Clay County |  | Unclassifiable/Attainment
Cleveland County |  | Unclassifiable/Attainment
Columbus County |  | Unclassifiable/Attainment
Craven County |  | Unclassifiable/Attainment
Cumberland County |  | Unclassifiable/Attainment
Currituck County |  | Unclassifiable/Attainment
Dare County |  | Unclassifiable/Attainment
Davidson County |  | Unclassifiable/Attainment
Davie County |  | Unclassifiable/Attainment
Duplin County |  | Unclassifiable/Attainment
Durham County |  | Unclassifiable/Attainment
Edgecombe County |  | Unclassifiable/Attainment
Forsyth County |  | Unclassifiable/Attainment
Franklin County |  | Unclassifiable/Attainment
Gaston County (part)
Cherryville
Township |  | Unclassifiable/Attainment
Gates County |  | Unclassifiable/Attainment
Graham County |  | Unclassifiable/Attainment
Granville County |  | Unclassifiable/Attainment
Greene County |  | Unclassifiable/Attainment
Guilford County |  | Unclassifiable/Attainment
Halifax County |  | Unclassifiable/Attainment
Harnett County |  | Unclassifiable/Attainment
Haywood County |  | Unclassifiable/Attainment
Henderson County |  | Unclassifiable/Attainment
Hertford County |  | Unclassifiable/Attainment
Hoke County |  | Unclassifiable/Attainment
Hyde County |  | Unclassifiable/Attainment
Iredell County (part)
Barringer Township |  | Unclassifiable/Attainment
Bethany Township |  | Unclassifiable/Attainment
Chambersburg Township |  | Unclassifiable/Attainment
Concord Township |  | Unclassifiable/Attainment
Cool Springs Township |  | Unclassifiable/Attainment
Eagle Mills Township |  | Unclassifiable/Attainment
Fallstown Township |  | Unclassifiable/Attainment
New Hope Township |  | Unclassifiable/Attainment
Olin Township |  | Unclassifiable/Attainment
Sharpesburg Township |  | Unclassifiable/Attainment
Shiloh Township |  | Unclassifiable/Attainment
Statesville Township |  | Unclassifiable/Attainment
Turnersburg Township |  | Unclassifiable/Attainment
Union Grove Township |  | Unclassifiable/Attainment
Jackson County |  | Unclassifiable/Attainment
Johnston County |  | Unclassifiable/Attainment
Jones County |  | Unclassifiable/Attainment
Lee County |  | Unclassifiable/Attainment
Lenoir County |  | Unclassifiable/Attainment
Lincoln County (part)
Howard's Creek Township |  | Unclassifiable/Attainment
North Brook Township |  | Unclassifiable/Attainment
Macon County |  | Unclassifiable/Attainment
Madison County |  | Unclassifiable/Attainment
Martin County |  | Unclassifiable/Attainment
McDowell County |  | Unclassifiable/Attainment
Mitchell County |  | Unclassifiable/Attainment
Montgomery County |  | Unclassifiable/Attainment
Moore County |  | Unclassifiable/Attainment
Nash County |  | Unclassifiable/Attainment
New Hanover County |  | Unclassifiable/Attainment
Northampton County |  | Unclassifiable/Attainment
Onslow County |  | Unclassifiable/Attainment
Orange County |  | Unclassifiable/Attainment
Pamlico County |  | Unclassifiable/Attainment
Pasquotank County |  | Unclassifiable/Attainment
Pender County |  | Unclassifiable/Attainment
Perquimans County |  | Unclassifiable/Attainment
Person County |  | Unclassifiable/Attainment
Pitt County |  | Unclassifiable/Attainment
Polk County |  | Unclassifiable/Attainment
Randolph County |  | Unclassifiable/Attainment
Richmond County |  | Unclassifiable/Attainment
Robeson County |  | Unclassifiable/Attainment
Rockingham County |  | Unclassifiable/Attainment
Rowan County (part)
Cleveland Township |  | Unclassifiable/Attainment
Morgan Township |  | Unclassifiable/Attainment
Mount Ulla Township |  | Unclassifiable/Attainment
Scotch Irish Township |  | Unclassifiable/Attainment
Rutherford County |  | Unclassifiable/Attainment
Sampson County |  | Unclassifiable/Attainment
Scotland County |  | Unclassifiable/Attainment
Stanly County |  | Unclassifiable/Attainment
Stokes County |  | Unclassifiable/Attainment
Surry County |  | Unclassifiable/Attainment
Swain County |  | Unclassifiable/Attainment
Transylvania County |  | Unclassifiable/Attainment
Tyrrell County |  | Unclassifiable/Attainment
Union County (part)
Buford Township |  | Unclassifiable/Attainment
Jackson Township |  | Unclassifiable/Attainment
Lanes Creek Township |  | Unclassifiable/Attainment
New Salem Township |  | Unclassifiable/Attainment
Vance County |  | Unclassifiable/Attainment
Wake County |  | Unclassifiable/Attainment
Warren County |  | Unclassifiable/Attainment
Washington County |  | Unclassifiable/Attainment
Watauga County |  | Unclassifiable/Attainment
Wayne County |  | Unclassifiable/Attainment
Wilkes County |  | Unclassifiable/Attainment
Wilson County |  | Unclassifiable/Attainment
Yadkin County |  | Unclassifiable/Attainment
Yancey County |  | Unclassifiable/Attainment
¹ This date is July 20, 2012, unless otherwise noted.
² Excludes Indian country located in each area, unless otherwise noted.
³ Includes any Indian country in each county or area, unless otherwise specified.

36. Section 81.335 is amended as follows:

a. By revising the table heading for “North Dakota—Ozone (8-Hour Standard)” to read “North Dakota—1997 8-Hour Ozone NAAQS (Primary and Secondary)”

b. By adding a new table entitled “North Dakota—2008 8-Hour Ozone NAAQS (Primary and Secondary)” following the newly designated table “North Dakota—1997 8-Hour Ozone NAAQS (Primary and Secondary)” to read as follows:

§ 81.335 North Dakota.

* * * * *

North Dakota—2008 8-Hour Ozone NAAQS
[Primary and secondary]
Designated area | Designation: Date ¹ | Designation: Type | Classification: Date ¹ | Classification: Type
Statewide and Areas of Indian Country |  | Unclassifiable/Attainment
¹ This date is July 20, 2012, unless otherwise noted.

37. Section 81.336 is amended as follows:

a. By revising the table heading for “Ohio—Ozone (8-Hour Standard)” to read “Ohio—1997 8-Hour Ozone NAAQS (Primary and Secondary)”

b. By adding a new table entitled “Ohio—2008 8-Hour Ozone NAAQS (Primary and Secondary)” following the newly designated table “Ohio—1997 8-Hour Ozone NAAQS (Primary and Secondary)” to read as follows:

§ 81.336 Ohio.

* * * * *

Ohio—2008 8-Hour Ozone NAAQS
[Primary and secondary]
Designated area | Designation: Date ¹ | Designation: Type | Classification: Date ¹ | Classification: Type
Cincinnati, OH-KY-IN: ² |  | Nonattainment |  | Marginal.
Butler County
Clermont County
Clinton County
Hamilton County
Warren County
Cleveland-Akron-Lorain, OH: ² |  | Nonattainment |  | Marginal.
Ashtabula County
Cuyahoga County
Geauga County
Lake County
Lorain County
Medina County
Portage County
Summit County
Columbus, OH: ² |  | Nonattainment |  | Marginal.
Delaware County
Fairfield County
Franklin County
Knox County
Licking County
Madison County
Rest of State: ³ |  | Unclassifiable/Attainment
¹ This date is July 20, 2012, unless otherwise noted.
² Excludes Indian country located in each area, unless otherwise noted.
³ Includes any Indian country in each county or area, unless otherwise specified.

38. Section 81.337 is amended as follows:

a. By revising the table heading for “Oklahoma—Ozone (8-Hour Standard)” to read “Oklahoma—1997 8-Hour Ozone NAAQS (Primary and Secondary)”

b. By adding a new table entitled “Oklahoma—2008 8-Hour Ozone NAAQS (Primary and Secondary)” following the newly designated table “Oklahoma—1997 8-Hour Ozone NAAQS (Primary and Secondary)” to read as follows:

§ 81.337 Oklahoma.

* * * * *

Oklahoma—2008 8-Hour Ozone NAAQS
[Primary and secondary]
Designated area ¹ | Designation: Date ² | Designation: Type | Classification: Date ² | Classification: Type
Adair County |  | Unclassifiable/Attainment
Alfalfa County |  | Unclassifiable/Attainment
Atoka County |  | Unclassifiable/Attainment
Beaver County |  | Unclassifiable/Attainment
Beckham County |  | Unclassifiable/Attainment
Blaine County |  | Unclassifiable/Attainment
Bryan County |  | Unclassifiable/Attainment
Caddo County |  | Unclassifiable/Attainment
Canadian County |  | Unclassifiable/Attainment
Carter County |  | Unclassifiable/Attainment
Cherokee County |  | Unclassifiable/Attainment
Choctaw County |  | Unclassifiable/Attainment
Cimarron County |  | Unclassifiable/Attainment
Cleveland County |  | Unclassifiable/Attainment
Coal County |  | Unclassifiable/Attainment
Comanche County |  | Unclassifiable/Attainment
Cotton County |  | Unclassifiable/Attainment
Craig County |  | Unclassifiable/Attainment
Creek County |  | Unclassifiable/Attainment
Custer County |  | Unclassifiable/Attainment
Delaware County |  | Unclassifiable/Attainment
Dewey County |  | Unclassifiable/Attainment
Ellis County |  | Unclassifiable/Attainment
Garfield County |  | Unclassifiable/Attainment
Garvin County |  | Unclassifiable/Attainment
Grady County |  | Unclassifiable/Attainment
Grant County |  | Unclassifiable/Attainment
Greer County |  | Unclassifiable/Attainment
Harmon County |  | Unclassifiable/Attainment
Harper County |  | Unclassifiable/Attainment
Haskell County |  | Unclassifiable/Attainment
Hughes County |  | Unclassifiable/Attainment
Jackson County |  | Unclassifiable/Attainment
Jefferson County |  | Unclassifiable/Attainment
Johnston County |  | Unclassifiable/Attainment
Kay County |  | Unclassifiable/Attainment
Kingfisher County |  | Unclassifiable/Attainment
Kiowa County |  | Unclassifiable/Attainment
Latimer County |  | Unclassifiable/Attainment
Le Flore County |  | Unclassifiable/Attainment
Lincoln County |  | Unclassifiable/Attainment
Logan County |  | Unclassifiable/Attainment
Love County |  | Unclassifiable/Attainment
Major County |  | Unclassifiable/Attainment
Marshall County |  | Unclassifiable/Attainment
Mayes County |  | Unclassifiable/Attainment
McClain County |  | Unclassifiable/Attainment
McCurtain County |  | Unclassifiable/Attainment
McIntosh County |  | Unclassifiable/Attainment
Murray County |  | Unclassifiable/Attainment
Muskogee County |  | Unclassifiable/Attainment
Noble County |  | Unclassifiable/Attainment
Nowata County |  | Unclassifiable/Attainment
Okfuskee County |  | Unclassifiable/Attainment
Oklahoma County |  | Unclassifiable/Attainment
Okmulgee County |  | Unclassifiable/Attainment
Osage County |  | Unclassifiable/Attainment
Ottawa County |  | Unclassifiable/Attainment
Pawnee County |  | Unclassifiable/Attainment
Payne County |  | Unclassifiable/Attainment
Pittsburg County |  | Unclassifiable/Attainment
Pontotoc County |  | Unclassifiable/Attainment
Pottawatomie County |  | Unclassifiable/Attainment
Pushmataha County |  | Unclassifiable/Attainment
Roger Mills County |  | Unclassifiable/Attainment
Rogers County |  | Unclassifiable/Attainment
Seminole County |  | Unclassifiable/Attainment
Sequoyah County |  | Unclassifiable/Attainment
Stephens County |  | Unclassifiable/Attainment
Texas County |  | Unclassifiable/Attainment
Tillman County |  | Unclassifiable/Attainment
Tulsa County |  | Unclassifiable/Attainment
Wagoner County |  | Unclassifiable/Attainment
Washington County |  | Unclassifiable/Attainment
Washita County |  | Unclassifiable/Attainment
Woods County |  | Unclassifiable/Attainment
Woodward County |  | Unclassifiable/Attainment
¹ Includes any Indian country in each county or area, unless otherwise specified.
² This date is July 20, 2012, unless otherwise noted.

39. Section 81.338 is amended as follows:

a. By revising the table heading for “Oregon—Ozone (8-Hour Standard)” to read “Oregon—1997 8-Hour Ozone NAAQS (Primary and Secondary)”

b. By adding a new table entitled “Oregon—2008 8-Hour Ozone NAAQS (Primary and Secondary)” following the newly designated table “Oregon—1997 8-Hour Ozone NAAQS (Primary and Secondary)” to read as follows:

§ 81.338 Oregon.

* * * * *

Oregon—2008 8-Hour Ozone NAAQS
[Primary and secondary]
Designated area | Designation: Date ¹ | Designation: Type | Classification: Date ¹ | Classification: Type
Statewide and Any Areas of Indian Country |  | Unclassifiable/Attainment
¹ This date is July 20, 2012, unless otherwise noted.

40. Section 81.339 is amended as follows:

a. By revising the table heading for “Pennsylvania—Ozone (8-Hour Standard)” to read “Pennsylvania—1997 8-Hour Ozone NAAQS (Primary and Secondary)”

b. By adding a new table entitled “Pennsylvania—2008 8-Hour Ozone NAAQS (Primary and Secondary)” following the newly designated table “Pennsylvania—1997 8-Hour Ozone NAAQS (Primary and Secondary)” to read as follows:

§ 81.339 Pennsylvania.

* * * * *

Pennsylvania—2008 8-Hour Ozone NAAQS
[Primary and secondary]
Designated area | Designation: Date ¹ | Designation: Type | Classification: Date ¹ | Classification: Type
Allentown-Bethlehem-Easton, PA ² |  | Nonattainment |  | Marginal.
Carbon County
Lehigh County
Northampton County
Lancaster, PA ² |  | Nonattainment |  | Marginal.
Lancaster County
Philadelphia-Wilmington-Atlantic City, PA-NJ-MD-DE ² |  | Nonattainment |  | Marginal.
Bucks County
Chester County
Delaware County
Montgomery County
Philadelphia County
Pittsburgh-Beaver Valley, PA ² |  | Nonattainment |  | Marginal.
Allegheny County
Armstrong County
Beaver County
Butler County
Fayette County
Washington County
Westmoreland County
Reading, PA ² |  | Nonattainment |  | Marginal.
Berks County
AQCR 151 NE Pennsylvania Intrastate (remainder) ³
Bradford County |  | Unclassifiable/Attainment
Lackawanna County |  | Unclassifiable/Attainment
Luzerne County |  | Unclassifiable/Attainment
Monroe County |  | Unclassifiable/Attainment
Pike County |  | Unclassifiable/Attainment
Schuylkill County |  | Unclassifiable/Attainment
Sullivan County |  | Unclassifiable/Attainment
Susquehanna County |  | Unclassifiable/Attainment
Tioga County |  | Unclassifiable/Attainment
Wayne County |  | Unclassifiable/Attainment
Wyoming |  | Unclassifiable/Attainment
AQCR 178 NW Pennsylvania Intrastate ³
Cameron County |  | Unclassifiable/Attainment
Clarion County |  | Unclassifiable/Attainment
Clearfield County |  | Unclassifiable/Attainment
Crawford County |  | Unclassifiable/Attainment
Elk County |  | Unclassifiable/Attainment
Erie County |  | Unclassifiable/Attainment
Forest County |  | Unclassifiable/Attainment
Jefferson County |  | Unclassifiable/Attainment
Lawrence County |  | Unclassifiable/Attainment
McKean County |  | Unclassifiable/Attainment
Mercer County |  | Unclassifiable/Attainment
Potter County |  | Unclassifiable/Attainment
Venango County |  | Unclassifiable/Attainment
Warren County |  | Unclassifiable/Attainment
AQCR 195 Central Pennsylvania Intrastate ³
Bedford County |  | Unclassifiable/Attainment
Blair County |  | Unclassifiable/Attainment
Cambria County |  | Unclassifiable/Attainment
Centre County |  | Unclassifiable/Attainment
Clinton County |  | Unclassifiable/Attainment
Columbia County |  | Unclassifiable/Attainment
Fulton County |  | Unclassifiable/Attainment
Huntingdon County |  | Unclassifiable/Attainment
Juniata County |  | Unclassifiable/Attainment
Lycoming County |  | Unclassifiable/Attainment
Mifflin County |  | Unclassifiable/Attainment
Montour County |  | Unclassifiable/Attainment
Northumberland County |  | Unclassifiable/Attainment
Snyder County |  | Unclassifiable/Attainment
Somerset County |  | Unclassifiable/Attainment
Union County |  | Unclassifiable/Attainment
AQCR 196 South Central Pennsylvania (remainder) ³
Adams County |  | Unclassifiable/Attainment
Cumberland County |  | Unclassifiable/Attainment
Dauphin County |  | Unclassifiable/Attainment
Franklin County |  | Unclassifiable/Attainment
Lebanon County |  | Unclassifiable/Attainment
Perry County |  | Unclassifiable/Attainment
York County |  | Unclassifiable/Attainment
AQCR 197 Southwest Pennsylvania (remainder) ³
Green County |  | Unclassifiable/Attainment
Indiana County |  | Unclassifiable/Attainment
¹ This date is July 20, 2012, unless otherwise noted.
² Excludes Indian country located in each area, unless otherwise noted.
³ Includes any Indian country in each county or area, unless otherwise specified.

41. Section 81.340 is amended as follows:

a. By revising the table heading for “Rhode Island—Ozone (8-Hour Standard)” to read “Rhode Island—1997 8-Hour Ozone NAAQS (Primary and Secondary)”.

b. By adding a new table entitled “Rhode Island—2008 8-Hour Ozone NAAQS (Primary and Secondary)” following the newly designated table “Rhode Island—1997 8-Hour Ozone NAAQS (Primary and Secondary)” to read as follows:

§ 81.340 Rhode Island.

* * * * *

Rhode Island—2008 8-Hour Ozone NAAQS
[Primary and secondary]
Designated area | Designation: Date ¹ | Designation: Type | Classification: Date ¹ | Classification: Type
Providence (all of RI), RI: ² |  | Unclassifiable/Attainment
Bristol County
Kent County
Newport County
Providence County
Washington County
¹ This date is July 20, 2012, unless otherwise noted.
² Includes any Indian country in each county or area, unless otherwise specified.

42. Section 81.341 is amended as follows:

a. By revising the table heading for “South Carolina—Ozone (8-Hour Standard)” to read “South Carolina—1997 8-Hour Ozone NAAQS (Primary and Secondary)”

b. By adding a new table entitled “South Carolina—2008 8-Hour Ozone NAAQS (Primary and Secondary)” following the newly designated table “South Carolina—1997 8-Hour Ozone NAAQS (Primary and Secondary)” to read as follows:

§ 81.341 South Carolina.

* * * * *

South Carolina—2008 8-Hour Ozone NAAQS
[Primary and secondary]
Designated area | Designation: Date ¹ | Designation: Type | Classification: Date ¹ | Classification: Type
Charlotte-Rock Hill, NC-SC: ² |  | Nonattainment |  | Marginal.
York County (part)
Portion along MPO lines
Catawba Indian Nation (aka Catawba Tribe of South Carolina) ³ |  | Unclassifiable/Attainment
Rest of State: ⁴ |  | Unclassifiable/Attainment
Abbeville County |  | Unclassifiable/Attainment
Aiken County |  | Unclassifiable/Attainment
Allendale County |  | Unclassifiable/Attainment
Bamberg County |  | Unclassifiable/Attainment
Barnwell County |  | Unclassifiable/Attainment
Beaufort County |  | Unclassifiable/Attainment
Berkeley County |  | Unclassifiable/Attainment
Calhoun County |  | Unclassifiable/Attainment
Charleston County |  | Unclassifiable/Attainment
Cherokee County |  | Unclassifiable/Attainment
Chester County |  | Unclassifiable/Attainment
Chesterfield County |  | Unclassifiable/Attainment
Clarendon County |  | Unclassifiable/Attainment
Colleton County |  | Unclassifiable/Attainment
Darlington County |  | Unclassifiable/Attainment
Dillon County |  | Unclassifiable/Attainment
Dorchester County |  | Unclassifiable/Attainment
Edgefield County |  | Unclassifiable/Attainment
Fairfield County |  | Unclassifiable/Attainment
Florence County |  | Unclassifiable/Attainment
Georgetown County |  | Unclassifiable/Attainment
Greenwood County |  | Unclassifiable/Attainment
Hampton County |  | Unclassifiable/Attainment
Horry County |  | Unclassifiable/Attainment
Jasper County |  | Unclassifiable/Attainment
Kershaw County |  | Unclassifiable/Attainment
Lancaster County |  | Unclassifiable/Attainment
Laurens County |  | Unclassifiable/Attainment
Lee County |  | Unclassifiable/Attainment
Lexington County |  | Unclassifiable/Attainment
Marion County |  | Unclassifiable/Attainment
Marlboro County |  | Unclassifiable/Attainment
McCormick County |  | Unclassifiable/Attainment
Newberry County |  | Unclassifiable/Attainment
Oconee County |  | Unclassifiable/Attainment
Orangeburg County |  | Unclassifiable/Attainment
Pickens County |  | Unclassifiable/Attainment
Richland County |  | Unclassifiable/Attainment
Saluda County |  | Unclassifiable/Attainment
Sumter County |  | Unclassifiable/Attainment
Union County |  | Unclassifiable/Attainment
Williamsburg County |  | Unclassifiable/Attainment
York County (part) remainder |  | Unclassifiable/Attainment
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.
⁴ Includes any Indian country in each county or area, unless otherwise specified.

43. Section 81.342 is amended as follows:

a. By revising the table heading for “South Dakota—Ozone (8-Hour Standard)” to read “South Dakota—1997 8-Hour Ozone NAAQS (Primary and Secondary)”

b. By adding a new table entitled “South Dakota—2008 8-Hour Ozone NAAQS (Primary and Secondary)” following the newly designated table “South Dakota—1997 8-Hour Ozone NAAQS (Primary and Secondary)” to read as follows:

§ 81.342 South Dakota.

* * * * *

South Dakota—2008 8-Hour Ozone NAAQS
[Primary and secondary]
Designated area | Designation: Date ¹ | Designation: Type | Classification: Date ¹ | Classification: Type
Statewide and Any Areas of Indian Country: |  | Unclassifiable/Attainment
¹ This date is July 20, 2012, unless otherwise noted.

44. Section 81.343 is amended as follows:

a. By revising the table heading for “Tennessee—Ozone (8-Hour Standard)” to read “Tennessee—1997 8-Hour Ozone NAAQS (Primary and Secondary)”

b. By adding a new table entitled “Tennessee—2008 8-Hour Ozone NAAQS (Primary and Secondary)” following the newly designated table “Tennessee—1997 8-Hour Ozone NAAQS (Primary and Secondary)” to read as follows:

§ 81.343 Tennessee.

* * * * *

Tennessee—2008 8-Hour Ozone NAAQS
[Primary and secondary]
Designated area | Designation: Date ¹ | Designation: Type | Classification: Date ¹ | Classification: Type
Knoxville, TN: ² |  | Nonattainment |  | Marginal.
Anderson County (part)
2000 Census tracts: 202, 213.02
Blount County
Knox County
Memphis, TN-MS-AR: ² |  | Nonattainment |  | Marginal.
Shelby County
Rest of State: ³ |  | Unclassifiable/Attainment
Anderson County (part) remainder |  | Unclassifiable/Attainment
Bedford County |  | Unclassifiable/Attainment
Benton County |  | Unclassifiable/Attainment
Bledsoe County |  | Unclassifiable/Attainment
Bradley County |  | Unclassifiable/Attainment
Campbell County |  | Unclassifiable/Attainment
Cannon County |  | Unclassifiable/Attainment
Carroll County |  | Unclassifiable/Attainment
Carter County |  | Unclassifiable/Attainment
Cheatham County |  | Unclassifiable/Attainment
Chester County |  | Unclassifiable/Attainment
Claiborne County |  | Unclassifiable/Attainment
Clay County |  | Unclassifiable/Attainment
Cocke County |  | Unclassifiable/Attainment
Coffee County |  | Unclassifiable/Attainment
Crockett County |  | Unclassifiable/Attainment
Cumberland County |  | Unclassifiable/Attainment
Davidson County |  | Unclassifiable/Attainment
Decatur County |  | Unclassifiable/Attainment
DeKalb County |  | Unclassifiable/Attainment
Dickson County |  | Unclassifiable/Attainment
Dyer County |  | Unclassifiable/Attainment
Fayette County |  | Unclassifiable/Attainment
Fentress County |  | Unclassifiable/Attainment
Franklin County |  | Unclassifiable/Attainment
Gibson County |  | Unclassifiable/Attainment
Giles County |  | Unclassifiable/Attainment
Grainger County |  | Unclassifiable/Attainment
Greene County |  | Unclassifiable/Attainment
Grundy County |  | Unclassifiable/Attainment
Hamblen County |  | Unclassifiable/Attainment
Hamilton County |  | Unclassifiable/Attainment
Hancock County |  | Unclassifiable/Attainment
Hardeman County |  | Unclassifiable/Attainment
Hardin County |  | Unclassifiable/Attainment
Hawkins County |  | Unclassifiable/Attainment
Haywood County |  | Unclassifiable/Attainment
Henderson County |  | Unclassifiable/Attainment
Henry County |  | Unclassifiable/Attainment
Hickman County |  | Unclassifiable/Attainment
Houston County |  | Unclassifiable/Attainment
Humphreys County |  | Unclassifiable/Attainment
Jackson County |  | Unclassifiable/Attainment
Jefferson County |  | Unclassifiable/Attainment
Johnson County |  | Unclassifiable/Attainment
Lake County |  | Unclassifiable/Attainment
Lauderdale County |  | Unclassifiable/Attainment
Lawrence County |  | Unclassifiable/Attainment
Lewis County |  | Unclassifiable/Attainment
Lincoln County |  | Unclassifiable/Attainment
Loudon County |  | Unclassifiable/Attainment
McMinn County |  | Unclassifiable/Attainment
McNairy County |  | Unclassifiable/Attainment
Macon County |  | Unclassifiable/Attainment
Madison County |  | Unclassifiable/Attainment
Marion County |  | Unclassifiable/Attainment
Marshall County |  | Unclassifiable/Attainment
Maury County |  | Unclassifiable/Attainment
Meigs County |  | Unclassifiable/Attainment
Monroe County |  | Unclassifiable/Attainment
Montgomery County |  | Unclassifiable/Attainment
Moore County |  | Unclassifiable/Attainment
Morgan County |  | Unclassifiable/Attainment
Obion County |  | Unclassifiable/Attainment
Overton County |  | Unclassifiable/Attainment
Perry County |  | Unclassifiable/Attainment
Pickett County |  | Unclassifiable/Attainment
Polk County |  | Unclassifiable/Attainment
Putnam County |  | Unclassifiable/Attainment
Rhea County |  | Unclassifiable/Attainment
Roane County |  | Unclassifiable/Attainment
Robertson County |  | Unclassifiable/Attainment
Rutherford County |  | Unclassifiable/Attainment
Scott County |  | Unclassifiable/Attainment
Sequatchie County |  | Unclassifiable/Attainment
Sevier County |  | Unclassifiable/Attainment
Smith County |  | Unclassifiable/Attainment
Stewart County |  | Unclassifiable/Attainment
Sullivan County |  | Unclassifiable/Attainment
Sumner County |  | Unclassifiable/Attainment
Tipton County |  | Unclassifiable/Attainment
Trousdale County |  | Unclassifiable/Attainment
Unicoi County |  | Unclassifiable/Attainment
Union County |  | Unclassifiable/Attainment
Van Buren County |  | Unclassifiable/Attainment
Warren County |  | Unclassifiable/Attainment
Washington County |  | Unclassifiable/Attainment
Wayne County |  | Unclassifiable/Attainment
Weakley County |  | Unclassifiable/Attainment
White County |  | Unclassifiable/Attainment
Williamson County |  | Unclassifiable/Attainment
Wilson County |  | Unclassifiable/Attainment
¹ This date is July 20, 2012, unless otherwise noted.
² Excludes Indian country located in each area, unless otherwise noted.
³ Includes any Indian country in each county or area, unless otherwise specified.

45. Section 81.344 is amended as follows:

a. By revising the table heading for “Texas—Ozone (8-Hour Standard)” to read “Texas—1997 8-Hour Ozone NAAQS (Primary and Secondary)”

b. By adding a new table entitled “Texas—2008 8-Hour Ozone NAAQS (Primary and Secondary)” following the newly designated table “Texas—1997 8-Hour Ozone NAAQS (Primary and Secondary)” to read as follows:

§ 81.344 Texas.

* * * * *

Texas—2008 8-Hour Ozone NAAQS
[Primary and secondary]
Designated area | Designation: Date ¹ | Designation: Type | Classification: Date ¹ | Classification: Type
Dallas-Fort Worth, TX: ² |  | Nonattainment |  | Moderate.
Collin County
Dallas County
Denton County
Ellis County
Johnson County
Kaufman County
Parker County
Rockwall County
Tarrant County
Wise County
Houston-Galveston-Brazoria, TX: ² |  | Nonattainment |  | Marginal.
Brazoria County
Chambers County
Fort Bend County
Galveston County
Harris County
Liberty County
Montgomery County
Waller County
Rest of State: ³
Anderson County |  | Unclassifiable/Attainment
Andrews County |  | Unclassifiable/Attainment
Angelina County |  | Unclassifiable/Attainment
Aransas County |  | Unclassifiable/Attainment
Archer County |  | Unclassifiable/Attainment
Armstrong County |  | Unclassifiable/Attainment
Atascosa County |  | Unclassifiable/Attainment
Austin County |  | Unclassifiable/Attainment
Bailey County |  | Unclassifiable/Attainment
Bandera County |  | Unclassifiable/Attainment
Bastrop County |  | Unclassifiable/Attainment
Baylor County |  | Unclassifiable/Attainment
Bee County |  | Unclassifiable/Attainment
Bell County |  | Unclassifiable/Attainment
Bexar County |  | Unclassifiable/Attainment
Blanco County |  | Unclassifiable/Attainment
Borden County |  | Unclassifiable/Attainment
Bosque County |  | Unclassifiable/Attainment
Bowie County |  | Unclassifiable/Attainment
Brazos County |  | Unclassifiable/Attainment
Brewster County |  | Unclassifiable/Attainment
Briscoe County |  | Unclassifiable/Attainment
Brooks County |  | Unclassifiable/Attainment
Brown County |  | Unclassifiable/Attainment
Burleson County |  | Unclassifiable/Attainment
Burnet County |  | Unclassifiable/Attainment
Caldwell County |  | Unclassifiable/Attainment
Calhoun County |  | Unclassifiable/Attainment
Callahan County |  | Unclassifiable/Attainment
Cameron County |  | Unclassifiable/Attainment
Camp County |  | Unclassifiable/Attainment
Carson County |  | Unclassifiable/Attainment
Cass County |  | Unclassifiable/Attainment
Castro County |  | Unclassifiable/Attainment
Cherokee County |  | Unclassifiable/Attainment
Childress County |  | Unclassifiable/Attainment
Clay County |  | Unclassifiable/Attainment
Cochran County |  | Unclassifiable/Attainment
Coke County |  | Unclassifiable/Attainment
Coleman County |  | Unclassifiable/Attainment
Collingsworth County |  | Unclassifiable/Attainment
Colorado County |  | Unclassifiable/Attainment
Comal County |  | Unclassifiable/Attainment
Comanche County |  | Unclassifiable/Attainment
Concho County |  | Unclassifiable/Attainment
Cooke County |  | Unclassifiable/Attainment
Coryell County |  | Unclassifiable/Attainment
Cottle County |  | Unclassifiable/Attainment
Crane County |  | Unclassifiable/Attainment
Crockett County |  | Unclassifiable/Attainment
Crosby County |  | Unclassifiable/Attainment
Culberson County |  | Unclassifiable/Attainment
Dallam County |  | Unclassifiable/Attainment
Dawson County |  | Unclassifiable/Attainment
Deaf Smith County |  | Unclassifiable/Attainment
Delta County |  | Unclassifiable/Attainment
DeWitt County |  | Unclassifiable/Attainment
Dickens County |  | Unclassifiable/Attainment
Dimmit County |  | Unclassifiable/Attainment
Donley County |  | Unclassifiable/Attainment
Duval County |  | Unclassifiable/Attainment
Eastland County |  | Unclassifiable/Attainment
Ector County |  | Unclassifiable/Attainment
Edwards County |  | Unclassifiable/Attainment
El Paso County |  | Unclassifiable/Attainment
Erath County |  | Unclassifiable/Attainment
Falls County |  | Unclassifiable/Attainment
Fannin County |  | Unclassifiable/Attainment
Fayette County |  | Unclassifiable/Attainment
Fisher County |  | Unclassifiable/Attainment
Floyd County |  | Unclassifiable/Attainment
Foard County |  | Unclassifiable/Attainment
Franklin County |  | Unclassifiable/Attainment
Freestone County |  | Unclassifiable/Attainment
Frio County |  | Unclassifiable/Attainment
Gaines County |  | Unclassifiable/Attainment
Garza County |  | Unclassifiable/Attainment
Gillespie County |  | Unclassifiable/Attainment
Glasscock County |  | Unclassifiable/Attainment
Goliad County |  | Unclassifiable/Attainment
Gonzales County |  | Unclassifiable/Attainment
Gray County |  | Unclassifiable/Attainment
Grayson County |  | Unclassifiable/Attainment
Gregg County |  | Unclassifiable/Attainment
Grimes County |  | Unclassifiable/Attainment
Guadalupe County |  | Unclassifiable/Attainment
Hale County |  | Unclassifiable/Attainment
Hall County |  | Unclassifiable/Attainment
Hamilton County |  | Unclassifiable/Attainment
Hansford County |  | Unclassifiable/Attainment
Hardeman County |  | Unclassifiable/Attainment
Hardin County |  | Unclassifiable/Attainment
Harrison County |  | Unclassifiable/Attainment
Hartley County |  | Unclassifiable/Attainment
Haskell County |  | Unclassifiable/Attainment
Hays County |  | Unclassifiable/Attainment
Hemphill County |  | Unclassifiable/Attainment
Henderson County |  | Unclassifiable/Attainment
Hidalgo County |  | Unclassifiable/Attainment
Hill County |  | Unclassifiable/Attainment
Hockley County |  | Unclassifiable/Attainment
Hood County |  | Unclassifiable/Attainment
Hopkins County |  | Unclassifiable/Attainment
Houston County |  | Unclassifiable/Attainment
Howard County |  | Unclassifiable/Attainment
Hudspeth County |  | Unclassifiable/Attainment
Hunt County |  | Unclassifiable/Attainment
Hutchinson County |  | Unclassifiable/Attainment
Irion County |  | Unclassifiable/Attainment
Jack County |  | Unclassifiable/Attainment
Jackson County |  | Unclassifiable/Attainment
Jasper County |  | Unclassifiable/Attainment
Jeff Davis County |  | Unclassifiable/Attainment
Jefferson County |  | Unclassifiable/Attainment
Jim Hogg County |  | Unclassifiable/Attainment
Jim Wells County |  | Unclassifiable/Attainment
Jones County |  | Unclassifiable/Attainment
Karnes County |  | Unclassifiable/Attainment
Kendall County |  | Unclassifiable/Attainment
Kenedy County |  | Unclassifiable/Attainment
Kent County |  | Unclassifiable/Attainment
Kerr County |  | Unclassifiable/Attainment
Kimble County |  | Unclassifiable/Attainment
King County |  | Unclassifiable/Attainment
Kinney County |  | Unclassifiable/Attainment
Kleberg County |  | Unclassifiable/Attainment
Knox County |  | Unclassifiable/Attainment
La Salle County |  | Unclassifiable/Attainment
Lamar County |  | Unclassifiable/Attainment
Lamb County |  | Unclassifiable/Attainment
Lampasas County |  | Unclassifiable/Attainment
Lavaca County |  | Unclassifiable/Attainment
Lee County | . | Unclassifiable/Attainment
Leon County |  | Unclassifiable/Attainment
Limestone County |  | Unclassifiable/Attainment
Lipscomb County |  | Unclassifiable/Attainment
Live Oak County |  | Unclassifiable/Attainment
Llano County |  | Unclassifiable/Attainment
Loving County |  | Unclassifiable/Attainment
Lubbock County |  | Unclassifiable/Attainment
Lynn County |  | Unclassifiable/Attainment
McCulloch County |  | Unclassifiable/Attainment
McLennan County |  | Unclassifiable/Attainment
McMullen County |  | Unclassifiable/Attainment
Madison County |  | Unclassifiable/Attainment
Marion County |  | Unclassifiable/Attainment
Martin County |  | Unclassifiable/Attainment
Mason County |  | Unclassifiable/Attainment
Matagorda County |  | Unclassifiable/Attainment
Maverick County |  | Unclassifiable/Attainment
Medina County |  | Unclassifiable/Attainment
Menard County |  | Unclassifiable/Attainment
Midland County |  | Unclassifiable/Attainment
Milam County |  | Unclassifiable/Attainment
Mills County |  | Unclassifiable/Attainment
Mitchell County |  | Unclassifiable/Attainment
Montague County |  | Unclassifiable/Attainment
Moore County |  | Unclassifiable/Attainment
Morris County |  | Unclassifiable/Attainment
Motley County |  | Unclassifiable/Attainment
Nacogdoches County |  | Unclassifiable/Attainment
Navarro County |  | Unclassifiable/Attainment
Newton County |  | Unclassifiable/Attainment
Nolan County |  | Unclassifiable/Attainment
Nueces County |  | Unclassifiable/Attainment
Ochiltree County |  | Unclassifiable/Attainment
Oldham County |  | Unclassifiable/Attainment
Orange County |  | Unclassifiable/Attainment
Palo Pinto County |  | Unclassifiable/Attainment
Panola County |  | Unclassifiable/Attainment
Parmer County |  | Unclassifiable/Attainment
Pecos County |  | Unclassifiable/Attainment
Polk County |  | Unclassifiable/Attainment
Potter County |  | Unclassifiable/Attainment
Presidio County |  | Unclassifiable/Attainment
Rains County |  | Unclassifiable/Attainment
Randall County |  | Unclassifiable/Attainment
Reagan County |  | Unclassifiable/Attainment
Real County |  | Unclassifiable/Attainment
Red River County |  | Unclassifiable/Attainment
Reeves County |  | Unclassifiable/Attainment
Refugio County |  | Unclassifiable/Attainment
Roberts County |  | Unclassifiable/Attainment
Robertson County |  | Unclassifiable/Attainment
Runnels County |  | Unclassifiable/Attainment
Rusk County |  | Unclassifiable/Attainment
Sabine County |  | Unclassifiable/Attainment
San Augustine County |  | Unclassifiable/Attainment
San Jacinto County |  | Unclassifiable/Attainment
San Patricio County | . | Unclassifiable/Attainment
San Saba County |  | Unclassifiable/Attainment
Schleicher County |  | Unclassifiable/Attainment
Scurry County |  | Unclassifiable/Attainment
Shackelford County |  | Unclassifiable/Attainment
Shelby County |  | Unclassifiable/Attainment
Sherman County |  | Unclassifiable/Attainment
Smith County |  | Unclassifiable/Attainment
Somervell County |  | Unclassifiable/Attainment
Starr County |  | Unclassifiable/Attainment
Stephens County |  | Unclassifiable/Attainment
Sterling County |  | Unclassifiable/Attainment
Stonewall County |  | Unclassifiable/Attainment
Sutton County |  | Unclassifiable/Attainment
Swisher County |  | Unclassifiable/Attainment
Taylor County |  | Unclassifiable/Attainment
Terrell County |  | Unclassifiable/Attainment
Terry County |  | Unclassifiable/Attainment
Throckmorton County | . | Unclassifiable/Attainment
Titus County |  | Unclassifiable/Attainment
Tom Green County |  | Unclassifiable/Attainment
Travis County |  | Unclassifiable/Attainment
Trinity County |  | Unclassifiable/Attainment
Tyler County |  | Unclassifiable/Attainment
Upshur County |  | Unclassifiable/Attainment
Upton County |  | Unclassifiable/Attainment
Uvalde County |  | Unclassifiable/Attainment
Val Verde County |  | Unclassifiable/Attainment
Van Zandt County |  | Unclassifiable/Attainment
Victoria County |  | Unclassifiable/Attainment
Walker County |  | Unclassifiable/Attainment
Ward County |  | Unclassifiable/Attainment
Washington County |  | Unclassifiable/Attainment
Webb County |  | Unclassifiable/Attainment
Wharton County |  | Unclassifiable/Attainment
Wheeler County |  | Unclassifiable/Attainment
Wichita County |  | Unclassifiable/Attainment
Wilbarger County |  | Unclassifiable/Attainment
Willacy County |  | Unclassifiable/Attainment
Williamson County |  | Unclassifiable/Attainment
Wilson County |  | Unclassifiable/Attainment
Winkler County |  | Unclassifiable/Attainment
Wood County |  | Unclassifiable/Attainment
Yoakum County |  | Unclassifiable/Attainment
Young County |  | Unclassifiable/Attainment
Zapata County |  | Unclassifiable/Attainment
Zavala County |  | Unclassifiable/Attainment
¹ This date is July 20, 2012, unless otherwise noted.
² Excludes Indian country located in each area, unless otherwise noted.
³ Includes any Indian country in each county or area, unless otherwise specified.

46. Section 81.345 is amended as follows:

a. By revising the table heading for “Utah—Ozone (8-Hour Standard)” to read “Utah—1997 8-Hour Ozone NAAQS (Primary and Secondary)”

b. By adding a new table entitled “Utah—2008 8-Hour Ozone NAAQS (Primary and Secondary)” following the newly designated table “Utah—1997 8-Hour Ozone NAAQS (Primary and Secondary)” to read as follows:

§ 81.345 Utah.

* * * * *

Utah—2008 8-Hour Ozone NAAQS
[Primary and secondary]
Designated area | Designation: Date ¹ | Designation: Type | Classification: Date ¹ | Classification: Type
Uinta Basin, UT: ² |  | Unclassifiable
Duchesne County
Uintah County
Ute Indian Tribe of the Uintah & Ouray Reservation ³
Rest of State and Rest of Indian Country |  | Unclassifiable/Attainment
¹ This date is July 20, 2012, unless otherwise noted.
² Excludes Indian country located in each area, unless otherwise noted.
³ Includes Indian country of the tribe listed in this table located in the identified area. Information pertaining to areas of Indian country in this table is intended for CAA planning purposes only and is not an EPA determination of Indian country status or any Indian country boundary. EPA lacks the authority to establish Indian country land status, and is making no determination of Indian country boundaries, in this table.

47. Section 81.346 is amended as follows:

a. By revising the table heading for “Vermont—Ozone (8-Hour Standard)” to read “Vermont—1997 8-Hour Ozone NAAQS (Primary and Secondary)”

b. By adding a new table entitled “Vermont—2008 8-Hour Ozone NAAQS (Primary and Secondary)” following the newly designated table “Vermont—1997 8-Hour Ozone NAAQS (Primary and Secondary)” to read as follows:

§ 81.346 Vermont.

* * * * *

Vermont—2008 8-Hour Ozone NAAQS
[Primary and secondary]
Designated area ¹ | Designation: Date ² | Designation: Type | Classification: Date ² | Classification: Type
AQCR 159 Champlain Valley Interstate: |  | Unclassifiable/Attainment
Addison County
Chittenden County
Franklin County
Grand Isle County
Rutland County
AQCR 221 Vermont Intrastate: |  | Unclassifiable/Attainment
Bennington County
Caledonia County
Essex County
Lamoille County
Orange County
Orleans County
Washington County
Windham County
Windsor County
¹ Includes any Indian country in each county or area, unless otherwise specified.
² This date is July 20, 2012, unless otherwise noted.

48. Section 81.347 is amended as follows:

a. By revising the table heading for “Virginia—Ozone (8-Hour Standard)” to read “Virginia—1997 8-Hour Ozone NAAQS (Primary and Secondary)”

b. By adding a new table entitled “Virginia—2008 8-Hour Ozone NAAQS (Primary and Secondary)” following the newly designated table “Virginia—1997 8-Hour Ozone NAAQS (Primary and Secondary)” to read as follows:

§ 81.347 Virginia.

* * * * *

Virginia—2008 8-Hour Ozone NAAQS
[Primary and secondary]
Designated area ¹ | Designation: Date ² | Designation: Type | Classification: Date ² | Classification: Type
Washington, DC-MD-VA: ² |  | Nonattainment |  | Marginal.
Arlington County
Fairfax County
Loudoun County
Prince William County
Alexandria City
Fairfax City
Falls Church City
Manassas City
Manassas Park City
AQCR 207 Eastern Tennessee—SW Virginia Interstate: ³ |  | Unclassifiable/Attainment
Bland County
Buchanan County
Carroll County
Dickenson County
Grayson County
Lee County
Russell County
Scott County
Smyth County
Tazewell County
Washington County
Wise County
Wythe County
Bristol City
Galax City
Norton City
AQCR 222 Central Virginia Intrastate: ³ |  | Unclassifiable/Attainment
Amelia County
Amherst County
Appomattox County
Bedford County
Brunswick County
Buckingham County
Campbell County
Charlotte County
Cumberland County
Franklin County
Halifax County
Henry County
Lunenburg County
Mecklenburg County
Nottoway County
Patrick County
Pittsylvania County
Prince Edward County
Bedford City
Danville City
Lynchburg City
Martinsville City
South Boston City
AQCR 223 Hampton Roads Intrastate: ³ |  | Unclassifiable/Attainment
Isle of Wight County
James City County
Southampton County
York County
Chesapeake City
Franklin City
Hampton City
Newport News City
Norfolk City
Poquoson City
Portsmouth City
Suffolk City
Virginia Beach City
Williamsburg City
AQCR 224 NE Virginia Intrastate: ³ |  | Unclassifiable/Attainment
Accomack County
Albemarle County
Caroline County
Culpeper County
Essex County
Fauquier County
Fluvanna County
Gloucester County
Greene County
King and Queen County
King George County
King William County
Lancaster County
Louisa County
Madison County
Mathews County
Middlesex County
Nelson County
Northampton County
Northumberland County
Orange County
Rappahannock County
Richmond County
Spotsylvania County
Stafford County
Westmoreland County
Charlottesville City
City of Fredericksburg
AQCR 225 State Capital Intrastate: ³ |  | Unclassifiable/Attainment
Charles City County
Chesterfield County
Dinwiddie County
Goochland County
Greensville County
Hanover County
Henrico County
New Kent County
Powhatan County
Prince George County
Surry County
Sussex County
Colonial Heights City
Emporia City
Hopewell City
Petersburg City
Richmond City
AQCR 226 Valley of Virginia Intrastate: ³ |  | Unclassifiable/Attainment
Alleghany County
Augusta County
Bath County
Botetourt County
Clarke County
Craig County
Floyd County
Frederick County
Giles County
Highland County
Montgomery County
Page County
Pulaski County
Roanoke County
Rockbridge County
Rockingham County
Shenandoah County
Warren County
Buena Vista City
Clifton Forge City
Covington City
Harrisonburg City
Lexington City
Radford City
Roanoke City
Salem City
Staunton City
Waynesboro City
Winchester City
¹ This date is July 20, 2012, unless otherwise noted.
² Excludes Indian country located in each area, unless otherwise noted.
³ Includes any Indian country in each county or area, unless otherwise specified.

49. Section 81.348 is amended as follows:

a. By revising the table heading for “Washington—Ozone (8-Hour Standard)” to read “Washington—1997 8-Hour Ozone NAAQS (Primary and Secondary)”

b. By adding a new table entitled “Washington—2008 8-Hour Ozone NAAQS (Primary and Secondary)” following the newly designated table “Washington—1997 8-Hour Ozone NAAQS (Primary and Secondary)” to read as follows:

§ 81.348 Washington.

* * * * *

Washington—2008 8-Hour Ozone NAAQS
[Primary and secondary]
Designated area | Designation ¹: Date ² | Designation ¹: Type | Classification: Date ¹ | Classification: Type
Clark County |  | Unclassifiable/Attainment
King County |  | Unclassifiable/Attainment
Pierce County |  | Unclassifiable/Attainment
Spokane County |  | Unclassifiable/Attainment
Thurston County |  | Unclassifiable/Attainment
Rest of state and rest of Indian country |  | Unclassifiable/Attainment
¹ Includes any Indian country in each county or area, unless otherwise specified.
² This date is July 20, 2012, unless otherwise noted.

50. Section 81.349 is amended as follows:

a. By revising the table heading for “West Virginia—Ozone (8-Hour Standard)” to read “West Virginia—1997 8-Hour Ozone NAAQS (Primary and Secondary)”

b. By adding a new table entitled “West Virginia—2008 8-Hour Ozone NAAQS (Primary and Secondary)” following the newly designated table “West Virginia—1997 8-Hour Ozone NAAQS (Primary and Secondary)” to read as follows:

§ 81.349 West Virginia.

* * * * *

West Virginia—2008 8-Hour Ozone NAAQS
[Primary and secondary]
Designated area¹ | Designation: Date ² | Designation: Type | Classification: Date ² | Classification: Type
Barbour County |  | Unclassifiable/Attainment
Berkeley County |  | Unclassifiable/Attainment
Boone County |  | Unclassifiable/Attainment
Braxton County |  | Unclassifiable/Attainment
Brooke County |  | Unclassifiable/Attainment
Cabell County |  | Unclassifiable/Attainment
Calhoun County |  | Unclassifiable/Attainment
Clay County |  | Unclassifiable/Attainment
Doddridge County |  | Unclassifiable/Attainment
Fayette County |  | Unclassifiable/Attainment
Gilmer County |  | Unclassifiable/Attainment
Grant County |  | Unclassifiable/Attainment
Greenbrier County |  | Unclassifiable/Attainment
Hampshire County |  | Unclassifiable/Attainment
Hancock County |  | Unclassifiable/Attainment
Hardy County |  | Unclassifiable/Attainment
Harrison County |  | Unclassifiable/Attainment
Jackson County |  | Unclassifiable/Attainment
Jefferson County |  | Unclassifiable/Attainment
Kanawha County |  | Unclassifiable/Attainment
Lewis County |  | Unclassifiable/Attainment
Lincoln County |  | Unclassifiable/Attainment
Logan County |  | Unclassifiable/Attainment
McDowell County |  | Unclassifiable/Attainment
Marion County |  | Unclassifiable/Attainment
Marshall County |  | Unclassifiable/Attainment
Mason County |  | Unclassifiable/Attainment
Mercer County |  | Unclassifiable/Attainment
Mineral County |  | Unclassifiable/Attainment
Mingo County |  | Unclassifiable/Attainment
Monongalia County |  | Unclassifiable/Attainment
Monroe County |  | Unclassifiable/Attainment
Morgan County |  | Unclassifiable/Attainment
Nicholas County |  | Unclassifiable/Attainment
Ohio County |  | Unclassifiable/Attainment
Pendleton County |  | Unclassifiable/Attainment
Pleasants County |  | Unclassifiable/Attainment
Pocahontas County |  | Unclassifiable/Attainment
Preston County |  | Unclassifiable/Attainment
Putnam County |  | Unclassifiable/Attainment
Raleigh County |  | Unclassifiable/Attainment
Randolph County |  | Unclassifiable/Attainment
Ritchie County |  | Unclassifiable/Attainment
Roane County |  | Unclassifiable/Attainment
Summers County |  | Unclassifiable/Attainment
Taylor County |  | Unclassifiable/Attainment
Tucker County |  | Unclassifiable/Attainment
Tyler County |  | Unclassifiable/Attainment
Upshur County |  | Unclassifiable/Attainment
Wayne County |  | Unclassifiable/Attainment
Webster County |  | Unclassifiable/Attainment
Wetzel County |  | Unclassifiable/Attainment
Wirt County |  | Unclassifiable/Attainment
Wood County |  | Unclassifiable/Attainment
Wyoming County |  | Unclassifiable/Attainment
¹ Includes any Indian country located in each county or area, unless otherwise noted.
² This date is July 20, 2012, unless otherwise noted.

51. Section 81.350 is amended as follows:

a. By revising the table heading for “Wisconsin—Ozone (8-Hour Standard)” to read “Wisconsin—1997 8-Hour Ozone NAAQS (Primary and Secondary)”

b. By adding a new table entitled “Wisconsin—2008 8-Hour Ozone NAAQS (Primary and Secondary)” following the newly designated table “Wisconsin—1997 8-Hour Ozone NAAQS (Primary and Secondary)” to read as follows:

§ 81.350 Wisconsin.

* * * * *

Wisconsin—2008 8-Hour Ozone NAAQS
[Primary and secondary]
Designated area | Designation: Date ¹ | Designation: Type | Classification: Date ¹ | Classification: Type
Sheboygan County, WI: ² |  | Nonattainment |  | Marginal.
Sheboygan County
Adams County ³ |  | Unclassifiable/Attainment
Ashland County ³ |  | Unclassifiable/Attainment
Barron County ³ |  | Unclassifiable/Attainment
Bayfield County ³ |  | Unclassifiable/Attainment
Brown County ³ |  | Unclassifiable/Attainment
Buffalo County ³ |  | Unclassifiable/Attainment
Burnett County ³ |  | Unclassifiable/Attainment
Calumet County ³ |  | Unclassifiable/Attainment
Chippewa County ³ |  | Unclassifiable/Attainment
Clark County ³ |  | Unclassifiable/Attainment
Columbia County ³ |  | Unclassifiable/Attainment
Crawford County ³ |  | Unclassifiable/Attainment
Dane County ³ |  | Unclassifiable/Attainment
Dodge County ³ |  | Unclassifiable/Attainment
Door County ³ |  | Unclassifiable/Attainment
Douglas County ³ |  | Unclassifiable/Attainment
Dunn County ³ |  | Unclassifiable/Attainment
Eau Claire County ³ |  | Unclassifiable/Attainment
Florence County ³ |  | Unclassifiable/Attainment
Fond du Lac County ³ |  | Unclassifiable/Attainment
Forest County ³ |  | Unclassifiable/Attainment
Grant County ³ |  | Unclassifiable/Attainment
Green County ³ |  | Unclassifiable/Attainment
Green Lake County ³ |  | Unclassifiable/Attainment
Iowa County ³ |  | Unclassifiable/Attainment
Iron County ³ |  | Unclassifiable/Attainment
Jackson County ³ |  | Unclassifiable/Attainment
Jefferson County ³ |  | Unclassifiable/Attainment
Juneau County ³ |  | Unclassifiable/Attainment
Kewaunee County ³ |  | Unclassifiable/Attainment
La Crosse County ³ |  | Unclassifiable/Attainment
Lafayette County ³ |  | Unclassifiable/Attainment
Langlade County ³ |  | Unclassifiable/Attainment
Lincoln County ³ |  | Unclassifiable/Attainment
Manitowoc County ³ |  | Unclassifiable/Attainment
Marathon County ³ |  | Unclassifiable/Attainment
Marinette County ³ |  | Unclassifiable/Attainment
Marquette County ³ |  | Unclassifiable/Attainment
Menominee County ³ |  | Unclassifiable/Attainment
Milwaukee County ³ |  | Unclassifiable/Attainment
Monroe County ³ |  | Unclassifiable/Attainment
Oconto County ³ |  | Unclassifiable/Attainment
Oneida County ³ |  | Unclassifiable/Attainment
Outagamie County ³ |  | Unclassifiable/Attainment
Ozaukee County ³ |  | Unclassifiable/Attainment
Pepin County ³ |  | Unclassifiable/Attainment
Pierce County ³ |  | Unclassifiable/Attainment
Polk County ³ |  | Unclassifiable/Attainment
Portage County ³ |  | Unclassifiable/Attainment
Price County ³ |  | Unclassifiable/Attainment
Racine County ³ |  | Unclassifiable/Attainment
Richland County ³ |  | Unclassifiable/Attainment
Rock County ³ |  | Unclassifiable/Attainment
Rusk County ³ |  | Unclassifiable/Attainment
St. Croix County ³ |  | Unclassifiable/Attainment
Sauk County ³ |  | Unclassifiable/Attainment
Sawyer County ³ |  | Unclassifiable/Attainment
Shawano County ³ |  | Unclassifiable/Attainment
Taylor County ³ |  | Unclassifiable/Attainment
Trempealeau County ³ |  | Unclassifiable/Attainment
Vernon County ³ |  | Unclassifiable/Attainment
Vilas County ³ |  | Unclassifiable/Attainment
Walworth County ³ |  | Unclassifiable/Attainment
Washburn County ³ |  | Unclassifiable/Attainment
Washington County ³ |  | Unclassifiable/Attainment
Waukesha County ³ |  | Unclassifiable/Attainment
Waupaca County ³ |  | Unclassifiable/Attainment
Waushara County ³ |  | Unclassifiable/Attainment
Winnebago County ³ |  | Unclassifiable/Attainment
Wood County ³ |  | Unclassifiable/Attainment
¹ This date is July 20, 2012, unless otherwise noted.
² Excludes Indian country located in each area, unless otherwise noted.
³ Includes any Indian country in each county or area, unless otherwise specified.

52. Section 81.351 is amended as follows:

a. By revising the table heading for “Wyoming—Ozone (8-Hour Standard)” to read “Wyoming—1997 8-Hour Ozone NAAQS (Primary and Secondary)”

b. By adding a new table entitled “Wyoming—2008 8-Hour Ozone NAAQS (Primary and Secondary)” following the newly designated table “Wyoming—1997 8-Hour Ozone NAAQS (Primary and Secondary)” to read as follows:

§ 81.351 Wyoming.

* * * * *

Wyoming—2008 8-Hour Ozone NAAQS
[Primary and secondary]
Designated area | Designation: Date ¹ | Designation: Type | Classification: Date ¹ | Classification: Type
Upper Green River Basin Area, WY: ² |  | Nonattainment |  | Marginal.
Lincoln County (part)
The area of the county north and east of the boundary defined by a line starting at the point defined by the intersection of the southwest corner Section 30 Range (R) 115 West Township (T) 27N and the northwest corner of Section 31 R 115 West T27N of Sublette County at Sublette County's border with Lincoln County. From this point the boundary moves to the west 500 feet to Aspen Creek. The boundary follows the centerline of Aspen Creek downstream to the confluence of Aspen Creek and Fontenelle Creek (in R116W T26N, Section 1). From this point the boundary moves generally to the south along the centerline of Fontenelle Creek to the confluence of Fontenelle Creek and Roney Creek (in R115W T24N Section 6). From the confluence, the boundary moves generally to the east along the centerline of Fontenelle Creek and into the Fontenelle Reservoir (in R112W T24N Section 6). The boundary moves east southeast along the centerline of the Fontenelle Reservoir and then toward the south along the centerline of the Green River to where the Green River in R111W T24N Section 31 crosses into Sweetwater County.
Sublette County
Sweetwater County (part)
The area of the county west and north of the boundary which begins at the midpoint of the Green River, where the Green River enters Sweetwater County from Lincoln County in R111W T24N Section 31. From this point, the boundary follows the center of the channel of the Green River generally to the south and east to the confluence of the Green River and the Big Sandy River (in R109W T22N Section 28). From this point, the boundary moves generally north and east along the centerline of the Big Sandy River to the confluence of the Big Sandy River with Little Sandy Creek (in R106W T25N Section 33). The boundary continues generally toward the northeast along the centerline of Little Sandy Creek to the confluence of Little Sandy Creek and Pacific Creek (in R106W T25N Section 24). From this point, the boundary moves generally to the east and north along the centerline of Pacific Creek to the confluence of Pacific Creek and Whitehorse Creek (in R103W T26N Section 10). From this point the boundary follows the centerline of Whitehorse Creek generally to the northeast until it reaches the eastern boundary of Section 1 R103W T26N. From the point where Whitehorse Creek crosses the eastern section line of Section 1 R103W T26N, the boundary moves straight north along the section line to the southeast corner of Section 36 R103W T27N in Sublette County where the boundary ends.
Rest of State and Rest of Indian Country |  | Unclassifiable/Attainment
¹ This date is July 20, 2012, unless otherwise noted.
² Excludes Indian country located in each area, unless otherwise noted.

53. Section 81.352 is amended as follows:

a. By revising the table heading for “American Samoa—Ozone (8-Hour Standard)” to read “American Samoa—1997 8-Hour Ozone NAAQS (Primary and Secondary)”

b. By adding a new table entitled “American Samoa—2008 8-Hour Ozone NAAQS (Primary and Secondary)” following the newly designated table “American Samoa—1997 8-Hour Ozone NAAQS (Primary and Secondary)” to read as follows:

§ 81.352 American Samoa.

* * * * *

American Samoa—2008 8-Hour Ozone NAAQS
[Primary and secondary]
Designated area | Designation: Date ¹ | Designation: Type | Classification: Date ¹ | Classification: Type
Territory Wide and Any Areas of Indian Country:
American Samoa |  | Unclassifiable/Attainment
¹ This date is July 20, 2012, unless otherwise noted.

54. Section 81.353 is amended as follows:

a. By revising the table heading for “Guam—Ozone (8-Hour Standard)” to read “Guam—1997 8-Hour Ozone NAAQS (Primary and Secondary)”

b. By adding a new table entitled “Guam—2008 8-Hour Ozone NAAQS (Primary and Secondary)” following the newly designated table “Guam—1997 8-Hour Ozone NAAQS (Primary and Secondary)” to read as follows:

§ 81.353 Guam.

* * * * *

Guam—2008 8-Hour Ozone NAAQS
[Primary and secondary]
Designated area | Designation: Date ¹ | Designation: Type | Classification: Date ¹ | Classification: Type
Territory Wide and Any Areas of Indian Country:
Guam |  | Unclassifiable/Attainment
¹ This date is July 20, 2012, unless otherwise noted.

55. Section 81.354 is amended as follows:

a. By revising the table heading for “Northern Mariana Islands—Ozone (8-Hour Standard)” to read “Northern Mariana Islands—1997 8-Hour Ozone NAAQS (Primary and Secondary)”

b. By adding a new table entitled “Northern Mariana Islands—2008 8-Hour Ozone NAAQS (Primary and Secondary)” following the newly designated table “Northern Mariana Islands—1997 8-Hour Ozone NAAQS (Primary and Secondary)” to read as follows:

§ 81.354 Northern Mariana Islands.

* * * * *

Northern Mariana Islands—2008 8-Hour Ozone NAAQS
[Primary and secondary]
Designated area | Designation: Date ¹ | Designation: Type | Classification: Date ¹ | Classification: Type
Northern Mariana Islands and Any Areas of Indian Country |  | Unclassifiable/Attainment
¹ This date is July 20, 2012, unless otherwise noted.

56. Section 81.355 is amended as follows:

a. By revising the table heading for “Puerto Rico—Ozone (8-Hour Standard)” to read “Puerto Rico—1997 8-Hour Ozone NAAQS (Primary and Secondary)”

b. By adding a new table entitled “Puerto Rico—2008 8-Hour Ozone NAAQS (Primary and Secondary)” following the newly designated table “Puerto Rico—1997 8-Hour Ozone NAAQS (Primary and Secondary)” to read as follows:

§ 81.355 Puerto Rico.

* * * * *

Puerto Rico—2008 8-Hour Ozone NAAQS
[Primary and secondary]
Designated area ¹ | Designation: Date ² | Designation: Type | Classification: Date ² | Classification: Type
All of Puerto Rico AQCR 244 |  | Unclassifiable/Attainment
¹ Includes any Indian country in each county or area, unless otherwise specified.
² This date is July 20, 2012, unless otherwise noted.

57. Section 81.356 is amended as follows:

a. By revising the table heading for “Virgin Islands—Ozone (8-Hour Standard)” to read “Virgin Islands—1997 8-Hour Ozone NAAQS (Primary and Secondary)”

b. By adding a new table entitled “Virgin Islands—2008 8-Hour Ozone NAAQS (Primary and Secondary)” following the newly designated table “Virgin Islands—1997 8-Hour Ozone NAAQS (Primary and Secondary)” to read as follows:

§ 81.356 Virgin Islands.

* * * * *

Virgin Islands—2008 8-Hour Ozone NAAQS
[Primary and secondary]
Designated area | Designation: Date ¹ | Designation: Type | Classification: Date ¹ | Classification: Type
All of Virgin Islands AQCR 247: ² |  | Unclassifiable/Attainment
¹ This date is July 20, 2012, unless otherwise noted.
² Includes any Indian country in each county or area, unless otherwise specified.

[FR Doc. 2012-11618 Filed 5-18-12; 8:45 am]

BILLING CODE 6560-50-P